FEDERAL COMMUNICATIONS COMMISSION

47 CFR Ch. I

Unified Agenda of Federal Regulatory and Deregulatory Actions—Fall 2022

AGENCY: Federal Communications Commission.

ACTION: Semiannual Regulatory Agenda.

SUMMARY: Twice a year, in spring and fall, the Commission publishes in the Federal Register a list in the Unified Agenda of those major items and other significant proceedings under development or review that pertain to the Regulatory Flexibility Act (U.S.C. 602). The Unified Agenda also provides the Code of Federal Regulations citations and legal authorities that govern these proceedings. The complete Unified Agenda will be published on the internet in a searchable format at www.reginfo.gov.

ADDRESSES: Federal Communications Commission, 45 L Street NE, Washington, DC 20554.

FOR FURTHER INFORMATION CONTACT: Maura McGowan, Telecommunications Policy Specialist, Federal Communications Commission, 45 L Street NE, Washington, DC 20554, (202) 418-0990.

SUPPLEMENTARY INFORMATION:

Unified Agenda of Major and Other Significant Proceedings

The Commission encourages public participation in its rulemaking process. To help keep the public informed of significant rulemaking proceedings, the Commission has prepared a list of important proceedings now in progress. The General Services Administration publishes the Unified Agenda in the Federal Register in the spring and fall of each year.

The following terms may be helpful in understanding the status of the proceedings included in this report:

Docket Number—assigned to a proceeding if the Commission has issued either a Notice of Proposed Rulemaking or a Notice of Inquiry concerning the matter under consideration. The Commission has used docket numbers since January 1, 1978. Docket numbers consist of the last two digits of the calendar year in which the docket was established plus a sequential number that begins at 1 with the first docket initiated during a calendar year (e.g., Docket No. 15-1 or Docket No. 17-1). The abbreviation for the responsible bureau usually precedes the docket number, as in “MB Docket No. 17-289,” which indicates that the responsible bureau is the Media Bureau. A docket number consisting of only five digits (e.g., Docket No. 29622) indicates that the docket was established before January 1, 1978.

Notice of Inquiry (NOI)—issued by the Commission when it is seeking information on a broad subject or trying to generate ideas on a given topic. A comment period is specified during which all interested parties may submit comments.

Notice of Proposed Rulemaking (NPRM)—issued by the Commission when it is proposing a specific change to Commission rules and regulations. Before any changes are actually made, interested parties may submit written comments on the proposed revisions.

Further Notice of Proposed Rulemaking (FNPRM)—issued by the Commission when additional comment in the proceeding is sought.

Memorandum Opinion and Order (MO&O)—issued by the Commission to deny a petition for rulemaking, conclude an inquiry, modify a decision, or address a petition for reconsideration of a decision.

Rulemaking (RM) Number—assigned to a proceeding after the appropriate bureau or office has reviewed a petition for rulemaking, but before the Commission has taken action on the petition.

Report and Order (R&O)—issued by the Commission to state a new or amended rule or state that the Commission rules and regulations will not be revised.

Marlene H. Dortch,
Secretary, Federal Communications Commission.

Consumer and Governmental Affairs Bureau—Long-Term Actions
Sequence No. | Title | Regulation Identifier No.
508 | Rules and Regulations Implementing the Telephone Consumer Protection Act (TCPA) of 1991 (CG Docket No. 02-278) | 3060-AI14
509 | Rules and Regulations Implementing Section 225 of the Communications Act (Telecommunications Relay Service) (CG Docket No. 03-123) | 3060-AI15
510 | Structure and Practices of the Video Relay Service (VRS) Program (CG Docket No. 10-51) | 3060-AJ42
511 | Implementation of the Middle Class Tax Relief and Job Creation Act of 2012/Establishment of a Public Safety Answering Point Do-Not-Call Registry (CG Docket No. 12-129) | 3060-AJ84
512 | Implementation of Sections 716 and 717 of the Communications Act of 1934, as Enacted by the Twenty-First Century Communications and Video Accessibility Act of 2010 (CG Docket No. 10-213) | 3060-AK00
513 | Misuse of Internet Protocol (IP) Captioned Telephone Service; Telecommunications Relay Services and Speech-to-Speech Services; CG Docket No. 13-24 | 3060-AK01
514 | Advanced Methods to Target and Eliminate Unlawful Robocalls (CG Docket No. 17-59) | 3060-AK62
515 | Empowering Broadband Consumers Through Transparency (CG Docket No 02-278) | 3060-AL33
516 | Targeting and Eliminating Unlawful Text Messages, CG Docket 21-403, Notice of Proposed Rulemaking | 3060-AL49

Economics—Long-Term Actions
Sequence No. | Title | Regulation Identifier No.
517 | Development of Nationwide Broadband Data to Evaluate Reasonable and Timely Deployment of Advanced Services to All Americans | 3060-AJ15
518 | Expanding the Economic and Innovation Opportunities of Spectrum Through Incentive Auctions (GN Docket No. 12-268) | 3060-AJ82
519 | Broadband Data Collection | 3060-AL42

Office of Engineering and Technology—Long-Term Actions
Sequence No. | Title | Regulation Identifier No.
520 | Use of the 5.850-5.925 GHz Band (ET Docket No. 19-138) | 3060-AK96
521 | Unlicensed White Space Device Operations in the Television Bands (ET Docket No. 20-36) | 3060-AL22
522 | Protecting Against National Security Threats to the Communications Supply Chain Through the Equipment Authorization and Competitive Bidding Programs; ET Docket No. 21-232, EA Docket No. 21-233 | 3060-AL23
523 | Wireless Microphones in the TV Bands (ET Docket No. 21-115), 600 MHz Guard Band, 600 MHz Duplex Gap, and the 941.5-944 MHz, 944-952 MHz, 952.850-956.250 MHz, 956.45-959.85 MHz, 1435-1525 MHz | 3060-AL27
524 | FCC Seeks to Enable State-of-the-Art Radar Sensors in 60 GHz Band | 3060-AL36
525 | FCC Proposes to Update Equipment Authorization Rules to Incorporate New and Revised Industry Standards | 3060-AL39
526 | Allocation of Spectrum for Non-Federal Space Launch Operations (ET Docket No. 13-115) | 3060-AL44

Office of Engineering and Technology—Completed Actions
Sequence No. | Title | Regulation Identifier No.
527 | FCC Looks to Open the Door to New Wireless Microphone Technologies (ET Docket No. 21-115 & RM-11821 | 3060-AL45

International Bureau—Long-Term Actions
Sequence No. | Title | Regulation Identifier No.
528 | Update to Parts 2 and 25 Concerning NonGeostationary, Fixed-Satellite Service Systems, and Related Matters: IB Docket No. I6-408 | 3060-AK59
529 | Amendment of Parts 2 and 25 of the FCC Rules to Facilitate the Use of Earth Stations in Motion Communicating With Geostationary Orbit Space Stations in FSS Bands: IB Docket No. 17-95 | 3060-AK84
530 | Further Streamlining Part 25 Rules Governing Satellite Services: IB Docket No. 18-314 | 3060-AK87
531 | Facilitating the Communications of Earth Stations in Motion With Non-Geostationary Orbit Space Stations: IB Docket No. 18-315 | 3060-AK89
532 | Space Innovation; Mitigation of Orbital Debris in the New Space Age: IB Docket Nos. 18-313, 22-271 | 3060-AK90
533 | Process Reform for Executive Branch Review of Certain FCC Applications and Petitions Involving Foreign Ownership (IB Docket No. 16-155) | 3060-AL12
534 | Parts 2 and 25 to Enable GSO FSS in the 17.3-17.8 GHz Band, Modernize Rules for 17/24 GHz BSS Space Stations, and Establish Off-Axis Uplink Power Limits for Extended Ka-Band FSS (IB Doc. No. 20-330) | 3060-AL28
535 | Revising Spectrum Sharing Rules for Non-Geostationary Orbit, Fixed-Satellite Service Systems: IB Docket No. 21-456 | 3060-AL41

Media Bureau—Long-Term Actions
Sequence No. | Title | Regulation Identifier No.
536 | Revision of EEO Rules and Policies (MM Docket No. 98-204) | 3060-AH95
537 | Establishment of Rules for Digital Low-Power Television, Television Translator, and Television Booster Stations (MB Docket No. 03-185) | 3060-AI38
538 | Authorizing Permissive Use of the “Next Generation” Broadcast Television Standard (GN Docket No. 16-142) | 3060-AK56
539 | 2018 Quadrennial Regulatory Review of the Commission's Broadcast Ownership Rules (MB Docket 18-349) | 3060-AK77
540 | Equal Employment Opportunity Enforcement (MB Docket 19-177) | 3060-AK86
541 | Duplication of Programming on Commonly Owned Radio Stations (MB Docket No. 19-310) | 3060-AL19
542 | Sponsorship Identification Requirements for Foreign Government-Provided Programming (MB Docket No. 20-299) | 3060-AL20
543 | FM Broadcast Booster Stations (MB Docket 20-401) | 3060-AL21
544 | Update to Publication for Television Broadcast Station DMA Determinations for Cable and Satellite Carriage (MB Docket No. 22-239) | 3060-AL46

Office of Managing Director—Long-Term Actions
Sequence No. | Title | Regulation Identifier No.
545 | Assessment and Collection of Regulatory Fees | 3060-AK64

Public Safety and Homeland Security Bureau—Long-Term Actions
Sequence No. | Title | Regulation Identifier No.
546 | Wireless E911 Location Accuracy Requirements: PS Docket No. 07-114 | 3060-AJ52
547 | Improving Outage Reporting for Submarine Cables and Enhancing Submarine Cable Outage Data; GN Docket No. 15-206 | 3060-AK39
548 | Amendments to Part 4 of the Commission's Rules Concerning Disruptions to Communications: PS Docket No. 15-80 | 3060-AK40
549 | New Part 4 of the Commission's Rules Concerning Disruptions to Communications; ET Docket No. 04-35 | 3060-AK41
550 | Wireless Emergency Alerts (WEA): PS Docket No. 15-91 | 3060-AK54
551 | 911 Fee Diversion Rulemaking: PS Docket Nos. 20-291, 09-14 | 3060-AL31
552 | Resilient Networks, Amendments to Part 4 of the Commission's Rules Concerning Disruptions to Communications; PS Docket No 21-346, PS Docket No. 15-80, ET Docket No. 04-35. | 3060-AL43

Public Safety and Homeland Security BUREAU—Completed Actions
Sequence No. | Title | Regulation Identifier No.
553 | Recommendations of the Independent Panel Reviewing the Impact of Hurricane Katrina on Communications Networks | 3060-AI78

Wireless Telecommunications Bureau—Long-Term Actions
Sequence No. | Title | Regulation Identifier No.
554 | Amendment of Parts 1, 2, 22, 24, 27, 90, and 95 of the Commission's Rules to Improve Wireless Coverage Through the Use of Signal Boosters (WT Docket No. 10-4) | 3060-AJ87
555 | Promoting Technological Solutions to Combat Wireless Contraband Device Use in Correctional Facilities; GN Docket No. 13-111 | 3060-AK06
556 | Promoting Investment in the 3550-3700 MHz Band; GN Docket No. 17-258 | 3060-AK12
557 | Updating Part 1 Competitive Bidding Rules (WT Docket No. 14-170) | 3060-AK28
558 | Use of Spectrum Bands Above 24 GHz for Mobile Services—Spectrum Frontiers: WT Docket 10-112 | 3060-AK44
559 | Expanding Flexible Use of the 3.7 to 4.2 GHz Band: GN Docket No. 18-122 | 3060-AK76
560 | Amendment of the Commission's Rules to Promote Aviation Safety: WT Docket No. 19-140 | 3060-AK92
561 | Implementation of State and Local Governments' Obligation to Approve Certain Wireless Facility Modification Requests Under Section 6409(a) of the Spectrum Act of 2012 (WT Docket No.19-250) | 3060-AL29
562 | Expanding Flexible Use of the 12.2-12.7 GHz Band, et al., WT Docket No. 20-443, et al | 3060-AL40

Wireline Competition BUREAU—Long-Term Actions
Sequence No. | Title | Regulation Identifier No.
563 | Local Telephone Networks That LECs Must Make Available to Competitors | 3060-AH44
564 | Jurisdictional Separations | 3060-AJ06
565 | Rates for Inmate Calling Services; WC Docket No. 12-375 | 3060-AK08
566 | Comprehensive Review of the Part 32 Uniform System of Accounts (WC Docket No. 14-130) | 3060-AK20
567 | Restoring Internet Freedom (WC Docket No. 17-108); Protecting and Promoting the Open Internet (GN Docket No. 14-28) | 3060-AK21
568 | Technology Transitions; GN Docket No 13-5, WC Docket No. 05-25; Accelerating Wireline Broadband Deployment by Removing Barriers to Infrastructure Investment; WC Docket No. 17-84 | 3060-AK32
569 | Numbering Policies for Modern Communications, WC Docket No. 13-97 | 3060-AK36
570 | Implementation of the Universal Service Portions of the 1996 Telecommunications Act | 3060-AK57
571 | Toll Free Assignment Modernization and Toll Free Service Access Codes: WC Docket No. 17-192, CC Docket No. 95-155 | 3060-AK91
572 | Establishing the Digital Opportunity Data Collection; WC Docket Nos. 19-195 and 11-10 | 3060-AK93
573 | Call Authentication Trust Anchor | 3060-AL00
574 | Implementation of the National Suicide Improvement Act of 2018 | 3060-AL01
575 | Modernizing Unbundling and Resale Requirements in an Era of Next-Generation Networks and Services | 3060-AL02
576 | Establishing a 5G Fund for Rural America; GN Docket No. 20-32 | 3060-AL15
577 | Improving Competitive Broadband Access to Multiple Tenant Environments | 3060-AL35

Wireline Competition Bureau—Completed Actions
Sequence No. | Title | Regulation Identifier No.
578 | IP-Enabled Services; WC Docket No. 04-36 | 3060-AI48

FEDERAL COMMUNICATIONS COMMISSION (FCC)

Consumer and Governmental Affairs Bureau

Long-Term Actions

508. Rules and Regulations Implementing the Telephone Consumer Protection Act (TCPA) of 1991 (CG Docket No. 02-278) [3060-AI14]

Legal Authority: 47 U.S.C. 227

Abstract: In this docket, the Commission considers rules and policies to implement the Telephone Consumer Protection Act of 1991 (TCPA). The TCPA places requirements on robocalls (calls using an automatic telephone dialing system, an autodialer, a prerecorded or, an artificial voice), telemarketing calls, and unsolicited fax advertisements.

Timetable:

Action | Date | FR Cite
NPRM | 10/08/02 | 67 FR 62667
FNPRM | 04/03/03 | 68 FR 16250
Order | 07/25/03 | 68 FR 44144
Order Effective | 08/25/03
Order on Reconsideration | 08/25/03 | 68 FR 50978
Order | 10/14/03 | 68 FR 59130
FNPRM | 03/31/04 | 69 FR 16873
Order | 10/08/04 | 69 FR 60311
Order | 10/28/04 | 69 FR 62816
Order on Reconsideration | 04/13/05 | 70 FR 19330
Order | 06/30/05 | 70 FR 37705
NPRM | 12/19/05 | 70 FR 75102
Public Notice | 04/26/06 | 71 FR 24634
Order | 05/03/06 | 71 FR 25967
NPRM | 12/14/07 | 72 FR 71099
Declaratory Ruling | 02/01/08 | 73 FR 6041
R&O | 07/14/08 | 73 FR 40183
Order on Reconsideration | 10/30/08 | 73 FR 64556
NPRM | 03/22/10 | 75 FR 13471
R&O | 06/11/12 | 77 FR 34233
Public Notice | 06/30/10 | 75 FR 34244
Public Notice (Reconsideration Petitions Filed) | 10/03/12 | 77 FR 60343
Announcement of Effective Date | 10/16/12 | 77 FR 63240
Opposition End Date | 10/18/12
Rule Corrections | 11/08/12 | 77 FR 66935
Declaratory Ruling (release date) | 11/29/12
Declaratory Ruling (release date) | 05/09/13
Declaratory Ruling and Order | 10/09/15 | 80 FR 61129
NPRM | 05/20/16 | 81 FR 31889
Declaratory Ruling | 07/05/16
R&O | 11/16/16 | 81 FR 80594
Public Notice | 06/28/18 | 83 FR 26284
Public Notice | 10/03/18
Declaratory Ruling | 12/06/19
Declaratory Ruling | 12/09/19
Order | 03/17/20
Declaratory Ruling | 03/20/20
Declaratory Ruling | 06/25/20
Declaratory Ruling and Order | 06/25/20
Order on Reconsideration | 08/28/20
Declaratory Ruling | 09/04/20
Declaratory Ruling | 09/21/20
NPRM | 10/09/20 | 85 FR 64091
Public Notice | 12/17/20
Declaratory Ruling | 12/18/20
Declaratory Ruling | 01/15/21
Order on Recon | 02/12/21 | 86 FR 9299
R&O | 02/25/21 | 86 FR 11443
Public Notice (Reconsideration Petitions Filed) | 04/12/21 | 86 FR 18934
Next Action Undetermined

Regulatory Flexibility Analysis Required: Yes.

Agency Contact: Kristi Thornton, Deputy Division Chief, Federal Communications Commission, 45 L Street NE, Washington, DC 20554, Phone: 202 418-2467, Email: kristi.thornton@fcc.gov.

RIN: 3060-AI14

509. Rules and Regulations Implementing Section 225 of the Communications Act (Telecommunications Relay Service) (CG Docket No. 03-123) [3060-AI15]

Legal Authority: 47 U.S.C. 151; 47 U.S.C. 154; 47 U.S.C. 225

Abstract: This proceeding continues the Commission's inquiry into improving the quality of telecommunications relay service (TRS) and furthering the goal of functional equivalency, consistent with Congress' mandate that TRS regulations encourage the use of existing technology and not discourage or impair the development of new technology. In this docket, the Commission explores ways to improve emergency preparedness for TRS facilities and services, new TRS technologies, public access to information and outreach, and issues related to payments from the Interstate TRS Fund.

Timetable:

Action | Date | FR Cite
NPRM | 08/25/03 | 68 FR 50993
R&O, Order on Reconsideration | 09/01/04 | 69 FR 53346
FNPRM | 09/01/04 | 69 FR 53382
Public Notice | 02/17/05 | 70 FR 8034
Declaratory Ruling/Interpretation | 02/25/05 | 70 FR 9239
Public Notice | 03/07/05 | 70 FR 10930
Order | 03/23/05 | 70 FR 14568
Public Notice/Announcement of Date | 04/06/05 | 70 FR 17334
Order | 07/01/05 | 70 FR 38134
Order on Reconsideration | 08/31/05 | 70 FR 51643
R&O | 08/31/05 | 70 FR 51649
Order | 09/14/05 | 70 FR 54294
Order | 09/14/05 | 70 FR 54298
Public Notice | 10/12/05 | 70 FR 59346
R&O/Order on Reconsideration | 12/23/05 | 70 FR 76208
Order | 12/28/05 | 70 FR 76712
Order | 12/29/05 | 70 FR 77052
NPRM | 02/01/06 | 71 FR 5221
Declaratory Ruling/Clarification | 05/31/06 | 71 FR 30818
FNPRM | 05/31/06 | 71 FR 30848
FNPRM | 06/01/06 | 71 FR 31131
Declaratory Ruling/Dismissal of Petition | 06/21/06 | 71 FR 35553
Clarification | 06/28/06 | 71 FR 36690
Declaratory Ruling on Reconsideration | 07/06/06 | 71 FR 38268
Order on Reconsideration | 08/16/06 | 71 FR 47141
MO&O | 08/16/06 | 71 FR 47145
Clarification | 08/23/06 | 71 FR 49380
FNPRM | 09/13/06 | 71 FR 54009
Final Rule; Clarification | 02/14/07 | 72 FR 6960
Order | 03/14/07 | 72 FR 11789
R&O | 08/06/07 | 72 FR 43546
Public Notice | 08/16/07 | 72 FR 46060
Order | 11/01/07 | 72 FR 61813
Public Notice | 01/04/08 | 73 FR 863
R&O/Declaratory Ruling | 01/17/08 | 73 FR 3197
Order | 02/19/08 | 73 FR 9031
Order | 04/21/08 | 73 FR 21347
R&O | 04/21/08 | 73 FR 21252
Order | 04/23/08 | 73 FR 21843
Public Notice | 04/30/08 | 73 FR 23361
Order | 05/15/08 | 73 FR 28057
Declaratory Ruling | 07/08/08 | 73 FR 38928
FNPRM | 07/18/08 | 73 FR 41307
R&O | 07/18/08 | 73 FR 41286
Public Notice | 08/01/08 | 73 FR 45006
Public Notice | 08/05/08 | 73 FR 45354
Public Notice | 10/10/08 | 73 FR 60172
Order | 10/23/08 | 73 FR 63078
2nd R&O and Order on Reconsideration | 12/30/08 | 73 FR 79683
Order | 05/06/09 | 74 FR 20892
Public Notice | 05/07/09 | 74 FR 21364
NPRM | 05/21/09 | 74 FR 23815
Public Notice | 05/21/09 | 74 FR 23859
Public Notice | 06/12/09 | 74 FR 28046
Order | 07/29/09 | 74 FR 37624
Public Notice | 08/07/09 | 74 FR 39699
Order | 09/18/09 | 74 FR 47894
Order | 10/26/09 | 74 FR 54913
Public Notice | 05/12/10 | 75 FR 26701
Order Denying Stay Motion (Release Date) | 07/09/10
Order | 08/13/10 | 75 FR 49491
Order | 09/03/10 | 75 FR 54040
NPRM | 11/02/10 | 75 FR 67333
NPRM | 05/02/11 | 76 FR 24442
Order | 07/25/11 | 76 FR 44326
Final Rule (Order) | 09/27/11 | 76 FR 59551
Final Rule; Announcement of Effective Date | 11/22/11 | 76 FR 72124
Proposed Rule (Public Notice) | 02/28/12 | 77 FR 11997
Proposed Rule (FNPRM) | 02/01/12 | 77 FR 4948
First R&O | 07/25/12 | 77 FR 43538
Public Notice | 10/29/12 | 77 FR 65526
Order on Reconsideration | 12/26/12 | 77 FR 75894
Order | 02/05/13 | 78 FR 8030
Order (Interim Rule) | 02/05/13 | 78 FR 8032
NPRM | 02/05/13 | 78 FR 8090
Announcement of Effective Date | 03/07/13 | 78 FR 14701
NPRM Comment Period End | 03/13/13
FNPRM | 07/05/13 | 78 FR 40407
FNPRM Comment Period End | 09/18/13
R&O | 07/05/13 | 78 FR 40582
R&O | 08/15/13 | 78 FR 49693
FNPRM | 08/15/13 | 78 FR 49717
FNPRM Comment Period End | 09/30/13
R&O | 08/30/13 | 78 FR 53684
FNPRM | 09/03/13 | 78 FR 54201
NPRM | 10/23/13 | 78FR 63152
FNPRM Comment Period End | 11/18/13
Petiton for Reconsideration; Request for Comment | 12/16/13 | 78 FR 76096
Petition for Reconsideration; Request for Comment | 12/16/13 | 78 FR 76097
Request for Clarification; Request for Comment; Correction | 12/30/13 | 78 FR 79362
Petition for Reconsideration Comment Period End | 01/10/14
NPRM Comment Period End | 01/21/14
Announcement of Effective Date | 07/11/14 | 79 FR 40003
Announcement of Effective Date | 08/28/14 | 79 FR 51446
Correction—Announcement of Effective Date | 08/28/14 | 79 FR 51450
Technical Amendments | 09/09/14 | 79 FR 53303
Public Notice | 09/15/14 | 79 FR 54979
R&O and Order | 10/21/14 | 79 FR 62875
FNPRM | 10/21/14 | 79 FR 62935
FNPRM Comment Period End | 12/22/14
Final Action (Announcement of Effective Date) | 10/30/14 | 79 FR 64515
Final Rule Effective | 10/30/14
FNPRM | 11/08/15 | 80 FR 72029
FNPRM Comment Period End | 01/01/16
Public Notice | 01/20/16 | 81 FR 3085
Public Notice Comment Period End | 02/16/16
R&O | 03/21/16 | 81 FR 14984
FNPRM | 08/24/16 | 81 FR 57851
FNPRM Comment Period End | 09/14/16
NOI and FNPRM | 04/12/17 | 82 FR 17613
NOI and FNPRM Comment Period End | 05/30/17
R&O | 04/13/17 | 82 FR 17754
R&O | 04/27/17 | 82 FR 19322
FNPRM | 04/27/17 | 82 FR 19347
FNPRM Comment Period End | 07/11/17
R&O | 06/23/17 | 82 FR 28566
Public Notice | 07/21/17 | 82 FR 33856
Public Notice—Correction | 07/25/17 | 82 FR 34471
Public Notice Comment Period End | 07/31/17
Public Notice—Correction Comment Period End | 08/17/17
R&O | 08/22/17 | 82 FR 39673
Announcement of Effective Date | 10/17/17 | 82 FR 48203
Public Notice; Petition for Reconsideration | 10/25/17 | 82 FR 49303
Oppositions Due Date | 11/20/17
R&O and Declaratory Ruling | 06/27/18 | 83 FR 30082
FNPRM | 07/18/18 | 83 FR 33899
FNPRM Comment Period End | 11/15/18
Public Notice | 08/23/18 | 83 FR 42630
Public Notice Opposition Period End | 09/17/18
Announcement of Effective Date | 02/04/19 | 84 FR 1409
R&O | 03/08/19 | 84 FR 8457
FNPRM | 03/14/19 | 84 FR 9276
FNPRM Comment Period End | 04/29/19
R&O | 06/06/19 | 84 FR 26364
FNPRM | 06/06/19 | 84 FR 26379
Petition for Recon Request for Comment | 06/18/19 | 84 FR 28264
Petition for Recon Comment Period End | 07/15/19
FNPRM Comment Period End | 08/05/19
R&O | 01/06/20 | 85 FR 462
R&O | 01/09/20 | 85 FR 1125
NPRM | 01/09/20 | 85 FR 1134
NPRM Comment Period End | 02/13/20
Announcement of Effective Date | 02/19/20 | 85 FR 9392
Final Rule; removal of compliance notices | 05/06/20 | 85 FR 26857
Report & Order | 05/08/20 | 85 FR 27309
Final Rule; correction | 08/26/20 | 85 FR 52489
R&O and Order on Recon | 10/14/20 | 85 FR 64971
Final Rule; announcement of effective and compliance dates | 10/23/20 | 85 FR 67447
FNPRM | 02/01/21 | 86 FR 7681
FNPRM Comment Period End | 04/02/21
Public Notice; Petition for Reconsideration | 02/22/21 | 86 FR 10458
Oppositions Due Date | 03/19/21
R&O | 02/23/21 | 86 FR 10844
NPRM | 03/19/21 | 86 FR 14859
NPRM Comment Period End | 05/03/21
NPRM | 06/04/21 | 86 FR 29969
NPRM Correction | 06/15/21 | 86 FR 31668
Order on Recon | 07/07/21 | 86 FR 35632
Public Notice | 07/15/21 | 86 FR 37328
NPRM Correction Comment Period End | 07/30/21
Public Notice Comment Period End | 08/09/21
Order on Recon; Correction | 10/05/21 | 86 FR 54871
NPRM | 10/05/21 | 86 FR 64440
NPRM Comment Period End | 01/18/22
Report & Order | 07/18/22 | 87 FR 42656
Report & Order | 09/21/22 | 87 FR 57645
Next Action Undetermined

Regulatory Flexibility Analysis Required: Yes.

Agency Contact: Eliot Greenwald, Deputy Chief, Disability Rights Office, Federal Communications Commission, 45 L Street NE, Washington, DC 20554, Phone: 202 418-2235, Email: eliot.greenwald@fcc.gov.

RIN: 3060-AI15

510. Structure and Practices of the Video Relay Service (VRS) Program (CG Docket No. 10-51) [3060-AJ42]

Legal Authority: 47 U.S.C. 151; 47 U.S.C. 154; 47 U.S.C. 225; 47 U.S.C. 303(r)

Abstract: The Commission takes a fresh look at its VRS rules to ensure that it is available to and used by the full spectrum of eligible users, encourages innovation, and is provided efficiently to be less susceptible to the waste, fraud, and abuse that have plagued the program and threatened its long-term viability. The Commission also considers the most effective and efficient way to make VRS available and to determine what is the most fair, efficient, and transparent cost-recovery methodology. In addition, the Commission looks at various ways to measure the quality of VRS so as to ensure a better consumer experience.

Timetable:

Action | Date | FR Cite
Declaratory Ruling | 05/07/10 | 75 FR 25255
Declaratory Ruling | 07/13/10 | 75 FR 39945
Order | 07/13/10 | 75 FR 39859
Notice of Inquiry | 07/19/10 | 75 FR 41863
NPRM | 08/23/10 | 75 FR 51735
Interim Final Rule | 02/15/11 | 76 FR 8659
Public Notice | 03/02/11 | 76 R 11462
R&O | 05/02/11 | 76 FR 24393
FNPRM | 05/02/11 | 76 FR 24437
NPRM | 05/02/11 | 76 FR 24442
R&O (Correction) | 05/27/11 | 76 FR 30841
Order | 07/25/11 | 76 FR 44326
2nd R&O | 08/05/11 | 76 FR 47469
Order (Interim Final Rule) | 08/05/11 | 76 FR 47476
Final Rule; Announcement of Effective Date | 09/26/11 | 76 FR 59269
Final Rule; Petition for Reconsideration; Public Notice | 09/27/11 | 76 FR 59557
Oppositions Due Date | 10/07/11
Final Rule; Clarification (MO&O) | 10/31/11 | 76 FR 67070
FNPRM | 10/31/11 | 76 FR 67118
Interim Final Rule; Announcement of Effective Date | 11/03/11 | 76 FR 68116
Final Rule; Announcement of Effective Date | 11/04/11 | 76 FR 68328
Final Rule; Announcement of Effective Date | 11/07/11 | 76 FR 68642
FNPRM Comment Period End | 12/30/11
FNPRM | 02/01/12 | 77 FR 4948
FNPRM Comment Period End | 03/19/12
Final Rule; Correction | 03/27/12 | 77 FR 18106
Correcting Amendments | 06/07/12 | 77 FR 33662
Order (Release Date) | 07/25/12
Correcting Amendments | 10/04/12 | 77 FR 60630
Public Notice | 10/29/12 | 77 FR 65526
Comment Period End | 11/29/12
FNPRM | 07/05/13 | 78 FR 40407
R&O | 07/05/13 | 78 FR 40582
FNPRM Comment Period End | 09/18/13
Public Notice | 09/11/13 | 78 FR 55696
Public Notice | 09/15/14 | 79 FR 54979
Comment Period End | 10/10/14
Final Action (Announcement of Effective Date) | 10/30/14 | 79 FR 64515
Final Rule Effective | 10/30/14
FNPRM | 11/18/15 | 80 FR 72029
FNPRM Comment Period End | 02/01/16
R&O | 03/21/16 | 81 FR 14984
FNPRM | 08/24/16 | 81 FR 57851
FNPRM Comment Period End | 09/14/16
NOI and FNPRM | 04/12/17 | 82 FR 17613
NOI and FNPRM Comment Period End | 05/30/17
R&O | 04/13/17 | 82 FR 17754
R&O | 04/27/17 | 82 FR 19322
FNPRM | 04/27/17 | 82 FR 19347
FNPRM Comment Period End | 07/01/17
Order | 06/23/17 | 82 FR 28566
Public Notice | 07/21/17 | 82 FR 33856
Public Notice Comment Period End | 07/31/17
Public Notice Correction | 07/25/17 | 82 FR 34471
Public Notice Correction Comment Period End | 08/17/17
R&O and Order | 08/22/17 | 82 FR 39673
Announcement of Effective Date | 10/17/17 | 82 FR 48203
Public Notice; Petition for Reconsideration | 10/25/17 | 82 FR 49303
Oppositions Due Date | 11/20/17
R&O | 06/06/19 | 84 FR 26364
FNPRM | 06/06/19 | 84 FR 26379
FNPRM Comment Period End | 08/05/19
Report & Order | 05/08/20 | 85 FR 27309
R&O and Order on Recon | 10/14/20 | 85 FR 64971
Final rule; announcement of effective and compliance dates | 10/23/20 | 85 FR 67447
FNPRM | 02/01/21 | 86 FR 7681
FNPRM Comment Period End | 04/02/21
Public Notice; Petition for Reconsideration | 02/22/21 | 86 FR 10458
Oppositions Due Date | 03/19/21
NPRM | 03/19/21 | 86 FR 14859
NPRM Comment Period End | 05/03/21
NPRM | 06/04/21 | 86 FR 29969
NPRM Correction | 06/15/21 | 86 FR 31668
NPRM Correction Comment Period End | 07/30/21
Order on Recon | 07/07/21 | 86 FR 35632
Order on Recon; Correction | 10/05/21 | 86 FR 54871
Report & Order | 09/21/22 | 87 FR 57645
Next Action Undetermined

Regulatory Flexibility Analysis Required: Yes.

Agency Contact: Eliot Greenwald, Deputy Chief, Disability Rights Office, Federal Communications Commission, 45 L Street NE, Washington, DC 20554, Phone: 202 418-2235, Email: eliot.greenwald@fcc.gov.

RIN: 3060-AJ42

511. Implementation of the Middle Class Tax Relief and Job Creation Act of 2012/Establishment of a Public Safety Answering Point Do-Not-Call Registry (CG Docket No. 12-129) [3060-AJ84]

Legal Authority: Pub. L. 112-96, sec. 6507

Abstract: The Middle Class Tax Relief and Job Creation Act of 2012 required the Commission to create a Do-Not-Call Registry for public safety answering point (PSAP) telephone numbers and to prohibit the use of automated dialing equipment to place calls to PSAP numbers on the Registry. In this docket, the Commission adopted rules and policies implementing these statutory requirements.

Timetable:

Action | Date | FR Cite
NPRM | 06/21/12 | 77 FR 37362
R&O | 10/29/12 | 77 FR 71131
Correction Amendments | 02/13/13 | 78 FR 10099
Announcement of Effective Date | 03/26/13 | 78 FR 18246
FNPRM | 11/01/21 | 86 FR 60189
FNPRM Comment Period End | 12/01/21
Next Action Undetermined

Regulatory Flexibility Analysis Required: Yes.

Agency Contact: Richard D. Smith, Special Counsel, Consumer Policy Division, Federal Communications Commission, Consumer and Governmental Affairs Bureau, 445 12th Street SW, Washington, DC 20554, Phone: 717 338-2797, Fax: 717 338-2574, Email: richard.smith@fcc.gov.

RIN: 3060-AJ84

512. Implementation of Sections 716 and 717 of the Communications Act of 1934, as Enacted by the Twenty-First Century Communications and Video Accessibility Act of 2010 (CG Docket No. 10-213) [3060-AK00]

Legal Authority: 47 U.S.C. 151; 47 U.S.C. 154; 47 U.S.C. 255; 47 U.S.C. 617 to 619

Abstract: These proceedings implement sections 716, 717, and 718 of the Communications Act, which were added by the Twenty-First Century Communications and Video Accessibility Act of 2010 (CVAA), related to the accessibility of advanced communications services and equipment (section 716), recordkeeping and enforcement requirements for entities subject to sections 255, 716, and 718 (section 717), and accessibility of internet browsers built into mobile phones (section 718).

Timetable:

Action | Date | FR Cite
NPRM | 03/14/11 | 76 FR 13800
NPRM Comment Period Extended | 04/12/11 | 76 FR 20297
NPRM Comment Period End | 05/13/11
FNPRM | 12/30/11 | 76 FR 82240
R&O | 12/30/11 | 76 FR 82354
FNPRM Comment Period End | 03/14/12
Announcement of Effective Date | 04/25/12 | 77 FR 24632
2nd R&O | 05/22/13 | 78 FR 30226
R&O on Remand, Declaratory Ruling, and Order | 04/13/15 | 80 FR 19738
Next Action Undetermined

Regulatory Flexibility Analysis Required: Yes.

Agency Contact: Darryl Cooper, Attorney, Disability Rights Office, CGB, Federal Communications Commission, 45 L Street NE, Washington, DC 20554, Phone: 202 418-7131, Email: darryl.cooper@fcc.gov.

RIN: 3060-AK00

513. Misuse of Internet Protocol (IP) Captioned Telephone Service; Telecommunications Relay Services and Speech-to-Speech Services; CG Docket No. 13-24 [3060-AK01]

Legal Authority: 47 U.S.C. 151; 47 U.S.C. 154; 47 U.S.C. 225

Abstract: The Federal Communications Commission (FCC) initiated this proceeding in its effort to ensure that internet-Protocol Captioned Telephone Service (IP CTS) is provided effectively and in the most efficient manner. In doing so, the FCC adopted rules to address certain practices related to the provision and marketing of IP CTS, as well as compensation of TRS providers. IP CTS is a form of relay service designed to allow people with hearing loss to speak directly to another party on a telephone call and to simultaneously listen to the other party and read captions of what that party is saying over an IP-enabled device. To ensure that IP CTS is provided efficiently to persons who need to use this service, the Commission adopted rules establishing several requirements and issued an FNPRM to address additional issues.

Timetable:

Action | Date | FR Cite
NPRM | 02/05/13 | 78 FR 8090
Order (Interim Rule) | 02/05/13 | 78 FR 8032
Order | 02/05/13 | 78 FR 8030
Announcement of Effective Date | 03/07/13 | 78 FR 14701
NPRM Comment Period End | 03/12/13
R&O | 08/30/13 | 78 FR 53684
FNPRM | 09/03/13 | 78 FR 54201
FNPRM Comment Period End | 11/18/13
Petition for Reconsideration Request for Comment | 12/16/13 | 78 FR 76097
Petition for Reconsideration Comment Period End | 01/10/14
Announcement of Effective Date | 07/11/14 | 79 FR 40003
Announcement of Effective Date | 08/28/14 | 79 FR 51446
Correction—Announcement of Effective Date | 08/28/14 | 79 FR 51450
Technical Amendments | 09/09/14 | 79 FR 53303
R&O and Declaratory Ruling | 06/27/18 | 83 FR 30082
FNPRM | 07/18/18 | 83 FR 33899
Public Notice | 08/23/18 | 83 FR 42630
Public Notice Opposition Period End | 09/17/18
FNPRM Comment Period End | 11/15/18
Announcement of Effective Date | 02/04/19 | 84 FR 1409
R&O | 03/08/19 | 84 FR 8457
FNPRM | 03/14/19 | 84 FR 9276
FNPRM Comment Period End | 04/29/19
Petition for Recon Request for Comment | 06/18/19 | 84 FR 28264
Petition for Recon Comment Period End | 07/15/19
R&O | 01/06/20 | 85 FR 462
Announcement of Effective Date | 02/19/20 | 85 FR 9392
Final Rule; Removal of Compliance Notes | 05/06/20 | 85 FR 26857
Final Rule; correction | 08/26/20 | 85 FR 52489
R&O and Order on Recon | 10/14/20 | 85 FR 64971
FNPRM | 02/01/21 | 86 FR 7681
Public Notice; Petition for Reconsideration | 02/22/21 | 86 FR 10458
NPRM | 03/19/21 | 86 FR 14859
Oppositions Due Date | 03/19/21
FNPRM Comment Period End | 04/02/21
NPRM Comment Period End | 05/03/21
Public Notice | 07/15/21 | 86 FR 37328
Public Notice Comment Period End | 08/09/21
Report & Order | 09/21/22 | 87 FR 57645
Next Action Undetermined

Regulatory Flexibility Analysis Required: Yes.

Agency Contact: Eliot Greenwald, Deputy Chief, Disability Rights Office, Federal Communications Commission, 45 L Street NE, Washington, DC 20554, Phone: 202 418-2235, Email: eliot.greenwald@fcc.gov.

RIN: 3060-AK01

514. Advanced Methods To Target and Eliminate Unlawful Robocalls (CG Docket No. 17-59) [3060-AK62]

Legal Authority: 47 U.S.C. 201 and 202; 47 U.S.C. 227; 47 U.S.C. 251(e)

Abstract: The Telephone Consumer Protection Act of 1991 restricts the use of robocalls autodialed or prerecorded calls in certain instances. In CG Docket No. 17-59, the Commission considers rules and policies aimed at eliminating unlawful robocalling. Among the issues it examines in this docket are whether to allow carriers to block calls that purport to be from unallocated or unassigned phone numbers through the use of spoofing, whether to allow carriers to block calls based on their own analyses of which calls are likely to be unlawful and whether to establish a database of reassigned phone numbers to help prevent robocalls to consumers, who did not consent to such calls.

Timetable:

Action | Date | FR Cite
NPRM/NOI | 05/17/17 | 82 FR 22625
2nd NOI | 07/13/17
NPRM Comment Period End | 07/31/17
FNPRM | 01/08/18 | 83 FR 770
R&O | 01/12/18 | 83 FR 1566
2nd FNPRM | 04/23/18 | 83 FR 17631
2nd FNPRM Comment Period End | 06/07/18
2nd FNPRM Reply Comment Period End | 07/09/18
2nd R&O | 03/26/19 | 84 FR 11226
3rd FNPRM | 06/24/19 | 84 FR 29478
Declaratory Ruling | 06/24/19 | 84 FR 29387
Public Notice Seeking Input on Report | 12/30/19
Public Notice Seeking Comment on Reassigned Numbers | 01/24/20
Public Notice Seeking Comment on RND Cost/Fee Structure | 02/26/20
Public Notice Establishing Guidelines for RND | 04/16/20
Report | 06/25/20
3rd NPRM Comment Date | 06/26/20
Announcement of Compliance Dates | 06/26/20 | 85 FR 38334
3rd R&O, Order of Reconsideration, 4th FNPRM | 07/31/20 | 85 FR 46063
4th R&O (release date) | 12/30/20
Public Notice | 02/08/21 | 86 FR 8558
Public Notice | 04/13/21
Public Notice | 06/15/21
Public Notice | 10/01/21 | 86 FR 61077
5th FNPRM | 10/26/21 | 86 FR 59084
Public Notice | 12/29/21
Order on Reconsideration, 6th FNPRM, Waiver Order | 12/30/21 | 86 FR 74399
Public Notice | 02/08/22 | 87 FR 7044
Seventh Further Notice of Proposed Rulemaking | 05/19/22 | 87 FR 42670
Sixth Report and Order | 05/19/22 | 87 FR 42916
Public Notice | 08/24/22 | 87 FR 51920
Next Action Undetermined

Regulatory Flexibility Analysis Required: Yes.

Agency Contact: Karen Schroeder, Associate Division Chief, Federal Communications Commission, 45 L Street NE, Washington, DC 20554, Phone: 202 418-0654, Email: karen.schroeder@fcc.gov.

Jerusha Burnett, Attorney Advisor, Federal Communications Commission, 45 L Street NE, Washington, DC 20554, Phone: 202 418-0526, Email: jerusha.burnett@fcc.gov.

RIN: 3060-AK62

515. Empowering Broadband Consumers Through Transparency (CG Docket No. 02-278) [3060-AL33]

Legal Authority: Infrastructure Investment and Jobs Act, Public Law 117-58, 135 Stat. 429, 60504(a) (2021)

Abstract: In this docket, the Commission proposes that broadband internet access service providers (ISPs) display, at the point of sale, labels to disclose to consumers certain information about prices, introductory rates or promotions, data allowances, broadband speeds, and management practices, among other things.

Timetable:

Action | Date | FR Cite
NPRM | 02/07/22 | 87 FR 6827
NPRM Comment Period End | 03/09/22
Reply NPRM Comment Period End | 03/24/22
Next Action Undetermined

Regulatory Flexibility Analysis Required: Yes.

Agency Contact: Erica McMahon, Attorney Advisor, Federal Communications Commission, Consumer and Governmental Affairs Bureau, 445 12th Street SW, Washington, DC 20554, Phone: 202 418-0346, Email: erica.mcmahon@fcc.gov.

RIN: 3060-AL33

516. • Targeting and Eliminating Unlawful Text Messages, CG Docket 21-403, Notice of Proposed Rulemaking [3060-AL49]

Legal Authority: 47 U.S.C. 154(i), 227(e), 251(e), 303

Abstract: In this docket, the Commission considers rules and policies concerning the ability for mobile wireless service providers to block illegal text messages.

Timetable:

Action | Date | FR Cite
NPRM | To Be Determined

Regulatory Flexibility Analysis Required: Yes.

Agency Contact: Mika Savir, Attorney, Federal Communications Commission, 45 L Street NE, Washington, DC 20554, Phone: 202 418-0384, Email: mika.savir@fcc.gov.

RIN: 3060-AL49

FEDERAL COMMUNICATIONS COMMISSION (FCC)

Economics

Long-Term Actions

517. Development of Nationwide Broadband Data To Evaluate Reasonable and Timely Deployment of Advanced Services to All Americans [3060-AJ15]

Legal Authority: 15 U.S.C. 251; 47 U.S.C. 252; 47 U.S.C. 257; 47 U.S.C. 271; 47 U.S.C. 1302; 47 U.S.C. 160(b); 47 U.S.C. 161(a)(2)

Abstract: The Report and Order streamlined and reformed the Commission's Form 477 Data Program, which is the Commission's primary tool to collect data on broadband and telephone services.

Timetable:

Action | Date | FR Cite
NPRM | 05/16/07 | 72 FR 27519
Order | 07/02/08 | 73 FR 37861
Order | 10/15/08 | 73 FR 60997
NPRM | 02/08/11 | 76 FR 10827
Order | 06/27/13 | 78 FR 49126
NPRM | 08/24/17 | 82 FR 40118
NPRM Comment Period End | 09/25/17
NPRM Reply Comment Period End | 10/10/17
R&O and FNPRM | 08/22/19 | 84 FR 43764
Next Action Undetermined

Regulatory Flexibility Analysis Required: Yes.

Agency Contact: Suzanne Mendez, Program Analyst, OEA, Federal Communications Commission, 45 L Street NE, Washington, DC 20554, Phone: 202 418-0941, Email: suzanne.mendez@fcc.gov.

RIN: 3060-AJ15

518. Expanding the Economic and Innovation Opportunities of Spectrum Through Incentive Auctions (GN Docket No. 12-268) [3060-AJ82]

Legal Authority: 47 U.S.C. 309(j)(8)(G); 47 U.S.C. 1452

Abstract: In February 2012, the Middle Class Tax Relief and Job Creation Act was enacted (Pub. L. 112-96, 126 Stat. 156 (2012)). Title VI of that statute, commonly known as the Spectrum Act, provides the Commission with the authority to conduct incentive auctions to meet the growing demand for wireless broadband. Pursuant to the Spectrum Act, the Commission may conduct incentive auctions that will offer new initial spectrum licenses subject to flexible-use service rules on spectrum made available by licensees that voluntarily relinquish some or all of their spectrum usage rights in exchange for a portion, based on the value of the relinquished rights as determined by an auction, of the proceeds of bidding for the new licenses. In addition to granting the Commission general authority to conduct incentive auctions, the Spectrum Act requires the Commission to conduct an incentive auction of broadcast TV spectrum and sets forth special requirements for such an auction.

The Spectrum Act requires that the BIA consist of a reverse auction “to determine the amount of compensation that each broadcast television licensee would accept in return for voluntarily relinquishing some or all of its spectrum usage rights” and a forward auction of licenses in the reallocated spectrum for flexible-use services, including mobile broadband. Broadcast television licensees who elected to voluntarily participate in the auction had three bidding options: go off-the-air, share spectrum with another broadcast television licensee, or move channels to the upper or lower VHS band in exchange for receiving part of the proceeds from auctioning that spectrum to wireless providers. The Spectrum Act also authorized the Commission to reorganize the 600 MHz band following the BIA including, as necessary, reassigning full power and Class A television stations to new channels in order to clear the spectrum sold in the BIA. That post-auction reorganization (known as the repack) is currently underway and all of the stations who were assigned new channels are scheduled to have vacated their pre-auction channels by July 3, 2020, pursuant to a 10-phase transition schedule adopted by the Commission.

In May 2014, the Commission adopted a Report and Order that laid out the general framework for the BIA. The auction started on March 29, 2016, with the submission of initial commitments by eligible broadcast licensees. The BIA ended on April 13, 2017, with the release of the Auction Closing and Channel Reassignment Public Notice that also marked the start of the 39-month transition period during which 987 of the full power and Class A television stations remaining on-the-air will transition their stations to their post-auction channel assignments in the reorganized television band. Pursuant to the Spectrum Act, the Commission will reimburse 957 of those full power and Class A stations for the reasonable costs associated with relocating to their post-auction channel assignments and will reimburse multichannel video programming distributors for their costs associated with continuing to carry the signals of those stations.

In March 2018, the Consolidated Appropriations Act (Pub. L. 115-141, at Div. E, Title V, 511, 132 Stat. 348 (2018), codified at 47 U.S.C. 1452(j)-(n)) (the Reimbursement Expansion Act or REA), extended the deadline for reimbursement of eligible entities from April 2020 to no later than July 3, 2023, and also expanded the universe of entities eligible for reimbursement to include low-power television stations and TV translator stations displaced by the BIA for their reasonably incurred costs to relocate to a new channel, and FM broadcast stations for their reasonably incurred costs for facilities necessary to reasonably minimize disruption of service as a result of the post-auction reorganization of the television band. On March 15, 2019, the Commission adopted a Report and Order setting rules for the reimbursement of eligible costs to those newly eligible entities.

Timetable:

Action | Date | FR Cite
NPRM | 11/21/12 | 77 FR 69933
R&O | 08/15/14 | 79 FR 48441
Final Rule | 10/11/17 | 82 FR 47155
NPRM | 08/27/18 | 83 FR 43613
R&O | 03/26/19 | 84 FR 11233
Next Action Undetermined

Regulatory Flexibility Analysis Required: Yes.

Agency Contact: Jean L. Kiddoo, Chair, Incentive Auction Task Force, Federal Communications Commission, 45 L Street NE, Washington, DC 20554, Phone: 202 418-7757, Email: jean.kiddoo@fcc.gov.

RIN: 3060-AJ82

519. Broadband Data Collection [3060-AL42]

Legal Authority: 47 U.S.C. 151-154; 47 U.S.C. 157; 47 U.S.C. 201; 47 U.S.C. 254; 47 U.S.C. 301; 47 U.S.C. 303; 47 U.S.C. 309; 47 U.S.C. 319; 47 U.S.C. 332; 47 U.S.C. 641-646

Abstract: On August 6, 2019, the Commission adopted a new data collection of precise, granular broadband availability data from fixed broadband providers, including a mechanism for incorporating public feedback into the data. On March 23, 2020, the Broadband Deployment Accuracy and Technology Availability Act (Broadband DATA Act) was enacted, establishing requirements for the Commission to adopt rules and carry out other steps for the collection and publication of granular data on the quality and availability of broadband internet service. On July 16, 2020, the Commission adopted a Second Report and Order and Third Further Notice of Proposed Rulemaking that took steps to implement requirements of the Broadband DATA Act, including the adoption of rules for the collection and verification of improved, more precise data on both fixed and mobile broadband availability. On January 13, 2021, the Commission adopted a Third Report and Order that took key additional steps to ensure that both the new data collection itself, and the measures for verifying the accuracy of the data collected, will yield a robust and reliable data resource for the Commission, Congress, federal and state policymakers, and consumers to evaluate the status of broadband deployment throughout the United States.

Timetable:

Action | Date | FR Cite
3rd FNPRM | 08/12/20 | 85 FR 50911
2nd R&O | 08/18/20 | 85 FR 50886
3rd FNPRM Comment Period End | 09/08/20
3rd FNPRM Reply Comment Period End | 09/17/20
3rd R&O | 04/07/21 | 86 FR 18124
Proposed Rule | 07/28/21 | 86 FR 40398
Proposed Rule Comment Period End | 09/10/21
Proposed Rule Reply Comment Period End | 09/27/21
Order (release date) | 03/09/22
Next Action Undetermined

Regulatory Flexibility Analysis Required: Yes.

Agency Contact: Kimia Nikseresht, Legal Advisor, Broadband Data Task Force, OEA, Federal Communications Commission, 45 L Street NE, Washington, DC 20554, Phone: 202 418-1636, Email: kimia.nikseresht@fcc.gov.

RIN: 3060-AL42

FEDERAL COMMUNICATIONS COMMISSION (FCC)

Office of Engineering and Technology

Long-Term Actions

520. Use of the 5.850-5.925 GHz Band (ET Docket No. 19-138) [3060-AK96]

Legal Authority: 47 U.S.C. 1; 47 U.S.C. 4(i); 47 U.S.C. 301; 47 U.S.C. 302; 47 U.S.C. 303; 47 U.S.C. 316; 47 U.S.C. 332; 47 CFR 1.411

Abstract: In this proceeding, we repurpose 45 megahertz of the 5.850-5.925 GHz band (the 5.9 GHz band) to allow for the expansion of unlicensed mid-band spectrum operations, while continuing to dedicate 30 megahertz of spectrum for vital intelligent transportation system (ITS) operations. In addition, to promote the most efficient and effective use of this ITS spectrum, we are requiring the ITS service to use cellular vehicle-to-everything (C-V2X) based technology at the end of a transition period. By splitting the 5.9 GHz band between unlicensed and ITS uses, today's decision puts the 5.9 GHz band in the best position to serve the needs of the American public.

In the Further Notice, the Commission addresses issues remaining to finalize the restructuring of the 5.9 GHz band. Specifically, the Commission addresses: The transition of ITS operations in the 5.895-5.925 GHz band from Dedicated Short Range Communications (DSRC) based technology to Cellular Vehicle-to-Everything (C-V2X) based technology; the codification of C-V2X technical parameters in the Commission's rules; other transition considerations; and the transmitter power and emissions limits, and other issues, related to full-power outdoor unlicensed operations across the entire 5.850-5.895 GHz portion of the 5.9 GHz band. The Commission modified the Further Notice released on November 20, 2020, with an Erratum released on December 11, 2020. The Commission released a Second Erratum on February 9, 2021. The corrections from these errata are included in this document.

Timetable:

Action | Date | FR Cite
NPRM | 02/06/20 | 85 FR 6841
NPRM Comment Period End | 03/09/20
R&O & Order of Proposed Modification | 05/03/21 | 86 FR 23281
FNPRM | 05/03/21 | 86 FR 23323
Next Action Undetermined

Regulatory Flexibility Analysis Required: Yes.

Agency Contact: Howard Griboff, Attorney Advisor, Federal Communications Commission, 45 L Street NE, Washington, DC 20554, Phone: 202 418-0657, Fax: 202 418-2824, Email: howard.griboff@fcc.gov.

RIN: 3060-AK96

521. Unlicensed White Space Device Operations in the Television Bands (ET Docket No. 20-36) [3060-AL22]

Legal Authority: 47 U.S.C. 154(i); 47 U.S.C. 201; 47 U.S.C. 302a; 47 U.S.C. 303; 47 U.S.C. 1.407 and 1.411

Abstract: In this proceeding, the Commission revises its rules to provide additional opportunities for unlicensed white space devices operating in the broadcast television bands (TV bands) to deliver wireless broadband services in rural areas and applications associated with the Internet of Things (IoT). This region of the spectrum has excellent propagation characteristics that make it particularly attractive for delivering communications services over long distances, coping with variations in terrain, as well as providing coverage into and within buildings. We offer several proposals to spur continued growth of the white space device ecosystem, especially for providing affordable broadband service to rural and underserved communities that can help close the digital divide.

Timetable:

Action | Date | FR Cite
NPRM | 04/03/20 | 85 FR 18901
NPRM Comment Period End | 04/03/20
R&O | 01/12/21 | 86 FR 2278
Proposed Rule FR Published 2/25/21 at 86 FR 11490 | 04/05/22
2nd Order on Recon, FNPRM, and Other | 06/01/22 | 87 FR 33109
Next Action Undetermined

Regulatory Flexibility Analysis Required: Yes.

Agency Contact: Hugh Van Tuyl, Electronics Engineer, Federal Communications Commission, 45 L Street NE, Washington, DC 20554, Phone: 202 418-7506, Fax: 202 418-1944, Email: hugh.vantuyl@fcc.gov.

RIN: 3060-AL22

522. Protecting Against National Security Threats to the Communications Supply Chain Through the Equipment Authorization and Competitive Bidding Programs; ET Docket No. 21-232, EA Docket No. 21-233 [3060-AL23]

Legal Authority: secs. 4(i), 301, 302, 303, 309(j), 312, and 316 of the Communications Act of 1934, as amended, 47 U.S.C. secs. 154(i), 301, 302a, 303, 309(j), 312, 316, and sec. 1.411

Abstract: In this proceeding, the Commission proposes prohibiting the authorization of any communications equipment on the list of equipment and services (Covered List) that the Commission maintains pursuant to the Secure and Trusted Communications Networks Act of 2019. Such equipment has been found to pose an unacceptable risk to the national security of the United States or the security and safety of United States persons. We also seek comment on whether and under what circumstances we should revoke any existing authorizations of such covered communications equipment. We invite comment on whether we should require additional certifications relating to national security from applicants who wish to participate in Commission auctions. In the Notice of Inquiry, we seek comment on other actions the Commission should consider taking to create incentives in its equipment authorization processes for improved trust through the adoption of cybersecurity best practices in consumer devices.

Timetable:

Action | Date | FR Cite
NPRM and NOI | 08/19/21 | 86 FR 46644
NPRM Comment Period End | 09/20/21
Next Action Undetermined

Regulatory Flexibility Analysis Required: Yes.

Agency Contact: Jamie Coleman, Attorney Advisor, Federal Communications Commission, 45 L Street NE, Washington, DC 20554, Phone: 202 418-2705, Email: jaime.coleman@fcc.gov.

RIN: 3060-AL23

523. Wireless Microphones in the TV Bands (ET Docket No. 21-115), 600 MHz Guard Band, 600 MHz Duplex Gap, and the 941.5-944 MHz, 944-952 MHz, 952.850-956.250 MHz, 956.45-959.85 MHz, 1435-1525 MHz [3060-AL27]

Legal Authority: 47 U.S.C. secs. 154(i), 201, 302a, 303, and secs. 1.407 and 1.411

Abstract: In this proceeding, the Commission seeks to enhance the spectral efficiency of wireless microphones by permitting a recently developed type of wireless microphone system, termed herein as a Wireless Multi-Channel Audio System (WMAS), to operate in certain frequency bands. This emerging technology would enable more wireless microphones to operate in the spectrum available for wireless microphone operations, and thus advances an important Commission goal of promoting efficient spectrum use. The Commission proposes to revise the applicable technical rules for operation of low-power auxiliary station (LPAS) devices to permit WMAS to operate in the broadcast television (TV) bands and other LPAS frequency bands on a licensed basis. The Commission also proposes to update the existing LPAS and wireless microphone rules to reflect the end of the post-Incentive auction transition period and update references to international wireless microphone standards.

Timetable:

Action | Date | FR Cite
NPRM | 07/01/21 | 86 FR 35046
NPRM Comment Period End | 08/02/21
Next Action Undetermined

Regulatory Flexibility Analysis Required: Yes.

Agency Contact: Hugh Van Tuyl, Electronics Engineer, Federal Communications Commission, 45 L Street NE, Washington, DC 20554, Phone: 202 418-7506, Fax: 202 418-1944, Email: hugh.vantuyl@fcc.gov.

RIN: 3060-AL27

524. FCC Seeks To Enable State-of-the-Art Radar Sensors in 60 GHz Band [3060-AL36]

Legal Authority: 47 U.S.C. 154(i), 201, 302a, 303, and secs. 1.407 and 1.411

Abstract: In this preceding, the Commission proposes to revise the Commission's rules to provide expanded operational flexibility to unlicensed field disturbance sensor (FDS) devices (e.g., radars) that operate in the 57-64 GHz band (60 GHz band). The Commission's proposal recognizes the increasing practicality of using mobile radar devices in the 60 GHz band to perform innovative and life-saving functions, including gesture control, detection of unattended children in vehicles, and monitoring of vulnerable medical patients, and it is designed to stimulate the development of new products and services in a wide variety of areas to include, for example, personal safety, autonomous vehicles, home automation, environmental control, and healthcare monitoring, while also ensuring coexistence among unlicensed FDS devices and current and future unlicensed communications devices in the 60 GHz band.

Timetable:

Action | Date | FR Cite
NPRM | 08/19/21 | 86 FR 46661
NPRM Comment Period End | 10/18/21
Next Action Undetermined

Regulatory Flexibility Analysis Required: Yes.

Agency Contact: Anh Wride, Electronics Engineer, Federal Communications Commission, 445 12th Street SW, Washington, DC 20554, Phone: 202 418-0577, Fax: 202 418-1944, Email: anh.wride@fcc.gov.

Thomas Struble, Federal Communications Commission, 45 L Street NE, Washington, DC 20554, Phone: 202 418-2470, Email: thomas.struble@fcc.gov.

RIN: 3060-AL36

525. FCC Proposes To Update Equipment Authorization Rules To Incorporate New and Revised Industry Standards [3060-AL39]

Legal Authority: 47 U.S.C. 154(i), 301, 302a, 303, and secs. 1.407 and 1.411

Abstract: We propose targeted updates to our rules to incorporate four new and updated standards that are integral to the testing of equipment and accreditation of laboratories that test RF devices.

Timetable:

Action | Date | FR Cite
NPRM | 03/17/22 | 87 FR 15180
NPRM Comment Period End | 04/16/22
Next Action Undetermined

Regulatory Flexibility Analysis Required: Yes.

Agency Contact: Brian Butler, Attorney, Federal Communications Commission, 45 L Street NE, Washington, DC 20554, Phone: 202 418-2702, Email: brian.butler@fcc.gov.

RIN: 3060-AL39

526. Allocation of Spectrum for Non-Federal Space Launch Operations (ET Docket No. 13-115) [3060-AL44]

Legal Authority: 47 U.S.C. 151. 152, 154(i), 155(c), 301, 303(c), 303(f), and 303(r)

Abstract: In this proceeding, the Federal Communications Commission (Commission) takes steps towards establishing a spectrum allocation and licensing framework that will provide regulatory certainty and improved efficiency and that will promote innovation and investment in the United States commercial space launch industry. In the Further Notice of Proposed Rulemaking, the Commission seeks comment on the definition of space launch operations, the potential allocation of spectrum for the commercial space launch industry, including the 420-430 MHz, 2025-2110 MHz, and 5650-5925 MHz bands. In addition, the Commission seeks comment on establishing service rules, including licensing and technical rules and coordination procedures, for the use of spectrum for commercial space launch operations. Finally, the Commission seeks to refresh the record on potential ways to facilitate Federal use of commercial satellite services in what are currently non-Federal satellite bands and enable more robust federal use of the 399.9-400.05 MHz band.

Timetable:

Action | Date | FR Cite
NPRM | 06/10/21 | 86 FR 30860
NPRM Comment Period End | 08/09/21
Next Action Undetermined

Regulatory Flexibility Analysis Required: Yes.

Agency Contact: Nicholas Oros, Supervisory Attorney Advisor, Federal Communications Commission, 45 L Street NE, Washington, DC 20554, Phone: 202 418-0636, Email: nicholas.oros@fcc.gov.

RIN: 3060-AL44

FEDERAL COMMUNICATIONS COMMISSION (FCC)

Office of Engineering and Technology

Completed Actions

527. FCC Looks To Open the Door to New Wireless Microphone Technologies (ET Docket No. 21-115 & RM-11821 [3060-AL45]

Timetable:

Action | Date | FR Cite
Duplicate of 3060-AL27 | 10/12/22

RIN: 3060-AL45

FEDERAL COMMUNICATIONS COMMISSION (FCC)

International Bureau

Long-Term Actions

528. Update to Parts 2 and 25 Concerning Nongeostationary, Fixed-Satellite Service Systems, and Related Matters: IB Docket No. I6-408 [3060-AK59]

Legal Authority: 47 U.S.C. 154(i); 47 U.S.C. 303; 47 U.S.C. 316

Abstract: On January 11, 2017, the Commission began a rulemaking to update its rules and policies concerning non-geostationary-satellite orbit (NGSO), fixed-satellite service (FSS) systems and related matters. The Commission proposed among other things, to provide for more flexible use of the 17.8-20.2 GHz bands for FSS, promote shared use of spectrum among NGSO FSS satellite systems, and remove unnecessary design restrictions on NGSO FSS systems. The Commission subsequently adopted a Report and Order establishing new sharing criteria among NGSO FSS systems and providing additional flexibility for FSS spectrum use. The Commission also released a Further Notice of Proposed Rulemaking proposing to remove the domestic coverage requirement for NGSO FSS systems and later adopted a Second Report and Order removing this requirement.

Timetable:

Action | Date | FR Cite
NPRM | 01/11/17 | 82 FR 3258
NPRM Comment Period End | 04/10/17 |
FNPRM | 11/15/17 | 82 FR 52869
R&O | 12/18/17 | 82 FR 59972
FNPRM Comment Period End | 01/02/18 |
2nd R&O | 02/21/21 | 86 FR 11642
Next Action Undetermined

Regulatory Flexibility Analysis Required: Yes.

Agency Contact: Clay DeCell, Attorney Advisor, Federal Communications Commission, International Bureau, 45 L Street NE, Washington, DC 20554, Phone: 202 418-0803, Email: clay.decell@fcc.gov.

RIN: 3060-AK59

529. Amendment of Parts 2 and 25 of the FCC Rules To Facilitate the Use of Earth Stations in Motion Communicating With Geostationary Orbit Space Stations in FSS Bands: IB Docket No. 17-95 [3060-AK84]

Legal Authority: 47 U.S.C. 154(i); 47 U.S.C. 157(a); 47 U.S.C. 303; 47 U.S.C. 308(b); 47 U.S.C. 316

Abstract: In June 2017, the Commission began a rulemaking to streamline, consolidate, and harmonize rules governing earth stations in motion (ESIMs) used to provide satellite-based services on ships, airplanes and vehicles communicating with geostationary-satellite orbit (GSO), fixed-satellite service (FSS) satellite systems. In September 2018, the Commission adopted rules governing communications of ESIMs with GSO satellites. These rules addressed communications in the conventionalC-, Ku-, and Ka-bands, as well as portions of the extended Ku-band. At the same time, the Commission also released a Further Notice of Proposed Rulemaking that sought comment on allowing ESIMs to operate in all of the frequency bands in which earth stations at fixed locations operating in GSO FSS satellite networks can be blanket-licensed. Specifically, comment was sought on expanding the frequencies available for communications of ESIMs with GSO FSS satellites to include the following frequency bands: 10.7-10.95 GHz, 11.2-11.45 GHz, 17.8-18.3 GHz, 18.8-19.3 GHz, 19.3-19.4 GHz, 19.6-19.7 GHz (space-to-Earth); and 28.6-29.1 GHz (Earth-to-space).

Timetable:

Action | Date | FR Cite
NPRM | 06/16/17 | 82 FR 27652
NPRM Comment Period End | 08/30/17 |
OMB-approval for Information Collection of R&O Comment Period End | 08/28/18 |
FNPRM | 07/24/20 | 85 FR 44818
R&O | 07/24/20 | 85 FR 44772
FNPRM Comment Period End | 09/22/20 |
Next Action Undetermined

Regulatory Flexibility Analysis Required: Yes.

Agency Contact: Cindy Spiers, Attorney Advisor, Federal Communications Commission, International Bureau, 45 L Street NE, Washington, DC 20554, Phone: 202 418-1593, Email: cindy.spiers@fcc.gov.

RIN: 3060-AK84

530. Further Streamlining Part 25 Rules Governing Satellite Services: IB Docket No. 18-314 [3060-AK87]

Legal Authority: 47 U.S.C. secs. 154(i); 47 U.S.C. 161; 47 U.S.C. 303; 47 U.S.C. 316

Abstract: Under the Commission's rules, satellite operators must follow separate application and authorization processes for the satellites and earth stations that make up their networks and have no option for a single, unified network license. In a Notice of Proposed Rulemaking, the FCC proposed to create a new, optional, unified license to include both space stations and earth stations operating in a geostationary-satellite orbit, fixed-satellite service (GSO FSS) satellite network. In addition, the Commission proposed to repeal or modify unnecessarily burdensome rules in part 25 governing satellite services, such as annual reporting requirements. These proposals would greatly simplify the Commission's licensing and regulation of satellite systems. In a subsequent Report and Order, the Commission streamlined its rules governing satellite services by creating an optional framework for the authorization of blanket-licensed earth stations and space stations in a satellite system through a unified license. The Commission also aligned the build-out requirements for earth stations and space stations and eliminated unnecessary reporting rules.

Timetable:

Action | Date | FR Cite
NPRM | 01/31/19 | 84 FR 638
NPRM Comment Period End | 03/18/19 |
NPRM Reply Comment Period End | 04/16/19 |
Report & Order | 03/01/21 | 86 FR 11880
Next Action Undetermined

Regulatory Flexibility Analysis Required: Yes.

Agency Contact: Clay DeCell, Attorney Advisor, Federal Communications Commission, International Bureau, 45 L Street NE, Washington, DC 20554, Phone: 202 418-0803, Email: clay.decell@fcc.gov.

RIN: 3060-AK87

531. Facilitating the Communications of Earth Stations in Motion With Non-Geostationary Orbit Space Stations: IB Docket No. 18-315 [3060-AK89]

Legal Authority: 47 U.S.C. 154(i); 47 U.S.C. 157(a); 47 U.S.C. 303; 47 U.S.C. 308(b); 47 U.S.C. 316

Abstract: In November 2018, the Commission adopted a notice of proposed rulemaking that proposed to expand the scope of the Commission's rules governing ESIMs operations to cover communications with NGSO FSS satellites. Comment was sought on establishing a regulatory framework for communications of ESIMs with NGSO FSS satellites that would be analogous to that which exists for ESIMs communicating with GSO FSS satellites. In this context, comment was sought on: (1) allowing ESIMs to communicate in many of the same conventional Ku-band, extended Ku-band, and Ka-band frequencies that were allowed for communications of ESIMs with GSO FSS satellites (with the exception of the 18.6-18.8 GHz and 29.25-29.5 GHz frequency bands); (2) extending blanket licensing to ESIMs communicating with NGSO satellites; and (3) revisions to specific provisions in the Commission's rules to implement these changes. The specific frequency bands for communications of ESIMs with NGOS FSS satellites on which comment was sought are as follows: 10.7-11.7 GHz; 11.7-12.2 GHz; 14.0-14.5 GHz; 17.8-18.3 GHz; 18.3-18.6 GHz; 18.8-19.3 GHz; 19.3-19.4 GHz; 19.6-19.7 GHz; 19.7-20.2 GHz; 28.35-28.6 GHz; 28.6-29.1 GHz; and 29.5-30.0 GHz.

Timetable:

Action | Date | FR Cite
NPRM | 12/28/18 | 83 FR 67180
NPRM Comment Period End | 03/13/19 |
R&O | 07/24/20 |
Next Action Undetermined

Regulatory Flexibility Analysis Required: Yes.

Agency Contact: Cindy Spiers, Attorney Advisor, Federal Communications Commission, International Bureau, 45 L Street NE, Washington, DC 20554, Phone: 202 418-1593, Email: cindy.spiers@fcc.gov.

RIN: 3060-AK89

532. Space Innovation; Mitigation of Orbital Debris in the New Space Age: IB Docket Nos. 18-313, 22-271 [3060-AK90]

Legal Authority: 47 U.S.C. 154; 47 U.S.C. 157; 47 U.S.C. 301; 47 U.S.C. 302; 47 U.S.C. 303; 47 U.S.C. 307; 47 U.S.C. 308; 47 U.S.C. 309; 47 U.S.C. 310; 47 U.S.C. 319; 47 U.S.C. 332; 47 U.S.C. 336; 47 U.S.C. 605; 47 U.S.C. 721

Abstract: The Commission's current orbital debris rules were first adopted in 2004. Since then, significant changes have occurred in satellite technologies and market conditions, particularly in Low Earth Orbit, i.e., below 2000 kilometers altitude. These changes include the increasing use of lower cost small satellites and proposals to deploy large constellations of non-geostationary satellite orbit (NGSO) systems, some involving thousands of satellites.

The NPRM proposes changes to improve disclosure of debris mitigation plans. The NPRM also makes proposals and seeks comment related to satellite disposal reliability and methodology, appropriate deployment altitudes in low-Earth-orbit, and on-orbit lifetime, with a particular focus on large NGSO satellite constellations. Other aspects of the NPRM include new rule proposals for geostationary orbit satellite (GSO) license term extension requests, and consideration of disclosure requirements related to several emerging technologies and new types of commercial operations, including rendezvous and proximity operations.

The Report and Order in this proceeding adopted a number of these proposals. In addition a Further Notice of Proposed Rulemaking sought comment on topics such as collision risk and casualty risk for multi-satellite systems, de-orbit timelines, maneuverability requirements, and indemnification and post mission disposal bond issues. The Commission issued a Second Report and Order adopting a 5-year de-orbit timeframe for satellites ending their missions in or passing through the low-Earth Orbit region.

Timetable:

Action | Date | FR Cite
NPRM | 02/19/19 | 84 FR 4742
NPRM Comment Period End | 05/06/19
R&O | 08/25/20 | 85 FR 52422
FNPRM | 08/25/20 | 85 FR 52455
FNPRM Comment Period End | 10/09/20
Second R&O | 09/29/22
Next Action Undetermined

Regulatory Flexibility Analysis Required: Yes.

Agency Contact: Alexandra Horn, Attorney Advisor, Federal Communications Commission, 45 L Street NE, Washington, DC 20554, Phone: 202 418-1376, Email: alexandra.horn@fcc.gov.

RIN: 3060-AK90

533. Process Reform for Executive Branch Review of Certain FCC Applications and Petitions Involving Foreign Ownership (IB Docket No. 16-155) [3060-AL12]

Legal Authority: 47 U.S.C 154(l); 47 U.S.C . 154(j); 47 U.S.C. 214; 47 U.S.C. 303; 47 U.S.C. 309; 47 U.S.C. 310; 47 U.S.C. 413; 47 U.S.C. 34-39; E.O. 10530; 3 U.S.C. 301

Abstract: In this proceeding, the Commission considers rules and procedures that streamline and improve the timeliness and transparency of the process by which the Commission refers certain applications and petitions for declaratory ruling to the Executive Branch agencies for assessment of any national security, law enforcement, foreign policy or trade policy issues related to foreign investment in the applicants and petitioners.

Timetable:

Action | Date | FR Cite
NPRM | 06/24/16 | 81 FR 46870
NPRM Comment Period End | 09/02/16
Public Notice | 04/27/20 | 85 FR 29914
Public Notice Comment Period End | 09/02/20
Report & Order | 10/01/20 | 85 FR 76360
Public Notice | 12/30/20 | 85 FR 12312
Public Notice Comment Period End | 04/19/21
Secord Report and Order Adopted | 09/30/21 | 86 FR 68428
Second R&O Released | 10/01/21
Next Action Undetermined

Regulatory Flexibility Analysis Required: Yes.

Agency Contact: Arthur T. Lechtman, Attorney Advisor, Federal Communications Commission, International Bureau, 45 L Street NE, Washington, DC 20554, Phone: 202 418-1465, Fax: 202 418-0175, Email: arthur.lechtman@fcc.gov.

RIN: 3060-AL12

534. Parts 2 and 25 To Enable GSO FSS in the 17.3-17.8 GHz Band, Modernize Rules for 17/24 GHz BSS Space Stations, and Establish Off-Axis Uplink Power Limits for Extended KA-Band FSS (IB Doc. No. 20-330) [3060-AL28]

Legal Authority: 47 U.S.C. 154(i); 47 U.S.C. 303(r); 47 U.S.C. 309(j)

Abstract: This item addresses the addition of an allocation in the 17.3-17.7 GHz and 17.7-17.8 GHz bands to the fixed-satellite service in the space-to-Earth direction. The Notice of Proposed Rulemaking proposes to add these allocations to the U.S. Table of Frequency Allocations (non-Federal), and proposes modification of existing technical rules to prevent harmful interference between services in these bands.

Timetable:

Action | Date | FR Cite
NPRM | 02/01/21 | 86 FR 7660
NPRM Comment Period End | 03/03/21
NPRM Reply Comment Period End | 03/18/21
R&O | 09/03/22
Next Action Undetermined

Regulatory Flexibility Analysis Required: Yes.

Agency Contact: Sean O'More, Attorney Advisor, International Bureau, Federal Communications Commission, 45 L Street NE, Washington, DC 20554, Phone: 245 418-2453, Email: sean.omore@fcc.gov.

RIN: 3060-AL28

535. Revising Spectrum Sharing Rules for Non-Geostationary Orbit, Fixed-Satellite Service Systems: IB Docket No. 21-456 [3060-AL41]

Legal Authority: 47 U.S.C. 154(i); 47 U.S.C. 157(a); 47 U.S.C. 303; 47 U.S.C. 308(b); 47 U.S.C. 316

Abstract: This Notice of Proposed Rulemaking (NPRM) seeks comment on revisions to the spectrum sharing requirements among non-geostationary satellite orbit (NGSO), fixed-satellite service (FSS) systems. The NPRM proposes that the Commission's existing spectrum sharing mechanism for NGSO FSS systems will be limited to those systems approved in the same processing round. The NPRM also proposes to adopt a rule providing that later-round NGSO FSS systems will have to protect earlier-round systems, and invites comment on how to define such protection. In addition, the NPRM seeks comment on whether to sunset, after a period of time, the interference protection afforded to an NGSO FSS system because of its processing round status.

Timetable:

Action | Date | FR Cite
NPRM | 01/24/22 | 87 FR 3481
NPRM Comment Period End | 03/25/22
Next Action Undetermined

Regulatory Flexibility Analysis Required: Yes.

Agency Contact: Clay DeCell, Attorney Advisor, Federal Communications Commission, International Bureau, 45 L Street NE, Washington, DC 20554, Phone: 202 418-0803, Email: clay.decell@fcc.gov.

RIN: 3060-AL41

FEDERAL COMMUNICATIONS COMMISSION (FCC)

Media Bureau

Long-Term Actions

536. Revision of EEO Rules and Policies (MM Docket No. 98-204) [3060-AH95]

Legal Authority: 47 U.S.C. 151; 47 U.S.C. 154; 47 U.S.C. 257; 47 U.S.C. 301; 47 U.S.C. 303; 47 U.S.C. 307 to 309; 47 U.S.C. 334; 47 U.S.C. 403; 47 U.S.C. 554

Abstract: FCC authority to govern Equal Employment Opportunity (EEO) responsibilities of cable television operators was codified in the Cable Communications Policy Act of 1984. This authority was extended to television broadcast licensees and other multi-channel video programming distributors (MVPDs) in the Cable and Television Consumer Protection Act of 1992. In the Second Report and Order, the FCC adopted new EEO rules and policies. This action was in response to a decision of the U.S. Court of Appeals for the District of Columbia Circuit that found prior EEO rules unconstitutional. The Third Notice of Proposed Rulemaking (NPRM) requested comment as to the applicability of the EEO rules to part-time employees. The Third Report and Order adopted revised forms for broadcast station and MVPD Annual Employment Reports. The 2021 NPRM sought to update the existing record.

Timetable:

Action | Date | FR Cite
NPRM | 01/14/02 | 67 FR 1704
Second R&O and Third NPRM | 01/07/03 | 68 FR 670
Correction | 01/13/03 | 68 FR 1657
Fourth NPRM | 06/23/04 | 69 FR 34986
Third R&O | 06/23/04 | 69 FR 34950
FNPRM | 08/31/21 | 86 FR 48610
FNPRM Comment Period End | 09/30/21
Next Action Undetermined

Regulatory Flexibility Analysis Required: Yes.

Agency Contact: Brendan Holland, Chief, Industry Analysis Division, Media Bureau, Federal Communications Commission, 45 L Street NE, Washington, DC 20554, Phone: 202 418-2757, Email: brendan.holland@fcc.gov

RIN: 3060-AH95

537. Establishment of Rules for Digital Low-Power Television, Television Translator, and Television Booster Stations (MB Docket No. 03-185) [3060-AI38]

Legal Authority: 47 U.S.C. 309; 47 U.S.C. 336

Abstract: This proceeding initiated the digital television conversion for low-power television (LPTV) and television translator stations. The rules and policies adopted as a result of this proceeding provide the framework for these stations' conversion from analog to digital broadcasting.

Timetable:

Action | Date | FR Cite
NPRM | 09/26/03 | 68 FR 55566
NPRM Comment Period End | 11/25/03 |
R&O | 11/29/04 | 69 FR 69325
FNPRM and MO&O | 10/18/10 | 75 FR 63766
2nd R&O | 07/07/11 | 76 FR 44821
3rd NPRM | 11/28/14 | 79 FR 70824
NPRM Comment Period End | 12/29/14 |
NPRM Reply Comment Period End | 01/12/15 |
3rd R&O | 02/01/16 | 81 FR 5041
4th NPRM | 02/01/16 | 81 FR 5086
Comment Period End | 02/22/16 |
NPRM | 12/23/19 | 84 FR 70489
5th NPRM | 06/17/22 | 87 FR 36440
Next Action Undetermined

Regulatory Flexibility Analysis Required: Yes.

Agency Contact: Shaun Maher, Attorney, Video Division, Federal Communications Commission, Media Bureau, 45 L Street NE, Washington, DC 20554, Phone: 202 418-2324, Fax: 202 418-2827, Email: shaun.maher@fcc.gov.

RIN: 3060-AI38

538. Authorizing Permissive Use of the “Next Generation” Broadcast Television Standard (GN Docket No. 16-142) [3060-AK56]

Legal Authority: 47 U.S.C. 151; 47 U.S.C. 154; 47 U.S.C. 157; 47 U.S.C. 301; 47 U.S.C. 303; 47 U.S.C. 307 to 309; 47 U.S.C. 316; 47 U.S.C. 319; 47 U.S.C. 325(b); 47 U.S.C. 336; 47 U.S.C. 399(b); 47 U.S.C. 403; 47 U.S.C. 534; 47 U.S.C. 535

Abstract: In this proceeding, the Commission seeks to authorize television broadcasters to use the “Next Generation” ATSC 3.0 broadcast television transmission standard on a voluntary, market-driven basis, while they continue to deliver current-generation digital television broadcast service to their viewers. In the Report and Order, the Commission adopted rules to afford broadcasters flexibility to deploy ATSC 3.0-based transmissions, while minimizing the impact on, and costs to, consumers and other industry stakeholders.

In the 2nd R&O, the Commission provided additional guidance to broadcasters deploying Next Gen TV.

In 2021, the Commission made a technical modification to the rules governing the use of a distribution transmission system by a television station to account for deployment of ATSC 3.0. Further, the Commission released an FNPRM that sought comment on rule changes designed to preserve over-the-air viewers access to the widest possible range of television programming. The 3rd FNPRM sought comment on the state of the Next Gen TV transition.

Timetable:

Action | Date | FR Cite
NPRM | 03/10/17 | 82 FR 13285
NPRM Comment Period End | 05/09/17
FNPRM | 12/20/17 | 82 FR 60350
R&O | 02/02/18 | 83 FR 4998
FNPRM Comment Period End | 02/20/18
FNPRM Reply Comment Period End | 03/20/18
NPRM | 05/13/20 | 85 FR 28586
2nd R&O Order on Recon | 07/17/20 | 85 FR 43478
Report & Order | 04/22/21 | 86 FR 21217
FNPRM | 12/13/21 | 86 FR 70793
FNPRM Comment Period End | 02/11/22
3rd FNPRM | 07/07/22 | 87 FR 40464
Next Action Undetermined

Regulatory Flexibility Analysis Required: Yes.

Agency Contact: Ty Bream, Attorney Advisor, Industry Analysis Div., Federal Communications Commission, 45 L Street NE, Washington, DC 20554, Phone: 202 418-0644, Email: ty.bream@fcc.gov.

RIN: 3060-AK56

539. 2018 Quadrennial Regulatory Review of the Commission's Broadcast Ownership Rules (MB Docket 18-349) [3060-AK77]

Legal Authority: 47 U.S.C. 151; 47 U.S.C. 152(a); 47 U.S.C. 154(i); 47 U.S.C. 257; 47 U.S.C. 303; 47 U.S.C. 307; 47 U.S.C. 309 and 310; 47 U.S.C. 403; sec. 202(h) of the Telecommunications Act

Abstract: Section 202(h) of the Telecommunications Act of 1996 requires the Commission to review its broadcast ownership rules every 4 years and to determine whether any such rules are necessary in the public interest as the result of competition. The rules subject to review in the 2018 quadrennial review are the Local Radio Ownership Rule, the Local Television Ownership Rule, and the Dual Network Rule. The Commission also sought comment on potential pro-diversity proposals including extending cable procurement requirements to broadcasters, adopting formulas aimed at creating media ownership limits that promote diversity, and developing a model for market-based, tradeable diversity credits to serve as an alternative method for setting ownership limits.

Timetable:

Action | Date | FR Cite
NPRM | 02/28/19 | 84FR 6741
Next Action Undetermined

Regulatory Flexibility Analysis Required: Yes.

Agency Contact: Brendan Holland, Chief, Industry Analysis Division, Media Bureau, Federal Communications Commission, 45 L Street NE, Washington, DC 20554, Phone: 202 418-2757, Email: brendan.holland@fcc.gov.

RIN: 3060-AK77

540. Equal Employment Opportunity Enforcement (MB Docket 19-177) [3060-AK86]

Legal Authority: 47 U.S.C. 151; 47 U.S.C. 154(i); 47 U.S.C. 154(j); 47 U.S.C. 334; 47 U.S.C. 554

Abstract: In this proceeding, the Commission seeks comment on ways in which it can make improvements to equal employment opportunity (EEO) compliance and enforcement.

Timetable:

Action | Date | FR Cite
NPRM | 07/22/19 | 84 FR 35063
Next Action Undetermined

Regulatory Flexibility Analysis Required: Yes.

Agency Contact: Radhika Karmarker, Attorney Advisor, IAD, Media Bureau, Federal Communications Commission, 45 L Street NE, Washington, DC 20554, Phone: 202 418-1523, Email: radhika.karmarkar@fcc.gov.

RIN: 3060-AK86

541. Duplication of Programming on Commonly Owned Radio Stations (MB Docket No. 19-310) [3060-AL19]

Legal Authority: 47 U.S.C. 151. 154(i), 154(j), and 303(r)

Abstract: In this proceeding, the Commission eliminated the radio duplication rule. The rule bars same-service (AM or FM) commercial radio stations from duplicating more than 25% of their total hours of programming in an average broadcast week if the stations have 50% or more contour overlap and are commonly owned or subject to a time brokerage agreement. Petitions for reconsideration are pending.

Timetable:

Action | Date | FR Cite
NPRM | 12/23/19 | 84 FR 70485
Report & Order | 10/22/20 | 85 FR 67303
Next Action Undetermined

Regulatory Flexibility Analysis Required: Yes.

Agency Contact: Brendan Holland, Chief, Industry Analysis Division, Media Bureau, Federal Communications Commission, 45 L Street NE, Washington, DC 20554, Phone: 202 418-2757, Email: brendan.holland@fcc.gov.

RIN: 3060-AL19

542. Sponsorship Identification Requirements for Foreign Government-Provided Programming (Mb Docket No. 20-299) [3060-AL20]

Legal Authority: 47 U.S.C. 151, 154, 155, 301, 303, 307, 309, 310, 334, 336, 339

Abstract: In this proceeding, the Commission modifies its rules to require specific disclosure requirements for broadcast programming that is paid for, or provided by a foreign government or its representative. Petitions for reconsideration are pending.

Timetable:

Action | Date | FR Cite
NPRM | 11/24/20 | 85 FR 74955
R&O | 06/17/21 | 86 FR 32221
Next Action Undetermined

Regulatory Flexibility Analysis Required: Yes.

Agency Contact: Radhika Karmarker, Attorney Advisor, IAD, Media Bureau, Federal Communications Commission, 45 L Street NE, Washington, DC 20554, Phone: 202 418-1523, Email: radhika.karmarkar@fcc.gov.

RIN: 3060-AL20

543. FM Broadcast Booster Stations (MB Docket 20-401) [3060-AL21]

Legal Authority: 47 U.S.C. 151, 154, 157, 301, 302, 303, 307, 308, 309, 316, 319, 324

Abstract: In this proceeding, the Commission proposes to amend its rules to enable FM broadcasters to use FM booster stations to air geo-targeted content (e.g., news, weather, and advertisements) independent of the signals of its primary station within different portions of the primary station's protected service contour for a limited period of time during the broadcast hour.

Timetable:

Action | Date | FR Cite
NPRM | 01/11/21 | 86 FR 1909
Next Action Undetermined

Regulatory Flexibility Analysis Required: Yes.

Agency Contact: Al Shuldiner, Chief, Audio Div., Media Bureau, Federal Communications Commission, 45 L Street NE, Washington, DC 20554, Phone: 202 418-2700, Email: albert.shuldiner@fcc.gov.

RIN: 3060-AL21

544. • Update to Publication for Television Broadcast Station DMA Determinations for Cable and Satellite Carriage (MB Docket No. 22-239) [3060-AL46]

Legal Authority: 47 U.S.C. 151, 152, 154(i), 154(j), 303, 325, 335, 338, 339, 340, 403, and 534

Abstract: In this proceeding, the Commission considers referencing a new publication for use in determining a television station's designated market area for satellite and cable carriage under the Commission's regulations.

Timetable:

Action | Date | FR Cite
NPRM | 07/28/22 | 87 FR 45288
Next Action Undetermined

Regulatory Flexibility Analysis Required: Yes.

Agency Contact: Kenneth Lewis, Attorney Advisor, Federal Communications Commission, Media Bureau, 445 12th Street SW, Washington, DC 20554, Phone: 202 418-2622, Email: kennth.lewis@fcc.gov.

RIN: 3060-AL46

FEDERAL COMMUNICATIONS COMMISSION (FCC)

Office of Managing Director

Long-Term Actions

545. Assessment and Collection of Regulatory Fees [3060-AK64]

Legal Authority: 47 U.S.C. 159

Abstract: Section 9 of the Communications Act of 1934, as amended (47 U.S.C. 159), requires the Federal Communications Commission to recover the cost of its activities by assessing and collecting annual regulatory fees from beneficiaries of the activities.

Timetable:

Action | Date | FR Cite
NPRM | 06/06/17 | 82 FR 26019
R&O | 09/22/17 | 82 FR 44322
NPRM | 06/14/18 | 83 FR 27846
NPRM Comment Period End | 06/21/18
R&O | 09/18/18 | 83 FR 47079
NPRM | 06/05/19 | 84 FR 26234
NPRM Comment Period End | 06/07/19
R&O | 09/26/19 | 84 FR 50890
NPRM | 05/08/20 | 85 FR 32256
R&O | 06/22/20 | 85 FR 37364
NPRM | 05/13/21 | 86 FR 26262
R&O | 05/17/21 | 86 FR 26677
NPRM | 09/21/21 | 86 FR 52429
R&O | 09/22/21 | 86 FR 52742
NPRM Comment Period End | 10/21/21
NPRM | 06/28/22 | 87 FR 38588
Report & Order | 09/14/22 | 87 FR 56494
Next Action Undetermined

Regulatory Flexibility Analysis Required: Yes.

Agency Contact: Roland Helvajian, Office of the Managing Director, Federal Communications Commission, 445 12th Street SW, Washington, DC 20554, Phone: 202 418-0444, Email: roland.helvajian@fcc.gov.

RIN: 3060-AK64

FEDERAL COMMUNICATIONS COMMISSION (FCC)

Public Safety and Homeland Security Bureau

Long-Term Actions

546. Wireless E911 Location Accuracy Requirements: PS Docket No. 07-114 [3060-AJ52]

Legal Authority: 47 U.S.C. 151; 47 U.S.C. 154; 47 U.S.C. 332

Abstract: This rulemaking is related to the proceedings in which the FCC previously acted to improve the quality of all emergency services. Wireless carriers must provide specific automatic location information in connection with 911 emergency calls to Public Safety Answering Points (PSAPs). Wireless licensees must satisfy enhanced 911 location accuracy standards at either a county-based or a PSAP-based geographic level.

Timetable:

Action | Date | FR Cite
NPRM | 06/20/07 | 72 FR 33948
R&O | 02/14/08 | 73 FR 8617
Public Notice | 09/25/08 | 73 FR 55473
FNPRM; NOI | 11/02/10 | 75 FR 67321
Public Notice | 11/18/09 | 74 FR 59539
2nd R&O | 11/18/10 | 75 FR 70604
Second NPRM | 08/04/11 | 76 FR 47114
Second NPRM Comment Period End | 11/02/11
Final Rule | 04/28/11 | 76 FR 23713
NPRM, 3rd R&O, and 2nd FNPRM | 09/28/11 | 76 FR 59916
3rd FNPRM | 03/28/14 | 79 FR 17820
Order Extending Comment Period | 06/10/14 | 79 FR 33163
3rd FNPRM Comment Period End | 07/14/14
Public Notice (Release Date) | 11/20/14
Public Notice Comment Period End | 12/17/14
4th R&O | 03/04/15 | 80 FR 11806
Final Rule | 08/03/15 | 80 FR 45897
Order Granting Waiver | 07/10/17
NPRM | 09/26/18 | 83 FR 54180
4th NPRM | 03/18/19 | 84 FR 13211
5th R&O | 01/16/20 | 85 FR 2660
5th NPRM | 01/16/20 | 85 FR 2683
5th NPRM Comment Period End | 03/16/20
6th R&O and Order on Recon | 08/28/20 | 85 FR 53234
Next Action Undetermined

Regulatory Flexibility Analysis Required: Yes.

Agency Contact: Brenda Boykin, Deputy Chief, Policy & Licensing Division, Public Safety and Homeland Security Bureau, Federal Communications Commission, 45 L Street NE, Washington, DC 20554, Phone: 202 418-2062, Email: brenda.boykin@fcc.gov.

RIN: 3060-AJ52

547. Improving Outage Reporting for Submarine Cables and Enhancing Submarine Cable Outage Data; GN Docket No. 15-206 [3060-AK39]

Legal Authority: 47 U.S.C. 151; 47 U.S.C. 154; 47 U.S.C. 34 to 39; 47 U.S.C. 301

Abstract: This proceeding takes steps toward assuring the reliability and resiliency of submarine cables, a critical piece of the Nation's communications infrastructure, by proposing to require submarine cable licensees to report to the Commission when outages occur and communications are disrupted. The Commission's intent is to enhance national security and emergency preparedness by these actions. In December 2019, the Commission adopted an Order on Reconsideration that modifies the requirement for submarine cable licensees to report outages to the Commission.

Timetable:

Action | Date | FR Cite
NPRM (Release Date) | 09/18/15
R&O | 06/24/16 | 81 FR 52354
Petitions for Recon | 09/08/16
Petitions for Recon—Public Comment | 10/17/16 | 81 FR 75368
Order on Recon | 12/20/19 | 84 FR 15733
PRA Approval for new collection | 03/25/21
Public Notice re effective date | 04/28/21
Compliance Date for New Rules | 10/28/21
Next Action Undetermined

Regulatory Flexibility Analysis Required: Yes.

Agency Contact: Scott Cinnamon, Attorney-Advisor, Federal Communications Commission, 45 L Street NE, Washington, DC 20554, Phone: 202 418-2319, Email: scott.cinnamon@fcc.gov.

RIN: 3060-AK39

548. Amendments to Part 4 of the Commission's Rules Concerning Disruptions to Communications: PS Docket No. 15-80 [3060-AK40]

Legal Authority: sec. 1, 4(i), 4(j), 4(o), 251(e)(3), 254, 301, 303(b), 303(g), 303(r), 307, 309(a), 309(j); 316, 332, 403, 615a-1, and 615c of Pub. L. 73-416, 4 Stat. 1064, as amended; and sec. 706 of Pub. L. 104-104, 110 Stat. 56; 47 U.S.C. 151, 154(i)-(j) & (o), 251(e)(3), 254, 301, 303(b), 303(g), 303(r), 307; 309(a), 309(j), 316, 332, 403, 615a-1, 615c, and 1302, unless otherwise noted

Abstract: The 2004 Report and Order (R&O) extended the Commission's communication disruptions reporting rules to non-wireline carriers and streamlined reporting through a new electronic template (see docket ET Docket 04-35). In 2015, this proceeding, PS Docket 15-80, was opened to amend the original communications disruption reporting rules from 2004 in order to reflect technology transitions observed throughout the telecommunications sector. The Commission seeks to further study the possibility to share the reporting database information and access with State and other Federal entities. In May 2016, the Commission released a Report and Order, FNPRM, and Order on Reconsideration (see also Dockets 11-82 and 04-35). The R&O adopted rules to update the part 4 requirements to reflect technology transitions. The FNPRM sought comment on sharing information in the reporting database. Comments and replies were received by the Commission in August and September 2016.

In March 2020, the Commission adopted a Second Further Notice of Proposed Rulemaking in PS Docket No. 15-80 that proposed a framework to provide state and federal agencies with access to outage information to improve their situational awareness while preserving the confidentiality of this data, including proposals to: provide direct, read-only access to NORS and DIRS filings to qualified agencies of the 50 states, the District of Columbia, Tribal nations, territories, and federal government; allow these agencies to share NORS and DIRS information with other public safety officials that reasonably require NORS and DIRS information to prepare for and respond to disasters; allow participating agencies to publicly disclose NORS or DIRS filing information that is aggregated and anonymized across at least four service providers; condition a participating agency's direct access to NORS and DIRS filings on their agreement to treat the filings as confidential and not disclose them absent a finding by the Commission that allows them to do so; and establish an application process that would grant agencies access to NORS and DIRS after those agencies certify to certain requirements related to maintaining confidentiality of the data and the security of the databases. In March 2021, the Commission adopted the proposed information sharing framework with some modifications in a Second Report and Order. In April 2021, in a Notice of Proposed Rulemaking, the Commission proposed to codify a rule adopted in 2016 that exempts satellite and terrestrial wireless providers from reporting outages that potentially affect special offices and facilities, as defined in Commission rules. This proceeding addresses the Commission's efforts to improve the utility of its efforts to track network outages and disruptions and does not promote the administration's specified priorities.

In May 2021, the California Public Utilities Commission (CPUC) filed a Petition for Reconsideration (PFR) requesting that the Commission reconsider its decision in the Second Report and Order to maintain the presumption of confidentiality applied to NORS and DIRS filings. The Commission sought comment on the PFR's requests.

Timetable:

Action | Date | FR Cite
NPRM, 2nd R&O, Order on Recon | 06/16/15 | 80 FR 34321
NPRM Comment Period End | 07/31/15
R&O | 07/12/16 | 81 FR 45055
FNPRM, 1 Part 4 R&O, Order on Recon | 08/11/16 | 81 FR 45059
Order Denying Reply Comment Deadline Extension Request | 09/08/16
FNPRM Comment Period End | 09/12/16
Announcement of Effective Date for Rule Changes in R&O | 06/22/17 | 82 FR 28410
Announcement of Effective Date for Rule Changes in R&O | 06/22/17 | 82 FR 28410
Second Further NPRM | 02/28/20 | 85 FR 17818
Second Further NPRM Comment Period End | 06/01/20
2nd R&O | 04/29/21 | 86 FR 22796
3rd NPRM | 06/30/21 | 86 FR 34679
CPUC PFR Comment Period End | 08/23/21 | 86 FR 40801
Next Action Undetermined

Regulatory Flexibility Analysis Required: Yes.

Agency Contact: Saswat Misra, Attorney-Advisor, Public Safety and Homeland Security Bureau, Federal Communications Commission, 45 L Street NE, Washington, DC 20554, Phone: 202 418-0944, Email: saswat.misra@fcc.gov.

RIN: 3060-AK40

549. New Part 4 of the Commission's Rules Concerning Disruptions to Communications; ET Docket No. 04-35 [3060-AK41]

Legal Authority: 47 U.S.C. 154 and 155; 47 U.S.C. 201; 47 U.S.C. 251; 47 U.S.C. 307; 47 U.S.C. 316

Abstract: The proceeding creates a new part 4 in title 47 and amends part 63.100. The proceeding updates the Commission's communication disruptions reporting rules for wireline providers formerly in 47 CFR 63.100 and extends these rules to other non-wireline providers. Through this proceeding, the Commission streamlines the reporting process through an electronic template. The Report and Order received several petitions for reconsideration, of which two were eventually withdrawn. In 2015, seven were addressed in an Order on Reconsideration and in 2016 another petition was addressed in an Order on Reconsideration. One petition (CPUC Petition) remains pending regarding NORS database sharing with States, which is addressed in a separate proceeding, PS Docket 15-80. To the extent the communication disruption rules cover VoIP, the Commission studies and addresses these questions in a separate docket, PS Docket 11-82.

In May 2016, the Commission released a Report and Order, FNPRM, and Order on Reconsideration (see Dockets 11-82 and 15-80). The Order on Reconsideration addressed outage reporting for events at airports, and the FNPRM sought comment on database sharing. The Commission received comments and replies in August and September 2016.

Timetable:

Action | Date | FR Cite
NPRM | 03/26/04 | 69 FR 15761
R&O | 11/26/04 | 69 FR 68859
Denial for Petition for Partial Stay | 12/02/04
Seek Comment on Petition for Recon | 02/02/10
Reply Period End | 03/19/10
Seek Comment on Broadband and Interconnected VOIP Service Providers | 07/02/10
Reply Period End | 08/16/12
2nd R&O, and Order on Recon, NPRM | 06/16/15 | 80 FR 34321
R&O | 07/12/16 | 81 FR 45055
FNPRM, 1 Part 4 R&O, Order on Recon | 08/11/16 | 81 FR 45095, 81 FR 45055
Order Denying Extension of Time to File Reply Comments | 09/08/16
Announcement of Effective Date for Rule Changes in R&O | 06/22/17 | 82 FR 28410
Next Action Undetermined

Regulatory Flexibility Analysis Required: Yes.

Agency Contact: Saswat Misra, Attorney-Advisor, Public Safety and Homeland Security Bureau, Federal Communications Commission, 45 L Street NE, Washington, DC 20554, Phone: 202 418-0944, Email: saswat.misra@fcc.gov.

RIN: 3060-AK41

550. Wireless Emergency Alerts (WEA): PS Docket No. 15-91 [3060-AK54]

Legal Authority: Pub. L. 109-347, title VI; 47 U.S.C. 151; 47 U.S.C. 154(i)

Abstract: This proceeding was initiated to improve Wireless Emergency Alerts (WEA) messaging, ensure that WEA alerts reach only those individuals to whom they are relevant, and establish an end-to-end testing program based on advancements in technology.

Timetable:

Action | Date | FR Cite
NPRM | 11/19/15 | 80 FR 77289
NPRM Comment Period End | 01/13/16
NPRM Reply Comment Period End | 02/12/16
Order | 11/01/16 | 81 FR 75710
FNPRM | 11/08/16 | 81 FR 78539
Comment Period End | 12/08/16
Petition for Recon | 12/19/16 | 81 FR 91899
Order on Recon | 12/04/17 | 82 FR 57158
2nd R&O and 2nd Order on Recon | 02/28/18 | 83 FR 8619
Public Notice | 04/26/18 | 83 FR 18257
Public Notice Comment Period End | 05/29/18
Public Notice Reply Comment Period End | 06/11/18
FNPRM | 05/20/22 | 87 FR 30857
Next Action Undetermined

Regulatory Flexibility Analysis Required: Yes.

Agency Contact: James Wiley, Attorney Advisor, Public Safety and Homeland Security Bureau, Federal Communications Commission, 45 L Street NE, Washington, DC 20554, Phone: 202 418-1678, Email: james.wiley@fcc.gov.

RIN: 3060-AK54

551. 911 Fee Diversion Rulemaking: PS Docket Nos. 20-291, 09-14 [3060-AL31]

Legal Authority: Consolidated Appropriations Act, 2021, Pub. L. 116-260, Division FF, title 1X, sec. 902, Don't Break Up the T-Band Act of 2020 (sec. 902)

Abstract: In 2020, Congress adopted the “Don't Break Up the T-Band Act” (section 902) to help address the diversion of 911 fees by states and other jurisdictions for purposes unrelated to 911. Among other requirements, Congress mandated that the Commission should issue final rules designating the uses of 911 fees by states and taxing jurisdictions that constitute 911 fee diversion for purposes of 47 U.S.C. 615a-1, as amended by section 902. The Commission initiated this proceeding and issued new rules at 47 CFR 9.21-9.26 that: (1) clarify the purposes and functions for which expenditures of 911 fees are acceptable and which would be considered unacceptable and constitute diversion, with illustrative, non-exhaustive examples of each; (2) establish a declaratory ruling process for providing further guidance to states and taxing jurisdictions on fee diversion issues; and (3) codify the specific obligations and restrictions that section 902 imposes on states and taxing jurisdictions, including those that engage in diversion as defined by the Commission's rules.

Timetable:

Action | Date | FR Cite
Notice of Inquiry | 10/02/20
NOI Comment Period End | 11/02/20
NOI Reply Comment Period End | 12/02/20
NPRM | 02/17/21 | 86 FR 12399
NPRM Comment Period End | 03/23/21
NPRM Reply Comment Period End | 04/02/21 | 86 FR 12399
Report & Order | 06/25/21 | 86 FR 45892
R&O Erratum | 08/12/21 | 86 FR 45892
Petition for Recon | 12/22/21 | 86 FR 72546
Oppositions to Petition for Recon | 01/06/22
Replies to Oppositions to Petition for Recon | 01/18/22
Next Action Undetermined

Regulatory Flexibility Analysis Required: Yes.

Agency Contact: Brenda Boykin, Deputy Chief, Policy & Licensing Division, Public Safety and Homeland Security Bureau, Federal Communications Commission, 45 L Street NE, Washington, DC 20554, Phone: 202 418-2062, Email: brenda.boykin@fcc.gov.

RIN: 3060-AL31

552. Resilient Networks, Amendments to Part 4 of the Commission's Rules Concerning Disruptions to Communications; PS Docket No 21-346, PS Docket No. 15-80, ET Docket No. 04-35 [3060-AL43]

Legal Authority: 47 U.S.C. 151; 47 U.S.C. 154(i)-(j); 47 U.S.C. 154(n)-(o); 47 U.S.C. 201; 47 U.S.C. 202; 47 U.S.C. 214; 47 U.S.C. 218; 47 U.S.C. 251(e)(3); 47 U.S.C. 254; 47 U.S.C. 301; 47 U.S.C. 303(b); 47 U.S.C. 303(g); 47 U.S.C. 303(r); 47 U.S.C. 307; 47 U.S.C. 309(a); 47 U.S.C. 309(j); 47 U.S.C. 316; 47 U.S.C. 332; 47 U.S.C. 403; . . .

Abstract: In October 2021, the Commission adopted a Notice of Proposed Rulemaking (NPRM) to investigate ways to improve the reliability and resiliency of communications networks during emergencies and ways to ensure that communications services remain operational when disasters strike. The NPRM sought comment on: (i) potential improvements to the voluntary Wireless Resiliency Cooperative Framework (Framework), including evaluating what triggers its activation, its scope of participants, whether existing Framework elements can be strengthened, any gaps that need to be addressed, and whether the public would benefit from codifying some or all of the Framework, (ii) ways to enhance the information available to the Commission through Network Outage Reporting System (NORS) and Disaster Information Reporting System (DIRS) during disasters and network outages to improve situational awareness, and (iii) communications resiliency strategies for power outages, including improved coordination between communications service providers and power companies and deploying onsite backup power or other alternative measures to reduce the frequency, duration, or severity of power-related disruptions to communications services. In June 2022, the Commission adopted a Report & Order (R&O) and Further Notice of Proposed Rulemaking (FNPRM) following up on and further addressing matters related to the Framework. The R&O introduced the MDRI, which largely codifies the Framework's five substantive provisions as mandatory, extended the reach of these provisions to all facilities-based mobile wireless providers, expanded the real-world criteria that trigger activation of the MDRI (as compared to the Framework) and introduced new provisions requiring providers to test their roaming capabilities and report on the performance of their implementation of the MDRI to the Commission after disaster events. The FNPRM examined whether and how the new reporting requirement can be standardized to ensure that the Commission obtains vital and actionable information on the performance of providers' implementation of the MDRI in the aftermath of exigency, while also minimizing associated burdens.This proceeding addresses network reliability in the context of public safety and does not promote the administration's specified priorities.

Timetable:

Action | Date | FR Cite
NPRM | 10/01/21 | 86 FR 61103
NPRM Comment Period End | 01/14/22
FNPRM | 06/27/22 | 87 FR 59379
R&O | 06/27/22 | 87 FR 59329
FNPRM Comment Period End | 10/31/22
FNPRM Reply Comment Period End | 11/29/22
Next Action Undetermined

Regulatory Flexibility Analysis Required: Yes.

Agency Contact: Saswat Misra, Attorney-Advisor, Public Safety and Homeland Security Bureau, Federal Communications Commission, 45 L Street NE, Washington, DC 20554, Phone: 202 418-0944, Email: saswat.misra@fcc.gov.

RIN: 3060-AL43

FEDERAL COMMUNICATIONS COMMISSION (FCC)

Public Safety and Homeland Security Bureau

Completed Actions

553. Recommendations of the Independent Panel Reviewing the Impact of Hurricane Katrina on Communications Networks [3060-AI78]

Legal Authority: 47 U.S.C. 151; 47 U.S.C. 154(i); 47 U.S.C. 218; 47 U.S.C. 303(r)

Abstract: In the Order released June 8, 2007 (EB Docket No. 06-119 and WC Docket No. 06-63), the Commission directed the Public Safety and Homeland Security Bureau to implement several of the recommendations made by the Independent Panel reviewing the impact of Hurricane Katrina on Communications Networks (Independent Panel). The Commission also adopted rules requiring some communications providers to have emergency/backup power and requiring certain communications providers to conduct analyses and submit reports on the redundancy and resiliency of their 911 and E911 networks and/or systems. Finally, the Commission extended limited regulatory relief from section 272 of the Communications Act of 1934, as amended, previously accorded by the Wireline Competition Bureau. In an Order on Reconsideration released on October 4, 2007, the Commission considered six petitions for reconsideration and/or clarification of the June 2007 Order that adopted the backup power rule (sec. 12.2 of the Commission's rules). The Order on Reconsideration granted in part and denied in part the petitions. The Commission modified the backup power rule to address several meritorious issues raised by petitioners. This modification will facilitate carrier compliance and reduce the burden on local exchange carriers and commercial mobile radio service providers, while continuing to further important homeland security and public safety goals. The wireless industry challenged the backup power rule in the U.S. Court of Appeals for the District of Columbia Circuit and, with some wireline providers, challenged the associated information collection before OMB. In February 2008, the Court issued a stay of the rule pending appeal, and, on July 8, 2008, the Court issued an order holding its decision on the challenge to the backup power rule in abeyance pending action by OMB on the information collection associated with the revised rule. In November 2008, OMB rejected the information collection. As a result of the actions by the Court and OMB, the backup power rule has never gone into effect. In December 2008, the FCC's Office of General Counsel requested that the Court dismiss the pending appeals of the backup power rule and informed the Court that the Commission plans to issue an NPRM to develop a revised rule. On July 31, 2009, the Court dismissed the petitions for review as moot and ordered that the backup power rule by vacated and this mandate was issued until September 18, 2009.

Timetable:

Action | Date | FR Cite
NPRM | 07/07/06 | 71 FR 38564
NPRM Comment Period End | 08/07/06
Order | 07/11/07 | 72 FR 37655
Delay of Effective Date of Rule | 08/10/07 | 72 FR 44978
Petitions for Recon | 08/20/07 | 72 FR 46485
Order on Recon | 10/11/07 | 72 FR 57879

Regulatory Flexibility Analysis Required: Yes.

Agency Contact: Lisa Fowlkes, Bureau Chief, Federal Communications Commission, Public Safety and Homeland Security Bureau, 445 12th Street SW, Washington, DC 20554, Phone: 202 418-7452, Email: lisa.fowlkes@fcc.gov.

RIN: 3060-AI78

FEDERAL COMMUNICATIONS COMMISSION (FCC)

Wireless Telecommunications Bureau

Long-Term Actions

554. Amendment of Parts 1, 2, 22, 24, 27, 90, and 95 of the Commission's Rules To Improve Wireless Coverage Through the Use of Signal Boosters (WT Docket No. 10-4) [3060-AJ87]

Legal Authority: 15 U.S.C. 79; 47 U.S.C. 151; 47 U.S.C. 154(i); 47 U.S.C. 154(j); 47 U.S.C. 155; 47 U.S.C. 157; 47 U.S.C. 225; 47 U.S.C. 227; 47 U.S.C. 303(r)

Abstract: This action adopts new technical, operational, and registration requirements for signal boosters. It creates two classes of signal boosters—consumer and industrial—with distinct regulatory requirements for each, thereby establishing a two-step transition process for equipment certification for both consumer and industrial signal boosters sold and marketed in the United States.

Timetable:

Action | Date | FR Cite
NPRM | 05/10/11 | 76 FR 26983
R&O | 04/11/13 | 78 FR 21555
Petition for Reconsideration | 06/06/13 | 78 FR 34015
Order on Reconsideration | 11/08/14 | 79 FR 70790
FNPRM | 11/28/14 | 79 FR 70837
2nd R&O and 2nd FNPRM | 03/23/18 | 83 FR 17131
Next Action Undetermined

Regulatory Flexibility Analysis Required: Yes.

Agency Contact: Jaclyn Rosen, Federal Communications Commission, Wireless Telecommunications Bureau, 45 L Street NE, Washington, DC 20554, Phone: 202 418-0154, Email: jaclyn.rosen@fcc.gov.

RIN: 3060-AJ87

555. Promoting Technological Solutions To Combat Wireless Contraband Device Use in Correctional Facilities; GN Docket No. 13-111 [3060-AK06]

Legal Authority: 47 U.S.C. 151 to 152; 47 U.S.C. 154(i); 47 U.S.C. 154(j); 47 U.S.C. 301; 47 U.S.C. 303(a); 47 U.S.C. 303(b); 47 U.S.C. 307 to 310; 47 U.S.C. 332; 47 U.S.C. 302(a)

Abstract: In the 2017 Report and Order, 82 FR 22742, the Commission addressed the problem of illegal use of contraband wireless devices by inmates in correctional facilities by streamlining the process of deploying contraband wireless device interdiction systems (CIS)—systems that use radio communications signals requiring Commission authorization—in correctional facilities. In particular, the Commission eliminated certain filing requirements and provides for immediate approval of the lease applications needed to operate these systems. In the 2017 Further Notice, 82 FR 22780, the Commission sought comment on a process for wireless providers to disable contraband wireless devices once they have been identified. The Commission also sought comment on additional methods and technologies that might prove successful in combating contraband device use in correctional facilities, and on various other proposals related to the authorization process for CISs and their deployment.

In the Second Report and Order, the Commission takes further steps to facilitate the deployment and viability of technological solutions used to combat contraband wireless devices in correctional facilities. The Second Report and Order adopts a framework requiring the disabling of contraband wireless devices detected in correctional facilities upon satisfaction of certain criteria, and the Commission addresses issues involving oversight, wireless provider liability, and treatment of 911 calls. The Second Report and Order further adopts rules requiring advance notice of certain wireless provider network changes to promote and maintain contraband interdiction system effectiveness. In the Second Further Notice of Proposed Rulemaking, the Commission takes further steps to facilitate the deployment and viability of technological solutions used to combat contraband wireless devices in correctional facilities. The Second Further Notice of Proposed Rulemaking seeks further comment on the relative effectiveness, viability, and cost of additional technological solutions to combat contraband phone use in correctional facilities previously identified in the record.

Timetable:

Action | Date | FR Cite
NPRM | 06/18/13 | 78 FR 36469
NPRM Comment Period End | 08/08/13
FNPRM | 05/18/17 | 82 FR 22780
R&O | 05/18/17 | 82 FR 22742
Final Rule Effective (Except for Rules Requiring OMB Approval) | 06/19/17
FNPRM Comment Period End | 07/17/17
Final Rule Effective for 47 CFR 1.9020(n), 1.9030(m), 1.9035 (o), and 20.23(a) | 10/20/17 | 82 FR 48773
Final Rule Effective for 47 CFR 1.902(d)(8), 1.9035(d)(4), 20.18(a), and 20.18(r) | 02/12/18
2nd FNPRM | 08/13/21 | 86 FR 44681
2nd R&O | 08/13/21 | 86 FR 44635
2nd FNPRM Comment Period End | 09/13/21
Final Rules Effective (except for those requiring OMB approval) | 09/13/21
Reply Comment Period End | 10/12/21
Final Rule Effective | 05/03/22 | 87 FR 26139
Next Action Undetermined

Regulatory Flexibility Analysis Required: Yes.

Agency Contact: Melissa Conway, Attorney Advisor, Mobility Div., Wireless Bureau, Federal Communications Commission, 445 12th Street SW, Washington, DC 20554, Phone: 202 418-2887, Email: melissa.conway@fcc.gov.

RIN: 3060-AK06

556. Promoting Investment in the 3550-3700 MHz Band; GN Docket No. 17-258 [3060-AK12]

Legal Authority: 47 U.S.C. 151 and 152; 47 U.S.C. 154(i); 47 U.S.C. 154(j) ; 47 U.S.C. 302(a); 47 U.S.C. 303 and 304; 47 U.S.C. 307(e); 47 U.S.C. 316

Abstract: The Report and Order and Second Further Notice of Proposed Rulemaking (NPRM) adopted by the Commission established a new Citizens Broadband Radio Service for shared wireless broadband use of the 3550 to 3700 MHz band. The Citizens Broadband Radio Service is governed by a three-tiered spectrum authorization framework to accommodate a variety of commercial uses on a shared basis with incumbent Federal and non-Federal users of the band. Access and operations will be managed by a dynamic spectrum access system. The three tiers are: Incumbent Access, Priority Access, and General Authorized Access. Rules governing the Citizens Broadband Radio Service are found in part 96 of the Commission's rules.

The Order on Reconsideration and Second Report and Order addressed several Petitions for Reconsideration submitted in response to the Report and Order and resolved the outstanding issues raised in the Second Further Notice of Proposed Rulemaking.

The 2017 NPRM sought comment on limited changes to the rules governing Priority Access Licenses in the band, adjacent channel emissions limits, and public release of base station registration information.

The 2018 Report and Order addressed the issues raised in the 2017 NPRM and implemented changes rules governing Priority Access Licenses in the band and public release of base station registration information.

On July 2020, the Commission commenced an auction of Priority Access Licenses in the band. “Winning bidders were announced on September 2, 2020”.

Timetable:

Action | Date | FR Cite
NPRM | 01/08/13 | 78 FR 1188
NPRM Comment Period End | 03/19/13
FNPRM | 06/02/14 | 79 FR 31247
FNPRM Comment Period End | 08/15/14
R&O and 2nd FNPRM | 06/15/15 | 80 FR 34119
2nd FNPRM Comment Period End | 08/14/15
Order on Recon and 2nd R&O | 07/26/16 | 81 FR 49023
NPRM | 11/28/17 | 82 FR 56193
NPRM Comment Period End | 01/29/18
R&O | 12/07/18 | 83 FR 6306
Next Action Undetermined

Regulatory Flexibility Analysis Required: Yes.

Agency Contact: Paul Powell, Assistant Chief, Mobility Division, WTB, Federal Communications Commission, Wireless Telecommunications Bureau, 45 L Street NE, Washington, DC 20554, Phone: 202 418-1613, Email: paul.powell@fcc.gov.

RIN: 3060-AK12

557. Updating Part 1 Competitive Bidding Rules (WT Docket No. 14-170) [3060-AK28]

Legal Authority: 47 U.S.C. 151; 47 U.S.C. 154(i); 47 U.S.C. 303(r); 47 U.S.C. 309(j); 47 U.S.C. 316

Abstract: This proceeding was initiated to revise some of the Commission's general part 1 rules governing competitive bidding for spectrum licenses to reflect changes in the marketplace, including the challenges faced by new entrants, as well as to advance the statutory directive to ensure that small businesses, rural telephone companies, and businesses owned by members of minority groups and women are given the opportunity to participate in the provision of spectrum-based services. In July 2015, the Commission revised its competitive bidding rules, specifically adopting revised requirements for eligibility for bidding credits, a new rural service provider bidding credit, a prohibition on joint bidding agreements and other changes.

Timetable:

Action | Date | FR Cite
NPRM | 11/14/14 | 79 FR 68172
Public Notice | 03/16/15 | 80 FR 15715
Public Notice | 04/23/15 | 80 FR 22690
R&O | 09/18/15 | 80 FR 56764
Public Notice on Petitions for Reconsideration | 11/10/15 | 80 FR 69630
Next Action Undetermined

Regulatory Flexibility Analysis Required: Yes.

Agency Contact: Kelly Quinn, Assistant Chief, Auctions and Spectrum Access Division, Federal Communications Commission, 445 12th Street SW, Washington, DC 20554, Phone: 202 418-0660, Email: kelly.quinn@fcc.gov.

RIN: 3060-AK28

558. Use of Spectrum Bands Above 24 GHz for Mobile Services—Spectrum Frontiers: WT Docket 10-112 [3060-AK44]

Legal Authority: 47 U.S.C. 151 to 154; 47 U.S.C. 157; 47 U.S.C. 160; 47 U.S.C. 201; 47 U.S.C. 225; 47 U.S.C. 227; 47 U.S.C. 301 and 302; 47 U.S.C. 302(a); 47 U.S.C. 303 and 304; 47 U.S.C. 307; 47 U.S.C. 309 and 310; 47 U.S.C. 316; 47 U.S.C. 319; 47 U.S.C. 332; 47 U.S.C. 336; 47 U.S.C. 1302

Abstract: In this proceeding, the Commission adopted service rules for licensing of mobile and other uses for millimeter wave (mmW) bands. These high frequencies previously have been best suited for satellite or fixed microwave applications; however, recent technological breakthroughs have newly enabled advanced mobile services in these bands, notably including very high speed and low latency services. This action will help facilitate Fifth Generation mobile services and other mobile services. In developing service rules for mmW bands, the Commission will facilitate access to spectrum, develop a flexible spectrum policy, and encourage wireless innovation.

Timetable:

Action | Date | FR Cite
NPRM | 01/13/16 | 81 FR 1802
NPRM Comment Period End | 02/26/16
FNPRM | 08/24/16 | 81 FR 58269
Comment Period End | 09/30/16
FNPRM Reply Comment Period End | 10/31/16
R&O | 11/14/16 | 81 FR 79894
R&O | 01/02/18 | 83 FR 37
FNPRM | 01/02/18 | 83 FR 85
FNPRM Comment Period End | 01/23/18
R&O | 07/20/18 | 83 FR 34478
FNPRM | 07/20/18 | 83 FR 34520
FNPRM Comment Period End | 09/28/18
R&O | 02/05/19 | 84 FR 1618
R&O | 05/01/19 | 84 FR 18405
Next Action Undetermined

Regulatory Flexibility Analysis Required: Yes.

Agency Contact: John Schauble, Deputy Chief, Broadband Division, Federal Communications Commission, 45 L Street NE, Washington, DC 20554, Phone: 202 418-0797, Email: john.schauble@fcc.gov.

RIN: 3060-AK44

559. Expanding Flexible Use of the 3.7 to 4.2 GHz Band: GN Docket No. 18-122 [3060-AK76]

Legal Authority: 47 U.S.C. 151 to 153; 47 U.S.C. 154(i); 47 U.S.C 157; 47 U.S.C. 201; 47 U.S.C. 301 to 304; 47 U.S.C. 307 to 310; 47 U.S.C. 1302; . . .

Abstract: In the 2020 Report and Order, the Commission adopted rules to make 280 megahertz of mid-band spectrum available for flexible use (plus a 20-megahertz guard band) throughout the contiguous United States. Pursuant to the Report and Order, existing fixed satellite service (FSS) and fixed services (FS) must relocate operations out of the lower portion of the 3.7-4.0 GHz band. The Commission will issue flexible use licenses in the 3.7-3.98 GHz portion of the band in the contiguous United States via a system of competitive bidding. The Commission established rules to govern the transition including optional payments for satellite operators that choose to relocate on an accelerated schedule and provide reimbursement to FSS operators and their associated earth stations for reasonable expenses incurred to facilitate the transition. The Report and Order also established service and technical rules for the new flexible use licenses that will be issued in the 3.7-3.98 GHz portion of the band. “On December 8, 2020, the Commission began an auction of licenses in the 3.7-3.98 GHz portion of the band. the winning bidders were announced on February 24, 2021”.

Timetable:

Action | Date | FR Cite
NPRM | 08/29/18 | 83 FR 44128
NPRM Comment Period End | 11/27/18
Public Notice | 05/20/19 | 84 FR 22733
Certifications and Data Filing Deadline | 05/28/19
Public Notice | 06/03/19 | 84 FR 22514
Public Notice Comment Period End | 07/03/19
Public Notice Reply Comment Period End | 07/18/19
R&O | 04/23/20 | 85 FR 22804
Next Action Undetermined

Regulatory Flexibility Analysis Required: Yes.

Agency Contact: Paul Powell, Assistant Chief, Mobility Division, WTB, Federal Communications Commission, Wireless Telecommunications Bureau, 45 L Street NE, Washington, DC 20554, Phone: 202 418-1613, Email: paul.powell@fcc.gov.

RIN: 3060-AK76

560. Amendment of the Commission's Rules To Promote Aviation Safety: WT Docket No. 19-140 [3060-AK92]

Legal Authority: 47 U.S.C. 154; 47 U.S.C. 303; 307(e)

Abstract: The Federal Communications Commission regulates the Aviation Radio Service, a family of services using dedicated spectrum to enhance the safety of aircraft in flight, facilitate the efficient movement of aircraft both in the air and on the ground, and otherwise ensure the reliability and effectiveness of aviation communications. Recent technological advances have prompted the Commission to open this new rulemaking proceeding to ensure the timely deployment and use of today's state-of-the-art safety-enhancing technologies. With this Notice of Proposed Rulemaking, the Commission proposes changes to its part 87 Aviation Radio Service rules to support the deployment of more advanced avionics technology, increase the efficient use of limited spectrum resources, and generally improve aviation safety.

Timetable:

Action | Date | FR Cite
NPRM | 07/02/19 | 84 FR 31542
NPRM Comment Period End | 09/03/19
NPRM Reply Comment Period End | 09/30/19
Next Action Undetermined

Regulatory Flexibility Analysis Required: Yes.

Agency Contact: Jeff Tobias, Attorney Advisor, Federal Communications Commission, Wireless Telecommunications Bureau, 45 L Street NE, Washington, DC 20554, Phone: 202 418-1617, Email: jeff.tobias@fcc.gov.

RIN: 3060-AK92

561. Implementation of State and Local Governments' Obligation To Approve Certain Wireless Facility Modification Requests Under Section 6409(a) of the Spectrum Act of 2012 (WT Docket No. 19-250) [3060-AL29]

Legal Authority: 47 U.S.C. chs. 2, 5, 9, 13; 28 U.S.C. 2461, unless otherwise noted.

Abstract: In this proceeding, the Commission seeks to reduce regulatory barriers to wireless infrastructure deployment by further streamlining the state and local government review process for modifications to existing wireless infrastructure under section 6409(a) of the Spectrum Act of 2012.

Timetable:

Action | Date | FR Cite
NPRM | 07/02/20 | 85 FR 39859
Declaratory Ruling | 07/27/20 | 85 FR 45126
NPRM Comment Period End | 08/03/20
R&O | 12/03/20 | 85 FR 78005
Petition for Recon | 03/03/21 | 86 FR 12898
Next Action Undetermined

Regulatory Flexibility Analysis Required: Yes.

Agency Contact: Georgios Leris, Federal Communications Commission, Wireless Telecommunications Bureau, 45 L Street NE, Washington, DC 20554, Phone: 202 418-1994, Email: georgios.leris@fcc.gov.

RIN: 3060-AL29

562. Expanding Flexible Use of the 12.2-12.7 GHz Band, et al., WT Docket No. 20-443, et al. [3060-AL40]

Legal Authority: 47 U.S.C. 151; 47 U.S.C. 152; 47 U.S.C. 153; 47 U.S.C. 154; 47 U.S.C. 155; 47 U.S.C. 157; 47 U.S.C. 301; 47 U.S.C. 302; 47 U.S.C. 303; 47 U.S.C. 304; 47 U.S.C. 307; 47 U.S.C. 309; 47 U.S.C. 310; 47 U.S.C. 316

Abstract: The Commission seeks input on feasibility of allowing mobile services in the 12.2-12.7 GHz band while protecting incumbents from harmful interference.

Timetable:

Action | Date | FR Cite
NPRM | 03/08/21 | 86 FR 13266
NPRM Comment Period End | 04/07/21
NPRM Reply Comment Period End | 05/07/21
NPRM | 04/16/21 | 86 FR 20111
NPRM Extension Comment Period End | 05/07/21
NPRM Extension Reply Comment Period End | 06/07/21
NPRM Denial of Further Extension of Deadlines for Filing Comments and Reply Comments | 05/27/21 | 86 FR 28520
NPRM | 06/22/21 | 86 FR 32669
NPRM Extension Reply Comment Period | 07/07/21
Next Action Undetermined

Regulatory Flexibility Analysis Required: Yes.

Agency Contact: Madelaine Major, Assistant Division Chief, Broadband Div., WTB, Federal Communications Commission, 45 L Street NE, Washington, DC 20554, Phone: 202 418-1466, Email: madelaine.major@fcc.gov.

RIN: 3060-AL40

FEDERAL COMMUNICATIONS COMMISSION (FCC)

Wireline Competition Bureau

Long-Term Actions

563. Local Telephone Networks That LECs Must Make Available to Competitors [3060-AH44]

Legal Authority: 47 U.S.C. 251

Abstract: The Commission adopted rules applicable to incumbent local exchange carriers (LECs) to permit competitive carriers to access portions of the incumbent LECs' networks on an unbundled basis. Unbundling allows competitors to lease portions of the incumbent LECs' network to provide telecommunications services. These rules, adopted in dockets CC 96-98, WC 01-338, and WC 04-313, are intended to accelerate the development of local exchange competition.

Timetable:

Action | Date | FR Cite
Second FNPRM | 04/26/99 | 64 FR 20238
Fourth FNPRM | 01/14/00 | 65 FR 2367
Errata Third R&O and Fourth FNPRM | 01/18/00 | 65 FR 2542
Second Errata Third R&O and Fourth FNPRM | 01/18/00 | 65 FR 2542
Supplemental Order | 01/18/00 | 65 FR 2542
Third R&O | 01/18/00 | 65 FR 2542
Correction | 04/11/00 | 65 FR 19334
Supplemental Order Clarification | 06/20/00 | 65 FR 38214
Public Notice | 02/01/01 | 66 FR 8555
Public Notice | 03/05/01 | 66 FR 18279
Public Notice | 04/10/01
Public Notice | 04/23/01
Public Notice | 05/14/01
NPRM | 01/15/02 | 67 FR 1947
Public Notice | 05/29/02
Public Notice | 08/01/02
Public Notice | 08/13/02
NPRM | 08/21/03 | 68 FR 52276
R&O and Order on Remand | 08/21/03 | 68 FR 52276
Errata | 09/17/03
Report | 10/09/03 | 68 FR 60391
Order | 10/28/03
Order | 01/09/04
Public Notice | 01/09/04
Public Notice | 02/18/04
Order | 07/08/04
Second R&O | 07/08/04 | 69 FR 43762
Order on Recon | 08/09/04 | 69 FR 54589
Interim Order | 08/20/04 | 69 FR 55111
NPRM | 08/20/04 | 69 FR 55128
Public Notice | 09/10/04
Public Notice | 09/13/04
Public Notice | 10/20/04
Order on Recon | 12/29/04 | 69 FR 77950
Order on Remand | 02/04/04
Public Notice | 04/25/05 | 70 FR 29313
Public Notice | 05/25/05 | 70 FR 34765
Declaratory Ruling | 05/26/11
NPRM | 01/06/20 | 85 FR 472
NPRM Comment Period End | 03/06/20
Report & Order | 01/08/21 | 86 FR 1636
Next Action Undetermined | To Be Determined

Regulatory Flexibility Analysis Required: Yes.

Agency Contact: Edward Krachmer, Deputy Division Chief, Wireline Competition Bureau, Federal Communications Commission, Wireline Competition Bureau, 45 L Street NE, Washington, DC 20554, Phone: 202 418-1525, Email: edward.krachmer@fcc.gov.

RIN: 3060-AH44

564. Jurisdictional Separations [3060-AJ06]

Legal Authority: 47 U.S.C. 151; 47 U.S.C. 154(i) and 154(j); 47 U.S.C. 205; 47 U.S.C. 221(c); 47 U.S.C. 254; 47 U.S.C. 403; 47 U.S.C. 410

Abstract: Jurisdictional separations is the process, pursuant to part 36 of the Commission's rules, by which incumbent local exchange carriers apportion regulated costs between the intrastate and interstate jurisdictions. In 1997, the Commission initiated a proceeding seeking comment on the extent to which legislative changes, technological changes, and marketplace changes warrant comprehensive reform of the separations process. In 2001, the Commission adopted the Federal-State Joint Board on Jurisdictional Separations' Joint Board's recommendation to impose an interim freeze on the part 36 category relationships and jurisdictional cost allocation factors for a period of 5 years, pending comprehensive reform of the part 36 separations rules. In 2006, the Commission issued an Order and Further Notice of Proposed Rulemaking that extended the separations freeze for a period of 3 years and sought comment on comprehensive reform. In 2009, the Commission issued a Report and Order extending the separations freeze an additional year to June 2010. In 2010, the Commission issued a Report and Order extending the separations freeze for an additional year to June 2011. In 2011, the Commission adopted a Report and Order extending the separations freeze for an additional year to June 2012. In 2012, the Commission issued a Report and Order extending the separations freeze for an additional 2 years to June 2014. In 2014, the Commission issued a Report and Order extending the separations freeze for an additional 3 years to June 2017.

In 2016, the Commission issued a Report and Order extending the separations freeze for an additional 18 months until January 1, 2018. In 2017, the Joint Board issued a Recommended Decision recommending changes to the part 36 rules designed to harmonize them with the Commission's previous amendments to its part 32 accounting rules. In February 2018, the Commission issued a Notice of Proposed Rulemaking proposing amendments to part 36 consistent with the Joint Board's recommendations. In October 2018, the Commission issued a Report and Order adopting each of the Joint Board's recommendations and amending the Part 36 consistent with those recommendations. In July 2018, the Commission issued a Notice of Proposed Rulemaking proposing to extend the separations freeze for an additional 15 years and to provide rate-of-return carriers that had elected to freeze their category relationships a time limited opportunity to opt out of that freeze. In December 2018, the Commission issued a Report and Order extending the freeze for up to 6 years until December 31, 2024, and granting rate-of-return carriers that had elected to freeze their category relationships a one-time opportunity to opt out of that freeze.

On March 31, 2020, the United States Court of Appeals for the District of Columbia Circuit affirmed the Commission's December 2018 Report and Order.

Timetable:

Action | Date | FR Cite
NPRM | 11/05/97 | 62 FR 59842
NPRM Comment Period End | 12/10/97
Order | 06/21/01 | 66 FR 33202
Order and FNPRM | 05/26/06 | 71 FR 29882
Order and FNPRM Comment Period End | 08/22/06
R&O | 05/15/09 | 74 FR 23955
R&O | 05/25/10 | 75 FR 30301
R&O | 05/27/11 | 76 FR 30840
R&O | 05/23/12 | 77 FR 30410
R&O | 06/13/14 | 79 FR 36232
R&O | 06/02/17 | 82 FR 25535
Recommended Decision | 10/27/17
NPRM | 03/13/18 | 83 FR 10817
NPRM Comment Period End | 04/27/18
NPRM | 07/27/18 | 83 FR 35589
NPRM Comment Period End | 09/10/18
R&O | 12/11/18 | 83 FR 63581
R&O | 02/15/19 | 84 FR 4351
Announcement of OMB Approval | 03/01/19 | 84 FR 6977
Next Action Undetermined

Regulatory Flexibility Analysis Required: Yes.

Agency Contact: William A. Kehoe III, Senior Counsel, Policy & Program Planning Division, Federal Communications Commission, Wireline Competition Bureau, 45 L Street NE, Washington, DC 20554, Phone: 202 418-7122, Email: william.kehoe@fcc.gov.

RIN: 3060-AJ06

565. Rates for Inmate Calling Services; WC Docket No. 12-375 [3060-AK08]

Legal Authority: 47 U.S.C. 151 and 152; 47 U.S.C. 154(i) and (j); 47 U.S.C. 201(b); 47 U.S.C. 218; 47 U.S.C. 220; 47 U.S.C. 276; 47 U.S.C. 403; 47 CFR 64

Abstract: In the Second Report and Order, the Federal Communications Commission adopted rule changes to ensure that rates for both interstate and intrastate inmate calling services (ICS) are fair, just, and reasonable limits on ancillary service charges imposed by ICS providers. In the Second Report and Order, the Commission set caps on all interstate and intrastate calling rates for ICS, established a tiered rate structure based on the size and type of facility being served, limited the types of ancillary services that ICS providers may charge for and capped the charges for permitted fees, banned flat-rate calling, facilitated access to ICS by people with disabilities by requiring providers to offer free or steeply discounted rates for calls using TTY, and imposed reporting and certification requirements to facilitate continued oversight of the ICS market. In the Third Further Notice portion of the item, the Commission sought comment on ways to promote competition for ICS, video visitation, and rates for international calls, and considered an array of solutions to further address areas of concern in the ICS industry. In an Order on Reconsideration, the Commission amended its rate caps and the definition of “mandatory tax or mandatory fee.”

On June 13, 2017, the D.C. Circuit vacated the rate caps adopted in the Second Report and Order, as well as reporting requirements related to video visitation. The court held that the Commission lacked jurisdiction over intrastate ICS calls and that the rate caps the Commission adopted for interstate calls were arbitrary and capricious. The court also remanded the Commission's caps on ancillary fees. On September 26, 2017, the court denied a petition for rehearing en banc. On December 21, 2017, the court issued two separate orders: one vacating the 2016 Order on Reconsideration insofar as it purports to set rate caps on inmate calling services, and one dismissing as moot challenges to the Commission's First Report and Order on ICS.

On February 4, 2020, the Commission's Wireline Competition Bureau released a Public Notice seeking to refresh the record on ancillary service charges imposed in connection with inmate calling services.

On August 6, 2020, the Commission adopted a Report and Order on Remand and a Fourth Further Notice of Proposed Rulemaking responding to remands by the U.S. Court of Appeals for the District of Columbia Circuit and proposing to comprehensively reform rates and charges for the inmate calling services within the Commission's jurisdiction. The Report and Order on Remand found that the Commission's five permitted ancillary service charges (1) automated payment fees; (2) fees for single-call and related services; (3) live agent fees; (4) paper bill/statement fees; and (5) third-party financial transaction fees generally, cannot be practically segregated between interstate and intrastate inmate telephone calls, except in a limited number of cases. Accordingly, the Commission prohibited inmate calling services providers from imposing ancillary service fees higher than the Commission's caps,or imposing fees for additional ancillary services unless imposed in connection with purely intrastate inmate telephone service calls. The Order also reinstated a rule prohibiting providers from marking up third-party fees for single-call services; reinstated rule language that prohibits providers from marking up mandatory taxes or fees that they pass on to inmate telephone service consumers; and amended certain of the inmate calling services rules consistent with the D.C. Circuit's mandates to reflect that the Commission's rate and fee caps on inmate calling service apply only to interstate and international inmate calling. The Fourth FNPRM proposes to substantially reduce the interstate rate cap for inmate telephone calls from the current interim rate caps of $0.21 per minute for debit or prepaid calls and $0.25 per minute for collect calls for all types of correctional facilities, to permanent rate caps of $0.14 per minute for all interstate calls from prisons and $0.16 for all interstate calls from jails. The Fourth FNPRM also proposes to adopt rate caps for international inmate calling services calls for the first time based on the proposed interstate rate caps, plus the amount that the provider must pay its underlying international service provider for an international call. It also proposes a waiver process for providers that believe the Commission's rate caps would not allow them to recover their costs of serving a particular facility or contract. Finally, it seeks comment on a further mandatory data collection to continue efforts to reform these rates and fees.

On November 23, 2020, Global Tel*Link Corporation filed a petition for reconsideration of the August 6, 2020 Order on Remand. On December 3, 2020, the Commission established the opposition and reply comment dates for the petition.

On May 24, 2021 the Commission released the Third Report and Order, Order on Reconsideration and Fifth Further Notice of Proposed Rulemaking. In the Third Report and Order, the Commission: (1) substantially reduced the interim rate caps for interstate inmate calling services from prisons and larger jails (those with 1,000 or more incarcerated people) from $0.21 per minute for debit and prepaid calls and $0.25 per minute for collect calls to new uniform interim interstate caps of $0.12 per minute for prisons and $0.14 per minute for larger jails; (2) maintained the current interim interstate rate cap of $0.21 for jails with less than 1,000 incarcerated people because of insufficient record evidence to determine providers' costs of serving those facilities at this time; (3) eliminated separate treatment of collect calls, resulting in a uniform interim interstate rate cap for all types of calls at each facility, as proposed; (4) reformed the treatment of site commission payments by specifying that providers may pass through to consumers (without any markup) site commission payments that are mandated by federal, state, or local law and that providers may pass through to consumers no more than $ 0.02 per minute site commission payments resulting from contractual obligations negotiated between providers and correctional officials; (5) capped, for the first time, international calling rates at all facilities at the applicable facility's total interstate rate cap, plus the amount the inmate calling services provider pays to its underlying wholesale carriers for completing international calls; (6) reformed the ancillary service charge caps for third-party financial transaction fees, including those related to calls that are billed on a per-call basis; and (7) adopted a new mandatory data collection to obtain more uniform cost data based on consistent, prescribed allocation methodologies to determine just and reasonable, permanent, interstate and international cost-based rates for facilities of all sizes.

In the Order on Reconsideration, the Commission denied GTL's petition seeking reconsideration of a single sentence from the 2020 Remand Order, in which the Commission reminded providers that the jurisdictional nature of a call, that is whether it is interstate or intrastate, depends on the physical location of the endpoints of the call and not on whether the area code or NXX prefix of the telephone number associated with the account are associated with a particular state. The Commission determined that the end-to-end analysis has been, and remains, the generally applicable test for all telecommunications carriers in determining the jurisdiction of their calls and the Commission continues to use the traditional end-to-end jurisdictional analysis in setting rates for calls placed by inmate calling services consumers.

In the Fifth Further Notice, the Commission proposed to amend the Commission's rules to require calling service providers to provide access to all forms of Telecommunications Relay Services, including internet-based services, to facilitate greater accessibility for incarcerated people with hearing and speech disabilities. The Commission also sought comment on: (1) the methodology the Commission should use to set permanent per-minute rate caps for interstate and international inmate calling services; (2) site commission costs for facilities of all sizes and site commission reform generally; (3) the costs of providing services to jails with average daily populations of fewer than 1,000 incarcerated people; (4) whether and how the Commission should reform the ancillary service charge caps and how the Commission can curtail potentially abusive practices related to these charges; (5) whether to institute a recurring periodic data collection; and (6) whether some providers have market power in the bidding process, thereby impacting the competitiveness of the bidding process.

On September 22, 2021, WCB and OEA (collectively, WCB/OEA) issued a Public Notice seeking comment on the contours and specific requirements of the Third Mandatory Data Collection, including proposed instructions and a proposed template for that collection. In issuing this Public Notice, WCB/OEA were acting pursuant to the Commission's directive, in the 2021 ICS Order, that the new data collection obtain data on providers' operations, costs, demand, and revenues, among other information. As the Commission explained in that order, the collected information will allow the Commission to set permanent interstate and international inmate calling services rate caps and to evaluate and, if warranted, revise the current ancillary service charge caps.

On December 15, 2021, WCB/OEA issued a Public Notice seeking comment on revised requirements for ICS Annual Reports, including proposed instructions, templates, and a provider certification. Specifically, the Public Notice proposed changes in the reporting requirements to align them with ICS rule changes adopted in the 2021 ICS Order.

On January 18, 2022, WCB adopted an Order implementing the Third Mandatory Data Collection and adopted accompanying instructions, reporting templates, and a certification form. The collected information will allow the Commission to set permanent interstate and international inmate calling services rate caps and to evaluate and, if warranted, revise the current ancillary service charge caps. On February 9, 2022, WCB released a public notice announcing that the providers' mandatory data collection responses will be due no later than June 30, 2022.

On June 24, 2022, WCB adopted an Order implementing revisions to its annual reporting requirements, including accompanying instructions, reporting templates, and a certification form. The revisions were consistent with changes made in the Third Report and Order.

On September 30, 2022, the Commission released the Fourth Report and Order, and Sixth Further Notice of Proposed Rulemaking. The Report and Order required inmate calling services providers to provide access to all relay services eligible for Telecommunications Relay Services fund support in any correctional facility that is located where broadband is available and is part of a correctional system with 50 or more incarcerated people. This included the ability to place point-to-point video calls using American Sign Language (ASL). The rules also restricted provider charges for relay services and point-to-point video calls. More generally, the rules reduced certain charges and curtail abusive practices related to inmate calling services to ease the financial burdens on all incarcerated people and their families. To ensure that the rates, terms, and practices related to interstate and international inmate calling services are just and reasonable, the Order prohibited providers from taking control of funds in inactive calling accounts until at least 180 calendar days of continuous inactivity has passed, after which providers would be required to refund the balance or dispose of the funds in accordance with applicable state law. The Order also lowered the current ancillary fee caps on charges for single call services, and lowered the cap on provider charges for processing credit card, debit card, and other payments to calling services accounts. Finally, the Commission revised the definitions of “Prison” and “Jail” in its rules to conform the wording of those rules with the Commission's intent in adopting them in 2015.

In the Sixth Further Notice, sought additional comment on whether to allow enterprise registration for internet Protocol Captioned Telephone Service (IP CTS) in carceral settings and how to address the special circumstances faced by some inmate calling services providers in jurisdictions with average daily populations of fewer than 50 incarcerated persons. This Notice sought comment on refining the rules adopted in the Fifth Report and Order concerning the treatment of balances in inactive accounts. It also comment on expanding the breadth and scope of the Commission's consumer disclosure requirements. The Commission also comment on how it should use the data filed in response to the Third Mandatory Data Collection to establish just and reasonable permanent caps on interstate and international rates and associated ancillary service charges consistent with the statute. The Commission invited further comment on allowing inmate calling services providers to offer pilot programs allowing consumers to purchase calling services under alternative pricing structures.

Timetable:

Action | Date | FR Cite
NPRM | 01/22/13 | 78 FR 4369
FNPRM | 11/13/13 | 78 FR 68005
R&O | 11/13/13 | 78 FR 67956
FNPRM Comment Period End | 12/20/13
2nd FNPRM | 11/21/14 | 79 FR 69682
2nd FNPRM Comment Period End | 01/15/15
2nd FNPRM Reply Comment Period End | 01/20/15
3rd FNPRM | 12/18/15 | 80 FR 79020
2nd R&O | 12/18/15 | 80 FR 79136
3rd FNPRM Comment Period End | 01/19/16
3rd FNPRM Reply Comment Period End | 02/08/16
Order on Reconsideration | 09/12/16 | 81 FR 62818
Announcement of OMB Approval | 03/01/17 | 82 FR 12182
Correction to Announcement of OMB Approval | 03/08/17 | 82 FR 12922
Announcement of OMB Approval | 02/06/20 | 85 FR 6947
Public Notice | 02/19/20 | 85 FR 9444
Public Notice Comment Period End | 03/20/20
Public Notice Reply Comment Period End | 04/06/20
Letter | 07/15/20
R&O on Remand & 4th FNPRM | 08/06/20 | 85 FR 67450; 85 FR 67480; 85 FR 73233
Order | 09/01/20
Public Notice | 09/24/20 | 85 FR 66512
Public Notice | 10/23/20
Letter | 11/13/20
Public Notice | 12/03/20 | 85 FR 83000
Order Extending Reply Comment Deadline | 12/17/20
Public Notice | 01/08/21
Comment Period End on 12/3/2020, Public Notice End | 01/11/21
Comment Period End on 12/3/2020, Public Notice End | 01/21/21
Public Notice | 03/03/21
5th FNPRM | 07/28/21 | 86 FR 40416
3rd R&O | 07/28/21 | 86 FR 40682
3rd R&O | 07/28/21 | 86 FR 40340
Order | 08/10/21 | 86 FR 48952
Public Notice (MDC) | 09/22/21 | 86 FR 54897
5th NPRM Comment Period End | 09/27/21
Order Extending Reply Comment Deadline | 10/15/21 | 86 FR 60438
5th NPRM Reply Comment Period End | 10/27/21
Comment Period End on 09/22/2021, Public Notice End | 11/04/21
Reply Comment Period on 09/22/2021, Public Notice End | 11/19/21
5th NPRM Reply Comment Period End | 12/17/21
Public Notice on Annual Reports | 01/04/22 | 87 FR 212
Comment Period End on 01/04/2022, Public Notice End | 01/12/22
Reply Period on 01/04/2022, Public Notice End | 01/27/22
Order Adopting MDC | 03/22/22 | 87 FR 16560
Order Adopting Annual Reports Revisions | 08/02/22 | 87 FR 47103
4th R&O | 09/30/22
6th FNPRM | 09/30/22
Next Action Undetermined

Regulatory Flexibility Analysis Required: Yes.

Agency Contact: Erik Raven-Hansen, Assistant Division Chief, Federal Communications Commission, 45 L Street NE, Washington, DC 20554, Phone: 202 418-1532, Email: erik.raven-hansen@fcc.gov.

RIN: 3060-AK08

566. Comprehensive Review of the Part 32 Uniform System of Accounts (WC Docket No. 14-130) [3060-AK20]

Legal Authority: 47 U.S.C. 151; 47 U.S.C. 154(i); 47 U.S.C. 201(b); 47 U.S.C. 219 and 220

Abstract: The Commission initiates a rulemaking proceeding to review the Uniform System of Accounts (USOA) to consider ways to minimize the compliance burdens on incumbent local exchange carriers while ensuring that the Agency retains access to the information it needs to fulfill its regulatory duties. In light of the Commission's actions in areas of price cap regulation, universal service reform, and intercarrier compensation reform, the Commission stated that it is likely appropriate to streamline the existing rules even though those reforms may not have eliminated the need for accounting data for some purposes. The Commission's analysis and proposals are divided into three parts. First, the Commission proposes to streamline the USOA accounting rules while preserving their existing structure. Second, the Commission seeks more focused comment on the accounting requirements needed for price cap carriers to address our statutory and regulatory obligations. Third, the Commission seeks comment on several related issues, including state requirements, rate effects, implementation, continuing property records, and legal authority.

On February 23, 2017, the Commission adopted a Report and Order that revised the part 32 USOA to substantially reduce accounting burdens for both price cap and rate-of-return carriers. First, the Order streamlines the USOA for all carriers. In addition, the USOA will be aligned more closely with generally accepted accounting principles, or GAAP. Second, the Order allows price cap carriers to use GAAP for all regulatory accounting purposes as long as they comply with targeted accounting rules, which are designed to mitigate any impact on pole attachment rates. Alternatively, price cap carriers can elect to use GAAP accounting for all purposes other than those associated with pole attachment rates and continue to use the part 32 accounts for pole attachment rates for up to 12 years. Third, the Order addresses several miscellaneous issues, including referral to the Federal-State Joint Board on Separations the issue of examining jurisdictional separations rules in light of the reforms adopted to part 32.

Timetable:

Action | Date | FR Cite
NPRM | 09/15/14 | 79 FR 54942
NPRM Comment Period End | 11/14/14
NPRM Reply Comment Period End | 12/15/14
R&O | 04/04/17 | 82 FR 20833
Next Action Undetermined

Regulatory Flexibility Analysis Required: Yes.

Agency Contact: William A. Kehoe III, Senior Counsel, Policy & Program Planning Division, Federal Communications Commission, Wireline Competition Bureau, 45 L Street NE, Washington, DC 20554, Phone: 202 418-7122, Email: william.kehoe@fcc.gov.

RIN: 3060-AK20

567. Restoring Internet Freedom (WC Docket No. 17-108); Protecting and Promoting the Open Internet (GN Docket No. 14-28) [3060-AK21]

Legal Authority: 47 U.S.C. 151; 47 U.S.C. 154(i) and (j); 47 U.S.C. 201(b)

Abstract: In December 2017, the Commission adopted the Restoring internet Freedom Declaratory Ruling, Report and Order, and Order (Restoring internet Freedom Order), which reclassified broadband internet access service as an information service; reinstates the determination that mobile broadband internet access service is not a commercial mobile service and as a private mobile service; finds that transparency, internet Service Providers (ISPs) economic incentives, and antitrust and consumer protection laws will protect the openness of the internet, and that title II regulation is unnecessary to do so; and adopts a transparency rule similar to that in the 2010 Open internet Order, requiring disclosure of network management practices, performance characteristics, and commercial terms of service. Additionally, the transparency rule requires ISPs to disclose any blocking, throttling, paid prioritization, or affiliate prioritization, and eliminates the internet conduct standard and the bright-line conduct rules set forth in the 2015 Open internet Order.

Timetable:

Action | Date | FR Cite
NPRM | 07/01/14 | 79 FR 37448
NPRM Comment Period End | 07/18/14
NPRM Reply Comment Period End | 09/15/14
R&O on Remand, Declaratory Ruling, and Order | 04/13/15 | 80 FR 19737
NPRM | 06/02/17 | 82 FR 25568
NPRM Comment Period End | 07/03/17
Declaratory Ruling, R&O, and Order | 02/22/18 | 83 FR 7852
Order on Remand | 01/07/21 | 86 FR 994
Next Action Undetermined

Regulatory Flexibility Analysis Required: Yes.

Agency Contact: Melissa Kirkel, Deputy Division Chief, Wireline Competition Bureau, Federal Communications Commission, Wireline Competition Bureau, 45 L Street NE, Washington, DC 20554, Phone: 202 418-7958, Fax: 202 418-1413, Email: melissa.kirkel@fcc.gov.

RIN: 3060-AK21

568. Technology Transitions; GN Docket No. 13-5, WC Docket No. 05-25; Accelerating Wireline Broadband Deployment by Removing Barriers to Infrastructure Investment; WC Docket No. 17-84 [3060-AK32]

Legal Authority: 47 U.S.C. 214; 47 U.S.C. 251

Abstract: On April 20, 2017, the Commission adopted a Notice of Proposed Rulemaking, Notice of Inquiry, and Request for Comment (Wireline Infrastructure NPRM, NOI, and RFC) seeking input on a number of actions designed to accelerate: (1) the deployment of next-generation networks and services by removing barriers to infrastructure investment at the Federal, State, and local level; (2) the transition from legacy copper networks and services to next-generation fiber-based networks and services; and (3) the reduction of Commission regulations that raise costs and slow, rather than facilitate, broadband deployment.

On November 16, 2017, the Commission adopted a Report and Order (R&O), Declaratory Ruling, and Further Notice of Proposed Rulemaking (Wireline Infrastructure Order) that takes a number of actions and seeks comment on further actions designed to accelerate the deployment of next-generation networks and services through removing barriers to infrastructure investment.

The Wireline Infrastructure Order took a number of actions. First, the Report and Order revised the pole attachment rules to reduce costs for attachers, reforms the pole access complaint procedures to settle access disputes more swiftly, and increases access to infrastructure for certain types of broadband providers. Second, the Report and Order revised the section 214(a) discontinuance rules and the network change notification rules, including those applicable to copper retirements, to expedite the process for carriers seeking to replace legacy network infrastructure and legacy services with advanced broadband networks and innovative new services. Third, the Report and Order reversed a 2015 ruling that discontinuance authority is required for solely wholesale services to carrier-customers. Fourth, the Declaratory Ruling abandoned the 2014 “functional test” interpretation of when section 214 discontinuance applications are required, bringing added clarity to the section 214(a) discontinuance process for carriers and consumers alike. Finally, the Further Notice of Proposed Rulemaking sought comment on additional potential pole attachment reforms, reforms to the network change disclosure and section 214(a) discontinuance processes, and ways to facilitate rebuilding networks impacted by natural disasters. Various parties filed a Petition for Review of the Wireline Infrastructure Order in the U.S. Court of Appeals for the Ninth Circuit. The Ninth Circuit denied the Petition on January 23, 2020 on the grounds that the parties lacked standing.

On June 7, 2018, the Commission adopted a Second Report and Order (Wireline Infrastructure Second Report and Order) taking further actions designed to expedite the transition from legacy networks and services to next generation networks and advanced services that benefit the American public and to promote broadband deployment by further streamlining the section 214(a) discontinuance rules, network change disclosure processes, and part 68 customer notification process.

The Wireline Infrastructure NPRM, NOI, and RFC sought comment on additional issues not addressed in the November Wireline Infrastructure Order or the June Wireline Infrastructure Second Report and Order. It sought comment on changes to the Commission's pole attachment rules to: (1) streamline the timeframe for gaining access to utility poles; (2) reduce charges paid by attachers for work done to make a pole ready for new attachments; and (3) establish a formula for computing the maximum pole attachment rate that may be imposed on an incumbent LEC.

The Wireline Infrastructure NPRM, NOI, and RFC also sought comment on whether the Commission should enact rules, consistent with its authority under section 253 of the Act, to promote the deployment of broadband infrastructure by preempting State and local laws that inhibit broadband deployment. It also sought comment on whether there are State laws governing the maintenance or retirement of copper facilities that serve as a barrier to deploying next-generation technologies and services that the Commission might seek to preempt.

Previously, in November 2014, the Commission adopted a Notice of Proposed Rulemaking and Declaratory Ruling that: (1) proposed new backup power rules; (2) proposed new or revised rules for copper retirements and service discontinuances; and (3) adopted a functional test in determining what constitutes a service for purposes of section 214(a) discontinuance review. In August 2015, the Commission adopted a Report and Order, Order on Reconsideration, and Further Notice of Proposed Rulemaking that: (i) lengthened and revised the copper retirement process; (ii) determined that a carrier must obtain Commission approval before discontinuing a service used as a wholesale input if the carrier's actions will discontinue service to a carrier-customer's retail end users; (iii) adopted an interim rule requiring incumbent LECs that seek to discontinue certain TDM-based wholesale services to commit to certain rates, terms, and conditions; (iv) proposed further revisions to the copper retirement discontinuance process; and (v) upheld the November 2014 Declaratory Ruling. In July 2016, the Commission adopted a Second Report and Order, Declaratory Ruling, and Order on Reconsideration that: (i) adopted a new test for obtaining streamlined treatment when carriers seek Commission authorization to discontinue legacy services in favor of services based on newer technologies; (ii) set forth consumer education requirements for carriers seeking to discontinue legacy services in favor of services based on newer technologies; (iii) allowed notice to customers of discontinuance applications by email; (iv) required carriers to provide notice of discontinuance applications to Tribal entities; (v) made a technical rule change to create a new title for copper retirement notices and certifications; and (vi) harmonized the timeline for competitive LEC discontinuances caused by incumbent LEC network changes.

On August 2, 2018, the Commission adopted a Third Report and Order and Declaratory Ruling (Wireline Infrastructure Third Report and Order) establishing a new framework for the vast majority of pole attachments governed by Federal law by instituting a one-touch make-ready regime, in which a new attacher may elect to perform all simple work to prepare a pole for new wireline attachments in the communications space. This new framework includes safeguards to promote coordination among parties and ensures that new attachers perform work safely and reliably. The Commission retained its multi-party pole attachment process for attachments that are complex or above the communications space of a pole, but made significant modifications to speed deployment, promote accurate billing, expand the use of self-help for new attachers when attachment deadlines are missed, and reduce the likelihood of coordination failures that lead to unwarranted delays. The Commission also improved its pole attachment rules by codifying and redefining Commission precedent that requires utilities to allow attachers to overlash existing wires, thus maximizing the usable space on the pole; eliminating outdated disparities between the pole attachment rates that incumbent carriers must pay compared to other similarly-situated cable and telecommunications attachers; and clarifying that the Commission will preempt, on an expedited case-by-case basis, State and local laws that inhibit the rebuilding or restoration of broadband infrastructure after a disaster. The Commission also adopted a Declaratory Ruling that interpreted section 253(a) of the Communications Act to prohibit State and local express and de facto moratoria on the deployment of telecommunications services or facilities and directed the Wireline Competition and Wireless Telecommunications Bureaus to act promptly on petitions challenging specific alleged moratoria. Numerous parties filed appeals of the Wireline Infrastructure Third Report and Order, and the appeals were consolidated in the U.S. Court of Appeals of the Ninth Circuit. On August 12, 2020, the Ninth Circuit issued an opinion upholding the Wireline Infrastructure Third Report and Order in all respects.

On August 8, 2018, Public Knowledge filed a Petition for Reconsideration of the Second Report and Order and Motion to Hold in Abeyance. On October 20, 2020, the Wireline Competition Bureau (Bureau) adopted a Declaratory Ruling, Order on Reconsideration, and Order. In the Declaratory Ruling, the Bureau clarified that any carrier seeking to discontinue legacy voice service to a community or part of a community that is the last retail provider of such legacy TDM service to that community or part of the community is subject to the Commission's technology transition discontinuance rules, including the requirements to receive streamlined treatment of its discontinuance application. In the Order on Reconsideration, the Bureau denied the Public Knowledge Petition for Reconsideration because all of Public Knowledge's arguments were fully considered, and rejected, by the Commission in the underlying proceeding. It also dismissed as moot the accompanying motion to have the Commission hold that Order in abeyance pending the outcome of the appeal that the Ninth Circuit ultimately denied.

In September 2019, CTIA filed a Petition for Declaratory Ruling seeking clarification of certain issues raised in the 2018 Third Report and Order. On July 29, 2020, the Wireline Competition Bureau issued a Declaratory Ruling clarifying that (1) the imposition of a blanket ban” by a utility on attachments to any portion of a utility pole is inconsistent with the federal requirement that a denial of access . . . be specific” to a particular request; and (2) while utilities and attachers have the flexibility to negotiate terms in their pole attachment agreements that differ from the requirements in the Commission's rules, a utility cannot use its significant negotiating leverage to require an attacher to give up rights to which the attacher is entitled under the rules without the attacher obtaining a corresponding benefit.

On July 20, 2020, the Wireline Competition Bureau issued a Public Notice seeking comment on a Petition for Declaratory Ruling filed on July 16, 2020 by NCTA The internet & Television Association. NCTA asked the Commission to declare that: (1) pole owners must share in the cost of pole replacements in unserved areas pursuant to section 224 of the Communications Act, section 1.1408(b) of the Commission's rules, and Commission precedent; (2) pole attachment complaints arising in unserved areas should be prioritized through placement on the Accelerated Docket under section 1.736 of the Commission's rules; and (3) section 1.1407(b) of the Commission's rules authorizes the Commission to order any pole owner to complete a pole replacement within a specified period of time or designate an authorized contractor to do so. Comments on the NCTA Petition were due by September 2, 2020, and reply comments by September 17, 2020.

On July 23, 2021, the Wireline Competition Bureau issued a Public Notice seeking comment on a Petition for Declaratory Ruling filed by the Edison Electric Institute asking the Commission to declare that: (1) when the Commission determines that a pole attachment rate, term, or condition is unjust and unreasonable and orders a refund pursuant to section 1.1407(a)(3) of the Commission's rules, the applicable statute of limitations” is the same as the two-year period prescribed by section 415(b) of the Act; and (2) refunds in pole attachment complaint proceedings are not appropriate” for any period preceding good-faith notice of a dispute. Deadlines for filing comments and reply comments were set for August 23, 2021, and September 10, 2021, respectively.

Timetable:

Action | Date | FR Cite
NPRM | 01/06/15 | 80 FR 450
NPRM Comment Period End | 02/05/15
NPRM Reply Comment Period End | 03/09/15
FNPRM | 09/25/15 | 80 FR 57768
R&O | 09/25/15 | 80 FR 57768
FNPRM Comment Period End | 10/26/15
FNPRM Reply Comment Period End | 11/24/15
2nd R&O | 09/12/16 | 81 FR 62632
NPRM | 05/16/17 | 82 FR 224533
NPRM Comment Period End | 06/15/17
NPRM Reply Comment Period End | 07/17/17
R&O | 12/28/17 | 82 FR 61520
FNPRM Comment Period End | 01/17/18
FNPRM Reply Comment Period End | 02/16/18
2nd R&O | 07/09/18 | 83 FR 31659
3rd R&O | 09/14/18 | 83 FR 46812
NCTA Public Notice | 07/20/20
CTIA Declaratory Ruling | 07/29/20
Order on Reconsideration | 02/02/21 | 86 FR 8872
EEI Public Notice | 07/23/21
EEI Public Notice Comment Period End | 08/23/21
EEI Public Notice Reply Comment Period End | 09/10/21
Next Action Undetermined

Regulatory Flexibility Analysis Required: Yes.

Agency Contact: Michele Berlove, Assistant Division Chief, Competition Policy Div., WCB, Federal Communications Commission, Wireline Competition Bureau, 45 L Street NE, Washington, DC 20554, Phone: 202 418-1477, Email: michele.berlove@fcc.gov.

RIN: 3060-AK32

569. Numbering Policies for Modern Communications, WC Docket No. 13-97 [3060-AK36]

Legal Authority: 47 U.S.C. 151; 47 U.S.C. 153 to 154; 47 U.S.C. 201 to 205; 47 U.S.C. 251; 47 U.S.C. 303(r)

Abstract: This Order establishes a process to authorize interconnected VoIP providers to obtain North American Numbering Plan (NANP) telephone numbers directly from the numbering administrators, rather than through intermediaries. Section 52.15(g)(2)(i) of the Commission's rules limits access to telephone numbers to entities that demonstrate they are authorized to provide service in the area for which the numbers are being requested. The Commission has interpreted this rule as requiring evidence of either a State certificate of public convenience and necessity (CPCN) or a Commission license. Neither authorization is typically available in practice to interconnected VoIP providers. Thus, as a practical matter, generally only telecommunications carriers are able to provide the proof of authorization required under our rules, and thus able to obtain numbers directly from the numbering administrators. This Order establishes an authorization process to enable interconnected VoIP providers that choose direct access to request numbers directly from the numbering administrators. Next, the Order sets forth several conditions designed to minimize number exhaust and preserve the integrity of the numbering system.

The Order requires interconnected VoIP providers obtaining numbers to comply with the same requirements applicable to carriers seeking to obtain numbers. These requirements include any State requirements pursuant to numbering authority delegated to the States by the Commission, as well as industry guidelines and practices, among others. The Order also requires interconnected VoIP providers to comply with facilities readiness requirements adapted to this context, and with numbering utilization and optimization requirements. As conditions to requesting and obtaining numbers directly from the numbering administrators, interconnected VoIP providers are also required to: (1) provide the relevant State commissions with regulatory and numbering contacts when requesting numbers in those states; (2) request numbers from the numbering administrators under their own unique OCN; (3) file any requests for numbers with the relevant State commissions at least 30 days prior to requesting numbers from the numbering administrators; and (4) provide customers with the opportunity to access all abbreviated dialing codes (N11 numbers) in use in a geographic area.

The Order also modifies Commission's rules in order to permit VoIP Positioning Center (VPC) providers to obtain pseudo-Automatic Number Identification (p-ANI) codes directly from the numbering administrators for purposes of providing E911 services.

Based on experiences and review of the direct access authorization process established by the 2015 Order, the Commission adopted a FNPRM which proposes clarifications and revisions to the Commission's rules to better ensure that interconnected VoIP providers that obtain direct access authorization to not facilitate illegal robocalls, spoofing, or fraud, pose national security risks, or evade or abuse intercarrier compensation requirements. The FNPRM proposes to require additional certifications as part of the direct access authorization applications process, that would include certification of compliance with anti-robocalling obligations. The FNPRM also proposes to clarify that applicants disclose foreign ownership information on their direct access application. It would also propose to generally refer those applications with 10% or greater foreign ownership to the Executive Branch agencies for their review, consistent with the Commission's referral of other types of applications. The FNPRM also propose to clarify that holders of a direct access authorization must update the Commission and applicable states within 30 days of changes to ownership information submitted to the Commission. The FNPRM further proposes to clarify that Commission staff retain the authority to determine when to accept filings as complete and proposes to direct Commission staff to reject an application if an applicant has engaged in behavior contrary to the public interest or has been found to originate or transmit illegal robocalls. Finally, the FNPRM seeks comment on whether to expand the direct access authorization to one-way VoIP providers or other entities that use numbering resources.

Timetable:

Action | Date | FR Cite
NPRM | 06/19/13 | 78 FR 36725
NPRM Comment Period End | 07/19/13
R&O | 10/29/15 | 80 FR 66454
FNPRM (Release Date) | 08/06/21 | 86 FR 51081
FNPRM (Comment Period End) | 10/14/21 | 86 FR 51081
Next Action Undetermined

Regulatory Flexibility Analysis Required: Yes.

Agency Contact: Jordan Marie Reth, Attorney-Advisor (PU), Federal Communications Commission, Wireline Competition Bureau, 45 L Street NE, Washington, DC 20554, Phone: 202 418-1418, Email: jordan.reth@fcc.gov.

RIN: 3060-AK36

570. Implementation of the Universal Service Portions of the 1996 Telecommunications Act [3060-AK57]

Legal Authority: 47 U.S.C. 151 et seq.

Abstract: The Telecommunications Act of 1996 expanded the traditional goal of universal service to include increased access to both telecommunications and advanced services such as high-speed internet for all consumers at just, reasonable and affordable rates. The Act established principles for universal service that specifically focused on increasing access to evolving services for consumers living in rural and insular areas, and for consumers with low-incomes. Additional principles called for increased access to high-speed internet in the nation's schools, libraries, and rural healthcare facilities. The FCC established four programs within the Universal Service Fund to implement the statute: Connect America Fund (formally known as High-Cost Support) for rural areas; Lifeline (for low-income consumers), including initiatives to expand phone service for Native Americans; Schools and Libraries (E-rate); and Rural Healthcare.

The Universal Service Fund is paid for by contributions from telecommunications carriers, including wireline and wireless companies, and interconnected Voice over internet Protocol (VoIP) providers, including cable companies that provide voice service, based on an assessment on their interstate and international end-user revenues. The Universal Service Administrative Company, or USAC, administers the four programs and collects monies for the Universal Service Fund under the direction of the FCC.

On February 22, 2022, the Commission sought comment on further reforms to Rural Health Care Program that supports Rural Health Care providers with broadband costs and other communications services.

On May 20, 2022, the Commission considered a proposal to establish an enhanced Alternative Connect America Model (A-CAM) to achieve faster speeds in rural areas and proposes targeted modifications to the high-cost program to improve efficiency in the program.

Timetable:

Action | Date | FR Cite
R&O and FNPRM | 01/13/17 | 82 FR 4275
NPRM Comment Period End | 02/13/17
NPRM Reply Comment Period End | 02/27/17
R&O and Order on Recon | 03/21/17 | 82 FR 14466
Order on Recon | 05/19/17 | 82 FR 22901
Order on Recon | 06/08/17 | 82 FR 26653
Memorandum, Opinion & Order | 06/21/17 | 82 FR 228224
NPRM | 07/30/19 | 84 FR 36865
NPRM | 08/21/19 | 84 FR 43543
R&O and Order on Recon | 11/07/19 | 84 FR 59937
Order on Recon | 12/09/19 | 84 FR 67220
R&O | 12/20/19 | 84 FR 70026
R&O | 12/27/19 | 84 FR 71308
R&O | 01/17/20 | 85 FR 3044
Report & Order | 03/10/20 | 85 FR 13773
Report & Order | 05/11/20 | 85 FR 19892
Declaratory Ruling/2nd FNPRM | 08/04/20 | 85 FR 48134
Public Notice | 03/22/21 | 86 FR 15172
Report & Order on Recon | 04/09/21 | 86 FR 18459
R&O | 05/28/21 | 86 FR 29136
2nd R&O | 07/14/21 | 86 FR 37061
Public Notice | 08/02/21 | 86 FR 41408
NPRM | 10/14/21 | 86 FR 57097
Order | 12/14/21 | 86 FR 70983
NPRM | 01/27/22 | 87 FR 4182
FNPRM | 03/15/22 | 87 FR 14422
NPRM | 06/16/22 | 87 FR 36283
NPRM | 06/23/22 | 87 FR 37459
2nd R&O | 09/06/22 | 87 FR 54311
3rd R&O | 09/06/22 | 87 FR 54401
Next Action Undetermined

Regulatory Flexibility Analysis Required: Yes.

Agency Contact: Nakesha Woodward, Program Analyst, Wireline Competition Bureau, Federal Communications Commission, Wireline Competition Bureau, 45 L Street NE, Washington, DC 20554, Phone: 202 418-1502, Email: kesha.woodward@fcc.gov.

RIN: 3060-AK57

571. Toll Free Assignment Modernization and Toll Free Service Access Codes: WC Docket No. 17-192, CC Docket No. 95-155 [3060-AK91]

Legal Authority: 47 U.S.C. 151; 47 U.S.C. 154(i); 47 U.S.C. 201(b); 47 U.S.C. 251(e)(1)

Abstract: In this Report and Order (Order), the Federal Communications Commission (FCC) initiates an auction to distribute certain toll free numbers. The numbers to be auctioned will be in the new 833 toll free code for which there have been multiple, competing requests.

By using an auction, the FCC will ensure that sought-after numbers are awarded to the parties that value them most. In addition, the FCC will reserve certain 833 numbers for distribution to government and non-profit entities that request them for public health and safety purposes. The FCC will study the results of the auction to determine how to best use the mechanism to distribute toll-free numbers equitably and efficiently in the future as well. Revenues from the auction will be used to defray the cost of toll-free numbering administration, reducing the cost of numbering for all users. The Order establishing the toll-free number auction will also authorize and accommodate the use of a secondary market for numbers awarded at auction to further distribute these numbers to the entities that value them most. The Order also adopted several definitional and technical updates to improve clarity and flexibility in toll-free number assignment.

The Commission sought comment and then adopted auctions procedures and deadlines on August 2, 2019. Bidding for the auction occurred on December 17, 2019, and Somos issued an announcement of the winning bidders on December 20, 2019. On December 16, 2019, to facilitate the preparation of its study of the auction, the Bureau charged the North American Numbering Council, via its Toll Free Access Modernization Working Group, to issue a report evaluating various aspects of the 833 Auction, and recommending improvements for any future toll free number auctions.

On January 16, 2020, Somos released all of the 833 Auction data for public review. On March 13, 2020, the Bureau invited public comment on the 833 Auction in preparation for issuing a report on the lessons learned from the Auction. Comments were due on April 13, 2020. On July 14, 2020, the North American Numbering Council approved the Toll Free Assignment Modernization Working Group's report, Perspectives on the December 2019 Auction of Numbers in the 833 Numbering Plan Area.

On January 15, 2021, the Bureau released a report that examined various aspects of this toll free number assignment experiment, including lessons learned, examination of auction outcomes, and recommendations for future toll free number assignment. The Bureau concluded that the 833 Auction was a successful experiment that provided invaluable experience and data that can facilitate further Commission efforts to continue to modernize toll free number allocation in the future.

Timetable:

Action | Date | FR Cite
NPRM | 10/13/17 | 82 FR 47669
NPRM Comment Period End | 11/13/17
Final Rule | 10/23/18 | 83 FR 53377
Next Action Undetermined

Regulatory Flexibility Analysis Required: Yes.

Agency Contact: Matthew Collins, Deputy Division Chief, Wireline Competition Bureau, Federal Communications Commission, Wireline Competition Bureau, 45 L Street NE, Washington, DC 20554, Phone: 202 418-7141, Email: matthew.collins@fcc.gov.

RIN: 3060-AK91

572. Establishing the Digital Opportunity Data Collection; WC Docket Nos. 19-195 and 11-10 [3060-AK93]

Legal Authority: 47 U.S.C. 35 to 39; 47 U.S.C. 154; 47 U.S.C. 211; 47 U.S.C. 219; 47 U.S.C. 220; 47 U.S.C. 402(b)2(B); Pub. L. 104-104; 47. U.S.C. 151-154; 47 U.S.C. 157; 47 U.S.C. 201; 47 U.S.C. 254; 47 U.S.C. 301; 47 U.S.C. 303; 47 U.S.C. 309; 47 U.S.C. 319; 47 U.S.C. 332; 47 U.S.C. 641 to 646; Pub. L. 116-130; . . .

Abstract: In the Report and Order, the Federal Communications Commission (FCC), moving to better identify gaps in broadband coverage across the nation, initiated a new process for collecting fixed broadband data to better pinpoint where broadband service is lacking. The Report and Order concluded that there is a compelling and immediate need to develop more granular broadband deployment data to meet this goal and, accordingly, created the new Digital Opportunity Data Collection.

The Digital Opportunity Data Collection will collect geospatial broadband coverage maps from fixed broadband internet service providers of areas where they make fixed service available. This geospatial data will facilitate development of granular, high-quality fixed broadband deployment maps, which should improve the FCC's ability to target support for broadband expansion through the agency's Universal Service Fund programs. The Report and Order also adopts a process to collect public input on the accuracy of service providers' broadband maps, facilitated by a crowd-sourcing portal that will gather input from consumers as well as from state, local, and Tribal governments.

The Second Further NPRM sought comment on additional technical standards for fixed broadband providers that could ensure greater precision for the Digital Opportunity Data Collection deployment reporting and on ways the Commission could incorporate crowdsourced and location-specific fixed broadband deployment data into this new data collection. The Second Further NPRM also sought comment on incorporating the collection of accurate, reliable mobile wireless voice and broadband coverage data into the Digital Opportunity Data Collection. In addition, the Second Further NPRM sought comment on sunsetting the Form 477 broadband deployment collection following the creation of the Digital Opportunity Data Collection.

The Second Report and Order established requirements for: (1) collecting fixed broadband availability and quality of service data; (2) collecting mobile broadband deployment data, including the submission of standardized propagation maps, propagation model details, and infrastructure information; (3) establishing a common dataset of all locations in the United States where fixed broadband service can be installed; (4) verifying the accuracy of broadband availability data; (5) collecting crowdsourced data; (6) enforcing the requirements of the Broadband DATA Act; (7) creating coverage maps from the data submitted; and (8) ensuring the privacy, confidentiality, and security of information submitted by broadband providers.

The Third Further NPRM sought comment on a range of additional measures to implement the requirements of the Broadband DATA Act, including additional processes for verifying broadband availability data submitted by providers, the development of a challenge process, and FCC Form 477 reforms.

The Third Report and Order specified which fixed and mobile broadband internet access service providers are required to report broadband availability data and expanded the reporting and certification requirements for certain fixed and mobile broadband filers in order to ensure that Commission staff have the necessary tools to assess the quality and accuracy of its broadband coverage maps. The Third Report and Order also adopted standards for collecting verified broadband data from State, local, and Tribal entities and certain third parties and adopted processes for submitting challenges to fixed and mobile coverage map data and data in the location Fabric, along with processes for providers to respond to such challenges. In addition, the Third Report and Order established standards for identifying locations that will be included in the broadband serviceable locations Fabric and for enforcement of the requirements associated with the Digital Opportunity Data Collection.

On July 16, 2021, the Wireless Telecommunications Bureau, Office of Economics and Analytics, and Office of Engineering and Technology released a Public Notice seeking comment on the technical requirements for the mobile challenge, verification, and crowdsourcing processes required under the Broadband DATA Act for the new Broadband Data Collection (formerly known as the Digital Opportunity Data Collection). Deadlines for filing comments and reply comments have been set for September 10, 2021, and September 27, 2021, respectively.

On February 22, 2022, the Task Force and OEA released a Public Notice announcing the filing deadline for the inaugural Broadband Data Collection, as required by the Commission in the July 2020 Second Report and Order.

On March 4, 2022, the Task Force and OEA published data specifications related to the biannual submission of subscription, availability, and supporting data for the Broadband Data Collection (BDC). The specifications set forth how data files required for the BDC must be formatted for submission in the BDC system, which fields the files should contain, and the data type of each field.

On March 9, 2022, the Task Force, OEA, the Wireless Telecommunications Bureau, and the Office of Engineering and Technology released the BDC Mobile Technical Requirements Order, which adopts technical requirements to implement the BDC mobile challenge, verification, and crowdsourcing processes. Specifically, the Order (1) adopts detailed processes for mobile providers to respond to challenges, for the Commission to initiate a verification request to a service provider, and for providers to respond to verification requests to confirm broadband coverage in areas they claim have service; (2) sets forth the parameters and metrics that must be collected both for on-the-ground test data to support challenge submissions, rebuttals to cognizable challenges, and responses to verification requests, and for infrastructure information to support challenge rebuttals and responses to verification requests; and (3) describes the methodology staff will use in determining when a critical mass of” crowdsourced filings suggests that a provider has submitted inaccurate or incomplete data. The Task Force, OEA, and WTB also published two data specifications that provide additional detail about the technical elements of the data to be collected as part of the mobile challenge, verification, and crowdsource processes. The Data Specifications for Mobile Speed Test Data provides information on the on-the-ground speed test data that must be collected and reported by approved third-party mobile speed test apps that consumers will use to run crowdsource or challenge speed tests and submit those test results to the Commission's BDC system; other entities participating in the BDC mobile challenge process or collecting crowdsource data; and service providers responding to mobile challenges or verification inquiries. The Data Specifications for Provider Infrastructure Data in the Mobile Challenge and Mobile Verification Process specifies the data files that mobile service providers must submit when they choose to respond to a mobile challenge or verification inquiry with infrastructure data.

On April 14, 2022, the Task Force and OET released a Public Notice announcing procedures for approval of third-party mobile speed test applications for use in the BDC.

Also on April 14, 2022, the Task Force, WCB, WTB, OEA, and OET released a Public Notice providing details on the procedures for state, local, and Tribal governmental entities to submit verified availability data through the BDC system.

Additionally, on April 14, 2022, the Task Force, WCB, and OEA released a Public Notice announcing that fixed broadband service providers may access a preliminary version of the Fabric to assist them in preparing their broadband availability data in preparation for the inaugural BDC filing window beginning on June 30.

On May 13, 2022, the Competitive Carriers Association (CCA) filed a Petition for Declaratory Ruling or Limited Waiver (Petition) requesting that the Commission issue a declaratory ruling or clarify that the BDC filings may be certified by a qualified professional engineer or an otherwise-qualified engineer that is not a licensed professional engineer accredited by a state licensure board. On May 17, 2022, the Task Force, WTB, WCB, and OEA released a Public Notice seeking comment on CCA's Petition. On July 8, 2022, WTB, WCB, and OEA released a Declaratory Ruling and Limited Waiver clarifying the engineering rule and issuing a limited waiver of the engineering certification requirement.

On May 31, 2022, the Task Force launched an online help center and other new resources to help internet service providers and other filers of verified broadband availability data prepare their submissions for the inaugural BDC filing window. The new resources include video tutorials, technical assistance information, and an option to request additional assistance.

On June 15, 2022, the FCC Enforcement Bureau issued an Enforcement Advisory reminding all facilities-based broadband internet service providers of their duty to timely file complete and accurate data in the BDC by September 1, 2022.

On June 23, 2022, the Task Force, WCB, and OEA released a Public Notice announcing that the Fabric that will be used for the inaugural BDC is now available for broadband service providers and governmental entities to access.

Also on June 23, 2022, the Task Force released a Public Notice announcing early access to portions of the BDC system for filers to register in advance of the opening of the initial filing window.

On June 30, 2022, the Task Force released a Public Notice announcing the opening of the inaugural BDC filing window.

On July 1, 2022, the Task Force, WCB, and OEA released a Public Notice announcing the release of the document Data Specifications for Bulk Fabric Challenge Data and providing further details on which locations are considered Broadband Serviceable Locations.

On September 1, 2022, the Task Force, WCB, and OEA released a Public Notice announcing that as of September 12, 2022, state, local, and Tribal governments, service providers, and other entities can begin to file bulk challenges to data in the Fabric.

On September 15, 2022, the Task Force, WCB, and OEA issued a Public Notice announcing the release of the document Data Specifications for Bulk Fixed Availability Challenge and Crowdsource Data, which provides guidance as to the requirements in the Commission's rules and orders for filing bulk challenges, as well as bulk crowdsource information, to the fixed broadband availability data that will be published on the FCC's Broadband Maps as part of the BDC.

Also on September 15, 2022, the Task Force, WTB, OEA, and OET issued a Public Notice establishing procedures for mobile wireless broadband service providers, governmental entities, and other third parties to use their own hardware and software to submit on-the-ground speed test data as part of the mobile challenge and verification processes as part of the BDC.

Timetable:

Action | Date | FR Cite
NPRM | 08/03/17 | 82 FR 40118
NPRM Comment Period End | 09/25/17 |
Report & Order | 08/01/19 | 84 FR 43705
Second Further Notice of Proposed Rulemaking | 08/01/19 | 84 FR 43764
Second Further NPRM Comment Period End | 10/07/19 |
2nd R&O | 07/16/20 | 85 FR 50886
3rd FNPRM | 07/16/20 | 85 FR 50911
3rd FNPRM Comment Period End | 09/08/20 |
3rd R&O | 01/13/21 |
Public Notice | 07/16/21 | 86 FR 40398
Public Notice Comment Period End | 09/27/21 |
Order | 03/09/22 |
Next Action Undetermined

Regulatory Flexibility Analysis Required: Yes.

Agency Contact: Michael Ray, Attorney, Federal Communications Commission, Wireline Competition Bureau, 45 L Street NE, Washington, DC 20554, Phone: 202 418-0357, Email: michael.ray@fcc.gov.

RIN: 3060-AK93

573. Call Authentication Trust Anchor [3060-AL00]

Legal Authority: 47 U.S.C. 201; 47 U.S.C. 251; 47 U.S.C. 227; 47 U.S.C. 227b; 47 U.S.C. 503

Abstract: On June 6, 2019, the Commission adopted a Declaratory Ruling and Third Further Notice of Proposed Rulemaking (CG Docket No. 17-59, WC Docket No. 17-97) that proposed and sought comment on mandating implementation of STIR/SHAKEN in the event that major voice service providers did not voluntarily implement the framework by the end of 2019.

On December 30, 2019, Congress enacted the Pallone-Thune Telephone Robocall Abuse Criminal Enforcement and Deterrence (TRACED) Act. Along with numerous other provisions directed at addressing robocalls, the TRACED Act directs the Commission to require all voice service providers to implement STIR/SHAKEN in the internet Protocol (IP) portions of their networks, and to implement an effective caller ID authentication framework in the non-IP portions of their networks. The TRACED Act further creates processes by which voice service providers may be exempt from this mandate if the Commission determines they have achieved certain implementation benchmarks, and by which voice service providers may be granted a delay in compliance based on a finding of undue hardship because of burdens or barriers to implementation or based on a delay in development of a caller ID authentication protocol for calls delivered over non-IP networks.

On March 31, 2020, the Commission adopted a Report and Order and Further Notice of Proposed Rulemaking (WC Docket Nos. 17-97, 20-67). The Report and Order mandated that all originating and terminating voice service providers implement the STIR/SHAKEN caller ID authentication framework in the IP portions of their networks by June 30, 2021. In the Further Notice the Commission sought comment on proposals to further promote caller ID authentication and implement the TRACED Act.

On September 29, 2020, the Commission adopted a Second Report and Order (WC Docket No. 17-97). The Second Report and Order implemented rules (1) granting extensions for compliance with the STIR/SHAKEN implementation mandate for small voice service providers, voice service providers that cannot obtain a SPC token from the Governance Authority, services scheduled for section 214 discontinuance, for those portions of a voice service provider's network that rely on non-IP technology, and establishing a process for individual voice service providers to seek provider specific extensions; (2) requiring voice service providers using non-IP technology either to upgrade their networks to IP to enable STIR/SHAKEN implementation, or work to develop non-IP caller ID authentication technology and implement a robocall mitigation program in the interim; (3) establishing a process where by a voice service provider may be exempt from the STIR/SHAKEN implementation mandate if the provider has achieved certain implementation benchmarks; (4) prohibiting voice service providers from imposing line item charges on consumer and small business subscribers for caller ID authentication; and (5) requiring intermediate providers to implement STIR/SHAKEN. On May 20, 2021, the Commissioned released a Third Further Notice of Proposed Rulemaking proposing to shorten the small provider extension from two years to one for a subset of small voice service providers that are at a heightened risk of originating an especially large amount of robocall traffic.

On January 13, 2021, the Commission adopted a Second Further Notice of Proposed Rulemaking proposing and seeking comment on a limited role for the Commission to oversee certificate revocation decisions by the private STIR/SHAKEN Governance Authority that would have the effect of placing providers in noncompliance with the Commission's rules. On August 5, 2021, the Commission adopted a Third Report and Order which adopted rules creating this oversight role.

On September 30, 2021, the Commission adopted a Fourth Further Notice of Proposed Rulemaking proposing to require gateway providers to apply STIR/SHAKEN caller ID authentication to, and perform robocall mitigation on, foreign-originated calls with U.S. numbers, seeking comment on revisions to the information that filers must submit to the Robocall Mitigation Database, and clarifying the obligations of voice service providers and intermediate providers with respect to calls to and from Public Safety Answer Points and other emergency services providers.

On December 9, 2021, the Commission adopted a Fourth Report and Order adopting rules requiring non-facilities based small voice providers implement STIR/SHAKEN by June 30, 2022, and requiring small voice providers of any kind suspected of originating illegal robocalls to implement STIR/SHAKEN on an accelerated timeline.

On May 19, 2022, the Commission adopted a Fifth Report and Order, Order on Reconsideration, Order, and Fifth Further Notice of Proposed Rulemaking. The Fifth Report and Order and Order required gateway providers to submit a certification to the Robocall Mitigation Database, implement STIR/SHAKEN caller ID authentication as well as several other requirements, including an obligation to mitigate illegal robocall traffic and submit a mitigation plan to the Robocall Mitigation Database regardless of their STIR/SHAKEN implementation status. The Order on Reconsideration expanded the obligation of domestic providers to block calls carrying US NANP numbers from foreign providers not listed in the Robocall Mitigation Database. The Fifth Further Notice of Proposed Rulemaking sought comment on further steps to combat illegal robocalls, including extending requirements for authentication and filing in the Robocall Mitigation Database, requiring additional measures for robocall mitigation, enhancing enforcement mechanisms and other related issues aimed at closing existing potential loopholes.

Timetable:

Action | Date | FR Cite
NOI | 07/14/17 |
DR and 3rd FNPRM | 06/06/19 | 84 FR 29478
NPRM | 06/24/19 | 84 FR 29478
NPRM Comment Period End | 08/23/19 |
3rd FNPRM Comment Period End | 08/23/19 |
R&O and FNPRM | 03/31/20 | 85 FR 22029
FNPRM Comment Period End | 05/29/20 |
2nd R&O | 09/29/20 | 85 FR 73360
2nd FNPRM | 01/13/21 | 86 FR 9894
2nd FNPRM Comment Period | 03/19/21 |
3rd FNPRM | 05/20/21 | 86 FR 30571
3rd R&O | 08/05/21 | 86 FR 48511
3rd FNPRM Comment Period End | 08/19/21 |
4th FNPRM | 10/01/21 | 86 FR 59084
4th FNPRM Comment Period End | 11/26/21 |
4th R&O | 12/09/21 |
5th R&O, Order on Reconsideration | 05/19/22 | 87 FR 42916
5th FNPRM | 05/19/22 | 87 FR 42670
5th FNPRM Comment Period End | 05/19/22 |
Next Action Undetermined

Regulatory Flexibility Analysis Required: Yes.

Agency Contact: Jonathan Lechter, Attorney Advisor, Federal Communications Commission, Wireline Competition Bureau, 45 L Street NE, Washington, DC 20554, Phone: 202 418-0984, Email: jonathan.lechter@fcc.gov.

RIN: 3060-AL00

574. Implementation of the National Suicide Improvement Act of 2018 [3060-AL01]

Legal Authority: 47 U.S.C. 201; 47 U.S.C. 251

Abstract: On August 14, 2018, Congress passed the National Suicide Hotline Improvement Act (Act). Pub. L. 115-233, 132 Stat. 2424 (2018). The purpose of the Act was to study and report on the feasibility of designating a 3-digit dialing code to be used for a national suicide prevention and mental health crisis hotline system by considering each of the current N11 designations. The Act directed the Commission to: (1) conduct a study that examines the feasibility of designating a simple, easy-to-remember, 3-digit dialing code to be used for a national suicide prevention and mental health crisis hotline system; and (2) analyze how well the current National Suicide Prevention Lifeline is working to address the needs of veterans. The Act also directed the Commission to coordinate with the Department of Health and Human Services' Substance Abuse and Mental Health Services Administration (SAMHSA), the Secretary of Veterans Affairs, and the North American Numbering Council (NANC) in conducting the study, and to produce a report on the study by August 14, 2019.

On August 14, 2019, the Wireline Competition Bureau and Office of Economics and Analytics submitted its report to Congress recommending that: (1) a 3-digit dialing code be used for a national suicide prevention and mental health crisis hotline system; and (2) the Commission should initiate a rulemaking proceeding to consider designating 988 as the 3-digit code.

On December 12, 2019, the Commission released a notice of proposed rulemaking (NPRM) proposing to designate 988 as a new, nationwide, 3-digit dialing code for a suicide prevention and mental health crisis hotline. WC Docket No. 18-336. The NPRM proposes that calls made to 988 be directed to the existing National Suicide Prevention Lifeline, which is made up of an expansive network of over 170 crisis centers located across the United States, and to the Veterans Crisis Line. The NPRM also proposes to require all telecommunications carriers and interconnected VoIP service providers to make, within 18 months, any changes necessary to ensure that users can dial 988 to reach the National Suicide Prevention Lifeline and Veterans Crisis Line.

On July 16, 2020, the Commission adopted an Order designating 988 as the 3-digit number to reach the Lifeline and Veterans Crisis Line (800-273-TALK or 800-273-8255) and requiring all telecommunications carriers, interconnected voice over internet Protocol (VoIP) providers, and one-way VoIP providers to make any network changes necessary to ensure that users can dial 988 to reach the Lifeline by July 16, 2022.

On October 16, 2020, the Communications Equality Advocates filed a petition for partial reconsideration of the FCC's July 16, 2020 Report and Order. In their petition, Communications Equality Advocates requested that the FCC revise the Order to mandate text-to-988 and direct video calling (DVC) requirements and to have such requirements be implemented on the same timeline as voice calls to 988, by July 16, 2022.

On October 17, 2020, Congress enacted the National Suicide Hotline Designation Act of 2020 (2020 Act). Public Law 116-172, 134 Stat. 832 (2020). The 2020 Act, among other things, designates 988 as the universal telephone number within the United States for the purpose of the national suicide prevention and mental health crisis hotline system operating through the National Suicide Prevention Lifeline,” with designation occurring one year after enactment.

On November 9, 2020, pursuant to 2020 Act's requirements that the Commission submit a report on the feasibility and cost of attaching an automatic dispatchable location with 988 calls, the Commission issued a Public Notice that sought comment on these issues.

On April 22, 2021 the Commission adopted a Further Notice of Proposed Rulemaking (FNPRM) that proposes to require text service providers support text messages to 988 by routing texts to the toll free number.

On November 19, 2020, pursuant to 2020 Act's requirements that the Commission submit a report on the feasibility and cost of attaching an automatic dispatchable location with 988 calls, the Commission issued a Public Notice that sought comment on these issues. A Report to Congress regarding geolocation was released on April 15, 2021.

On April 22, 2021 the Commission adopted a Further Notice of Proposed Rulemaking (FNPRM) that proposes to require text service providers support text messages to 988 by routing texts to the toll free number. On November 19, 2021, the Commission adopted an Order requiring the industry to enable texting to 988 by the same deadline as for voice calls, July 16, 2022.

On May 24, 2022, the Commission, following up on its report to Congress, hosted a forum in coordination with the U.S. Department of Health and Human Services and the U.S. Department of Veterans Affairs that convened various stakeholders to discuss issues surrounding geolocation. Participants included state and local entities; suicide prevention and mental health experts and advocates; communications industry leaders; and technical experts. The Commission opened the event to the public via live feed on the Commission's website, and audience members submitted questions to panelists by email.

Timetable:

Action | Date | FR Cite
NPRM | 01/15/20 | 85 FR 2359
NPRM Comment Period End | 03/16/20 |
Report & Order | 07/16/20 |
PFR | 10/16/20 |
Oppositions Due | 12/02/20 |
Public Notice | 12/08/20 | 85 FR 79014
Replies Due | 12/14/20 |
Public Notice Comment Period End | 01/11/21 |
FNPRM | 06/11/21 | 86 FR 31404
FNPRM Comment Period End | 08/10/21 |
Report & Order | 11/19/21 |
Next Action Undetermined

Regulatory Flexibility Analysis Required: Yes.

Agency Contact: Michelle Sclater, Attorney, Wireline Competition Bureau, Federal Communications Commission, Wireline Competition Bureau, 45 L Street NE, Washington, DC 20554, Phone: 202 418-0388, Email: michelle.sclater@fcc.gov.

RIN: 3060-AL01

575. Modernizing Unbundling and Resale Requirements in an Era of Next-Generation Networks and Services [3060-AL02]

Legal Authority: 47 U.S.C. 10; 47 U.S.C. 251

Abstract: On November 22, 2019, the Commission adopted a Notice of Proposed Rulemaking (NPRM) seeking comment on proposals to update the unbundling and avoided-cost resale obligations stemming from the 1996 Act and applicable only to incumbent LECs. Many of these obligations appear to no longer be necessary in many geographic areas due to vigorous competition for mass market broadband services in urban areas and numerous intermodal voice capabilities and services. But recognizing that rural areas pose special challenges for broadband deployment, the NPRM did not propose any change to unbundling requirements for broadband-capable loops in rural areas. The NPRM sought to promote the Commission's efforts to reduce unnecessary and outdated regulatory burdens that appear to discourage the deployment of next-generation networks, delay the IP transition, unnecessarily burden incumbent LECs with no similar obligations placed on their competitors, and no longer benefit consumers or serve the purpose for which they were intended.

On October 27, 2020, the Commission adopted a Report and Order (1) eliminating unbundling requirements, subject to a reasonable transition period, for enterprise-grade DS1 and DS3 loops where there is evidence of actual and potential competition, for broadband-capable DS0 loops and associated subloops in the most densely populated areas, and for voice-grade narrowband loops nationwide, but preserving unbundling requirements for DS0 loops in less densely populated areas and DS1 and DS3 loops in areas without sufficient evidence of competition; (2) eliminating unbundling requirements for network interface devices and multiunit premises subloops; (3) eliminating unbundled dark fiber transport provisioned from wire centers within a half-mile of competitive fiber networks, but providing an eight-year transition period for existing circuits so as to avoid stranding investment and last-mile deployment by competitive LECs that may harm consumers; (4) eliminating unbundling requirements for operations support systems, except where carriers are continuing to manage UNEs and for purposes of local interconnection and local number portability; and (5) eliminating remaining avoided-cost resale requirements. The Report and Order ended unbundling and resale requirements where they stifle technology transitions and broadband deployment, but preserved unbundling requirements where they are still necessary to realize the 1996 Act's goal of robust intermodal competition benefiting all Americans.

Timetable:

Action | Date | FR Cite
NPRM | 01/06/20 | 85 FR 472
NPRM Comment Period End | 03/06/20 |
Report & Order | 01/08/21 | 86 FR 1636
Petition for Reconsideration filed by Sonic Telecom | 09/29/22 |
Replies to Oppositions to Petition for Reconsideration | 10/04/22 |
Next Action Undetermined

Regulatory Flexibility Analysis Required: Yes.

Agency Contact: Michele Berlove, Assistant Division Chief, Competition Policy Div., WCB, Federal Communications Commission, Wireline Competition Bureau, 45 L Street NE, Washington, DC 20554, Phone: 202 418-1477, Email: michele.berlove@fcc.gov.

RIN: 3060-AL02

576. Establishing a 5G Fund for Rural America; GN Docket No. 20-32 [3060-AL15]

Legal Authority: 47 U.S.C. 154(i); 47 U.S.C. 214; 47 U.S.C. 254; 47 U.S.C. 303(r); 47 U.S.C. 403

Abstract: The 5G Fund for Rural America will distribute up to $9 billion in universal service support through competitive bidding in two phases to bring mobile voice and 5G broadband service to rural areas of the country. 5G public interest obligations and performance requirements imposed on carriers continuing to receive legacy mobile high-cost support will help ensure that the areas they serve enjoy the benefits that 5G promises.

Timetable:

Action | Date | FR Cite
NPRM | 05/26/20 | 85 FR 31616
Final Action | 11/25/20 | 85 FR 75770x
Next Action Undetermined

Regulatory Flexibility Analysis Required: Yes.

Agency Contact: Kirk Burgee, Chief of Staff, Wireline Competition Bureau, Federal Communications Commission, 45 L Street NE, Washington, DC 20554, Phone: 202 418-1599, Email: kirk.burgee@fcc.gov.

RIN: 3060-AL15

577. Improving Competitive Broadband Access to Multiple Tenant Environments [3060-AL35]

Legal Authority: 47 U.S.C. 151-54, 201(b), 303(r), 521(4), 521(6), 544(i), and 548

Abstract: In June 2017, the Commission issued a Notice of Inquiry seeking comment on the state of broadband competition in multiple tenant environments (MTEs) and whether additional Commission action in this area is warranted to eliminate or reduce barriers faced by broadband providers that seek to serve MTE occupants. In July 2019, the Commission issued a Notice of Proposed Rulemaking seeking further targeted comment on a variety of issues that may affect the provisioning of broadband to MTEs, including exclusive marketing and wiring arrangements, revenue sharing agreements, state and local regulations, and the Commission's legal authority to address broadband, telecommunications, and video deployment and competition in MTEs. In February 2022, the Commission adopted a Report and Order and Declaratory Ruling that (1) adopted new rules prohibiting providers from entering into certain types of revenue sharing agreements that are used to evade our existing rules; (2) adopted new rules requiring providers to disclose the existence of exclusive marketing arrangements in simple, easy-to-understand language; and (3) clarified that existing Commission rules regarding cable inside wiring prohibit so-called sale-and-leaseback arrangements which effectively deny access to alternative providers. In taking these actions, the Commission is promoting tenant choice and competition in the provision of communications services to the benefit of those who live and work in MTEs.

Timetable:

Action | Date | FR Cite
Notice of Inquiry | 06/22/17 |
Notice of Inquiry Comment Period End | 08/22/17 |
NPRM | 07/31/19 | 84 FR 37219
NPRM Comment Period End | 09/30/19 |
Report & Order, Declaratory Ruling | 03/28/22 | 87 FR 17181
Next Action Undetermined

Regulatory Flexibility Analysis Required: Yes.

Agency Contact: Matthew Collins, Deputy Division Chief, Wireline Competition Bureau, Federal Communications Commission, Wireline Competition Bureau, 45 L Street NE, Washington, DC 20554, Phone: 202 418-7141, Email: matthew.collins@fcc.gov.

RIN: 3060-AL35

FEDERAL COMMUNICATIONS COMMISSION (FCC)

Wireline Competition Bureau

Completed Actions

578. IP-Enabled Services; WC Docket No. 04-36 [3060-AI48]

Legal Authority: 47 U.S.C. 151 and 152; . . .

Abstract: The notice seeks comment on ways in which the Commission might categorize or regulate IP-enabled services. It poses questions regarding the proper allocation of jurisdiction over each category of IP-enabled service. The notice then requests comment on whether the services comprising each category constitute “telecommunications services” or “information services” under the definitions set forth in the Act. Finally, noting the Commission's statutory forbearance authority and title I ancillary jurisdiction, the notice describes a number of central regulatory requirements (including, for example, those relating to access charges, universal service, E911, and disability accessibility), and asks which, if any, should apply to each category of IP-enabled services.

Timetable:

Action | Date | FR Cite
NPRM | 03/29/04 | 69 FR 16193
NPRM Comment Period End | 07/14/04 |
First R&O | 06/03/05 | 70 FR 37273
Public Notice | 06/16/05 | 70 FR 37403
First R&O Effective | 07/29/05 | 70 FR 43323
Public Notice | 08/31/05 | 70 FR 51815
R&O | 07/10/06 | 71 FR 38781
R&O and FNPRM | 06/08/07 | 72 FR 31948
FNPRM Comment Period End | 07/09/07 | 72 FR 31782
R&O | 08/06/07 | 72 FR 43546
Public Notice | 08/07/07 | 72 FR 44136
R&O | 08/16/07 | 72 FR 45908
Public Notice | 11/01/07 | 72 FR 61813
Public Notice | 11/01/07 | 72 FR 61882
Public Notice | 12/13/07 | 72 FR 70808
Public Notice | 12/20/07 | 72 FR 72358
R&O | 02/21/08 | 73 FR 9463
NPRM | 02/21/08 | 73 FR 9507
Order | 05/15/08 | 73 FR 28057
Order | 07/29/09 | 74 FR 37624
R&O | 08/07/09 | 74 FR 39551
Public Notice | 10/14/09 | 74 FR 52808
Announcement of Effective Date | 03/19/10 | 75 FR 13235
Public Notice | 05/20/10 | 75 FR 28249
Public Notice | 06/11/10 | 75 FR 33303
NPRM, Order, & NOI | 06/19/13 | 78 FR 36679
R&O | 10/29/15 | 80 FR 66454
Erratum | 01/11/16 | 81 FR 1131
Announcement of Effective Date | 02/24/16 | 81 FR 5920
Withdrawn | 10/12/22 |

Regulatory Flexibility Analysis Required: Yes.

Agency Contact: Melissa Kirkel, Deputy Division Chief, Wireline Competition Bureau, Federal Communications Commission, Wireline Competition Bureau, 45 L Street NE, Washington, DC 20554, Phone: 202 418-7958, Fax: 202 418-1413, Email: melissa.kirkel@fcc.gov.

RIN: 3060-AI48

[FR Doc. 2023-02039 Filed 2-21-23; 8:45 am]

BILLING CODE 6712-01-P